DEPARTMENT OF EDUCATION

34 CFR Parts 612 and 686

[Docket ID ED-2014-OPE-0057]

RIN 1840-AD07

Teacher Preparation Issues

AGENCY: Office of Postsecondary Education, Department of Education.

ACTION: Notice of proposed rulemaking.

SUMMARY: The Secretary proposes new regulations to implement requirements for the teacher preparation program accountability system under title II of the Higher Education Act of 1965, as amended (HEA), that would result in the development and distribution of more meaningful data on teacher preparation program quality (title II reporting system). The Secretary also proposes to amend the regulations governing the Teacher Education Assistance for College and Higher Education (TEACH) Grant Program under title IV of the HEA so as to condition TEACH Grant program funding on teacher preparation program quality and to update, clarify, and improve the current regulations and align them with title II reporting system data.

DATES: We must receive your comments on or before February 2, 2015.

ADDRESSES: Submit your comments through the Federal eRulemaking Portal or via postal mail, commercial delivery, or hand delivery. We will not accept comments by fax or by email. To ensure that we do not receive duplicate copies, please submit your comments only one time. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about these proposed regulations, address them to Sophia McArdle, U.S. Department of Education, 1990 K Street NW., Room 8017, Washington, DC 20006.

Privacy Note: The Department's policy is to make all comments received from members of the public available for public viewing in their entirety on the Federal eRulemaking Portal at www.regulations.gov. Therefore, commenters should be careful to include in their comments only information that they wish to make publicly available.

FOR FURTHER INFORMATION CONTACT: Sophia McArdle, U.S. Department of Education, 1990 K Street NW., Room 8017, Washington, DC 20006. Telephone: (202) 219-7078 or by email: sophia.mcardle@ed.gov.

If you use a telecommunications device for the deaf (TDD) or a text telephone (TTY), call the Federal Relay Service (FRS), toll free, at 1-800-877-8339.

SUPPLEMENTARY INFORMATION:

Executive Summary

Purpose of This Regulatory Action

Section 205 of the HEA requires States and institutions of higher education (IHEs) annually to report on various characteristics of their teacher preparation programs. These reporting requirements exist in part to ensure that members of the public, prospective teachers and employers (districts and schools), and the States, IHEs, and programs themselves have accurate information on the quality of these teacher preparation programs. These requirements also provide an impetus to States and IHEs to make improvements where they are needed and recognize excellence where it exists. Thousands of new teachers enter the profession every year, and their students depend on having well-prepared teachers.

Research from States such as Louisiana, Tennessee, North Carolina, and Washington has concluded that a teacher's preparation program significantly impacts the learning gains of a teacher's students.¹ Statutory reporting requirements on teacher preparation program quality for States and IHEs are broad. The Department's existing reporting framework has not ensured sufficient quality feedback to various stakeholders on program performance. States must report on the criteria they use to assess whether teacher preparation programs are low-performing or at-risk of being found to be low-performing, but it is difficult to identify programs deserving of recognition or in need of remediation or closure because few of the reporting requirements ask for information indicative of program quality. The Secretary is committed to ensuring that the measures by which States judge the quality of teacher preparation programs reflect the true quality of these programs and provide information that facilitates program self-improvement, and by extension, student achievement.

¹ See, for example, Tennessee Higher Education Commission, “Report Card on the Effectiveness of Teacher Training Programs,” Nashville, TN (2010); Dan Goldhaber, et al. “The Gateway to the Profession: Assessing Teacher Preparation Programs Based on Student Achievement.” Economics of Education Review, 34 (2013), pp. 29-44.

These proposed regulations would address shortcomings in the current system by defining the indicators of quality that States will use to assess the performance of their teacher preparation programs, including more meaningful indicators of program inputs and program outcomes, such as the ability of the program's graduates to produce gains in student learning (understanding that not all students will learn at the same rate). To maintain alignment with definitions we use in other Departmental initiatives and to maintain consistency for the various entities that work with the Department, including States and school districts, we propose definitions that are almost identical to definitions used in initiatives such as ESEA Flexibility, the Teacher Incentive Fund, and Race to the Top. These proposed regulations would build on current State systems and create a much-needed feedback loop to facilitate program improvement and provide valuable information to prospective teachers, potential employers, and the general public.

These proposed regulations would also link assessments of program performance under title II to eligibility for the Federal TEACH Grant program. The TEACH Grant program, authorized by section 420M of the HEA, provides grants to eligible IHEs, which in turn, use the funds to provide grants of up to $4,000 annually to eligible teacher preparation candidates who agree to serve as full-time teachers in high-need fields and schools for not less than four academic years within eight years after completing their courses of study. If a TEACH Grant recipient fails to complete his or her service obligation, the grant is converted into a Federal Direct Unsubsidized Stafford Loan and must be repaid with interest.

Pursuant to section 420L(1)(A) of the HEA, a teacher preparation program must provide high-quality teacher preparation in order to be eligible to award TEACH Grants. However, of the 38 programs identified by States as “low-performing” or “at-risk,” 22 programs were based in IHEs participating in the TEACH Grant program. These proposed regulations would limit TEACH Grant eligibility to only those programs that States have identified as “effective” or higher.

Please refer to the Background and Significant Proposed Regulations sections of this preamble for a more complete discussion of the purpose of this regulatory action.

Summary of the Major Provisions of This Regulatory Action: The proposed regulations would—

• Establish necessary definitions, requirements for IHEs and States on the quality of teacher preparation programs, and requirements that States develop measures for assessing teacher preparation performance. The proposed regulations would support the Administration's goal of measuring program performance based on meaningful indicators.

• Establish required indicators that States must use to report on teacher preparation program performance and, in doing so, ensure that the quality of teacher preparation programs is judged on reliable and valid indicators of program performance.

• Establish the required areas States must consider in identifying low-performing and at-risk teacher preparation programs, the actions States must take with respect to those programs, and the consequences for a low-performing program that loses State approval or financial support. These proposed regulations would also establish the conditions under which a program that loses State approval or financial support would regain its eligibility for title IV, HEA funding.

• Establish a link between the State's classification of a teacher preparation program under the title II reporting system and that program's identification as “high-quality” for TEACH Grant eligibility purposes. The proposed regulations would support Congress's intent and the Administration's goal of ensuring that only high-quality teacher preparation programs may award TEACH Grants.

• Establish provisions that would allow TEACH Grant recipients to satisfy the requirements of their agreement to serve by teaching in a high-need field that was designated as high-need at the time of the grant.

• Establish conditions that would allow TEACH Grant recipients to discharge the requirements of their agreements to serve if they are totally and permanently disabled. The proposed regulations would also establish conditions that would allow these recipients to regain eligibility for new TEACH Grants under certain circumstances.

Please refer to the Significant Proposed Regulations section of this preamble for a more complete discussion of the major provisions contained in this NPRM. Please refer to the Delayed Implementation Date and Revised Reporting Calendar section of this preamble for a schedule of when these regulations would affect State and institutional reporting.

Costs and Benefits

Chart 1 summarizes the proposed regulations and related benefits, costs, and transfers that are discussed in more detail in the Regulatory Impact Analysis section of this preamble. Significant benefits of these proposed regulations include an improved accountability system that would enable prospective teachers to make more informed choices about their enrollment in a teacher preparation program and employers of prospective teachers to make more informed hiring decisions. Further, the proposed regulations would also create incentives for States and IHEs to monitor and continuously improve the quality of their teacher preparation programs, informed by more meaningful data. Most importantly, elementary and secondary school students would benefit from these proposed regulations because the feedback loop created would lead to better prepared, higher quality teachers in classrooms, especially for students in high-need schools and communities who are disproportionately taught by newer teachers.

The net budget impact of the proposed regulations is approximately $0.67 million in reduced costs over the TEACH Grant cohorts from 2014 to 2024. We estimate that the total cost annualized over 10 years of these regulations would be between $42.0 million and $42.1 million (see the Accounting Statement section of this document).

Invitation To Comment

As discussed in the section of this notice entitled Negotiated Rulemaking, through a series of three regional hearings and four negotiated rulemaking sessions, there has been significant public participation in developing this notice of proposed rulemaking. In accordance with the requirements of the Administrative Procedure Act, the Department invites you to submit comments regarding these proposed regulations. To ensure that your comments have maximum effect in developing the final regulations, we urge you to identify clearly the specific section or sections of the proposed regulations that each of your comments addresses and to arrange your comments in the same order as the proposed regulations.

We invite you to assist us in complying with the specific requirements of Executive Order 12866 and 13563 and their overall requirement of reducing regulatory burden that might result from these proposed regulations. Please let us know of any further ways we could reduce potential costs or increase potential benefits while ensuring the effective, efficient, and faithful administration of the title II reporting system and TEACH Grant program.

During and after the comment period, you may inspect all public comments regarding these proposed regulations by accessing Regulations.gov. You may also inspect comments, in person, in room number 8022, 1990 K Street NW., Washington, DC, between 8:30 a.m. and 4:00 p.m. Washington, DC time, Monday through Friday of each week except Federal holidays. Please contact the person listed under FOR FURTHER INFORMATION CONTACT.

Assistance to Individuals With Disabilities in Reviewing the Rulemaking Record

On request we will provide an appropriate accommodation or auxiliary aid to an individual with a disability who needs assistance to review the comments or other documents in the public rulemaking record for these proposed regulations. If you want to schedule an appointment for this type of accommodation or auxiliary aid, please contact the person listed under FOR FURTHER INFORMATION CONTACT.

Negotiated Rulemaking

Section 492 of the HEA requires the Secretary, before publishing any proposed regulations for programs authorized by title IV of the HEA, to obtain public involvement in the development of the proposed regulations. After obtaining advice and recommendations from individuals and representatives of groups involved in, or affected by, the proposed regulations, the Secretary must further develop the proposed regulations through a negotiated rulemaking process. In addition, section 207(c) of the HEA requires the Secretary to submit any proposed regulations implementing section 207(b)(2) to a negotiated rulemaking process. These proposed regulations would implement section 207(b)(2) of the HEA, which provides that any teacher preparation program from which a State has withdrawn approval or terminated financial support due to low performance may not accept or enroll any student who receives aid under title IV of the HEA in the IHE's teacher preparation program.

All proposed regulations that the Department publishes must conform to final agreements resulting from the negotiated rulemaking process unless the Secretary reopens the process or provides a written explanation to the participants stating why the Secretary has decided to depart from the agreements. Further information on the negotiated rulemaking process may be found at: http://www2.ed.gov/policy/highered/reg/hearulemaking/hea08/neg-reg-faq.html.

The Department developed a list of proposed regulatory changes from advice and recommendations submitted by individuals and organizations in testimony at a series of three public hearings and four roundtable discussions held on:

May 12, 2011, at Tennessee State University in Nashville, Tennessee (roundtable only);

May 16-17, 2011, at Pacific Lutheran University in Tacoma, Washington;

May 19-20, 2011, at Loyola University, Lake Shore Campus in Chicago, Illinois; and

May 26-27, 2011, at the College of Charleston in Charleston, South Carolina.

In addition, the Department accepted written comments on possible regulatory changes submitted directly to the Department by interested parties and organizations. Transcripts of all regional meetings and a summary of all comments received orally and in writing are posted as background material in the Regulations.gov docket and may also be accessed at http://www2.ed.gov/policy/highered/reg/hearulemaking/2011/hearings.html. Staff within the Department also identified issues for discussion and negotiation by the negotiated rulemaking committee.

On October 26, 2011, the Department published a notice in the Federal Register (76 FR 66248) announcing our intent to establish a negotiated rulemaking committee to prepare proposed regulations under titles II and IV of the HEA. The notice requested nominations of individuals for membership on the committee who could represent the interests of key stakeholders.

To develop proposed regulations, the Teacher Preparation Issues Committee (the Committee) met in three face-to-face sessions that took place on: January 18-20, 2012; February 27-29, 2012; and April 3-5, 2012. The Committee met in an additional fourth session that was conducted via a webinar on April 12, 2012.

At the first meeting, the Committee agreed on the protocols for the negotiations. The protocols provided that, for each community identified as having interests that were significantly affected by the subject matter of the negotiations, the non-Federal negotiators would represent the constituency listed before their names in the protocols to the negotiated rulemaking process.

The Committee was made up of the following members:

Eric Mann, Sandpoint High School, Idaho, and Eric Gregoire (alternate), Boston University School of Education, representing postsecondary students.

Katie Hartley, Miami East Junior High, Ohio, and Qualyn McIntyre (alternate), Atlanta Urban Teacher Residency, representing teachers.

Segun Eubanks, National Education Association, and James Alouf (alternate), Association of Teacher Educators, representing organizations that represent teachers and teacher educators.

Joseph Pettibon, Texas A&M University, and David Smedley (alternate), The George Washington University, representing financial aid administrators at postsecondary institutions.

Julie Karns, Rider University, and Karl Brockenbrough (alternate), Bowie State University, representing business officers and bursars at postsecondary institutions.

George Noell, Louisiana State University, and Vance Rugaard (alternate), Tennessee Office of Licensing, representing State officials.

Glenn DuBois, Virginia Community Colleges, and Ray Ostos (alternate), Maricopa Community College, representing two-year public institutions.

David Steiner, Hunter College, and Ronald Marx (alternate), University of Arizona, representing four-year public institutions.

David Prasse, Loyola University Chicago, and Mary Kay Delaney (alternate), Meredith College, representing private nonprofit institutions.

Meredith Curley, University of Phoenix, and Bonnie Copeland (alternate), Walden University, representing private for-profit institutions.

Cindy O'Dell, Salish Kootenai College, representing tribal institutions.

Leontye Lewis, Fayetteville State University, and VerJanis Peoples (alternate), Southern University of Louisiana, representing Historically Black Colleges and Universities (HBCUs).

Beverly Young, California State University System, and Michael Morehead (alternate), New Mexico State University, representing Hispanic-Serving Institutions (HSIs).

Heather Harding, Teach for America, and Diann Huber (alternate), iteachU.S., representing operators of programs for alternative routes to teacher certification.

Jim Cibulka, National Council for the Accreditation of Teacher Education and the Council for Accreditation of Educator Preparation, and Frank Murray (alternate), Teacher Education Accreditation Council and the Council for Accreditation of Educator Preparation, representing accrediting agencies.

Sarah Almy, Education Trust, and Charmaine Mercer (alternate), Communities for Teaching Excellence, representing elementary and secondary students and parents.

Thalia Nawi, Denver Teacher Residency, Denver Public Schools, representing school and local education agency (LEA) officials.

Sophia McArdle, U.S. Department of Education, representing the Federal Government.

The Committee's protocols provided that the Committee would operate by consensus, defined to mean unanimous agreement; that is, no dissent by any member of the Committee. Under the protocols, if the Committee reached final consensus, the Department would use the consensus language in the proposed regulations and members of the Committee and the organizations whom they represented would refrain from commenting negatively on the package.

During its meetings, the Committee reviewed and discussed drafts of the proposed regulations. At the final meeting in April 2012, the Committee did not reach consensus on the proposed regulatory changes discussed at that meeting, which are now the subject of the proposed regulations in this NPRM.

More information on the work of this Committee may be found at: http://www2.ed.gov/policy/highered/reg/hearulemaking/2011/teacherprep.html.

This NPRM proposes regulations relating to the teacher preparation program accountability system under title II of the HEA and the TEACH Grant program under title IV of the HEA as discussed by the Committee.

Background

In title II of the HEA, as amended in 2008 by the Higher Education Opportunity Act (Pub. L. 110-315), Congress enacted detailed public reporting requirements for States and IHEs that conduct traditional or alternative route teacher preparation programs. Section 205(a) requires each IHE that conducts a teacher preparation program and that enrolls students receiving Federal assistance provided under the HEA to report annually on specified information about its teacher preparation programs to its State and the general public. Similarly, section 205(b) requires each State that receives HEA funding to report annually to the Secretary and the general public specified information about those teacher preparation programs, as well as other information about State certification or licensure requirements and the teaching needs of LEAs. Section 205(c) requires the Secretary to report annually to Congress on the content of these State reports, including a comparison of States' efforts to improve the quality of the current and future teaching force.

These IHE and State reporting requirements cover a wide range of information about a State's teacher preparation programs and new teacher certification or licensure process. IHEs must report on areas that include the characteristics of students' clinical experiences, pass rates of students who take assessments needed to become teachers, and how well the programs are meeting their goals in specified areas, such as addressing needs of English language learners and students with special education needs. States must also report on their certification or licensure procedures, the validity and reliability of assessments that the State requires for teacher certification or licensure, the availability of alternative route programs, the pass rates for students of each teacher preparation program on the State certification and licensure assessments, and the students' scaled scores on those assessments.

In section 205(b)(1)(F) of the HEA, Congress required States to continue annually to provide a “description of their criteria for assessing the performance of teacher preparation programs within institutions of higher education in the State” and required that “[s]uch criteria shall include indicators of the academic content knowledge and teaching skills of students enrolled in such programs.” As with all other elements of these reports, States must report their criteria for assessing the performance of teacher preparation programs “in a uniform and comprehensible manner that conforms to the definitions and methods established by the Secretary” (HEA § 205(b)). Further, section 207(a) of the HEA requires States to disclose in their annual reports those teacher preparation programs that they had identified as either low-performing or at-risk of being considered low-performing, and to provide technical assistance to those they identified as low-performing. Section 207(b) requires the loss of Federal financial support to any teacher preparation program for which the State has withdrawn its approval or terminated State financial support. Section 205(c) directs the Secretary to establish regulations to ensure the validity, reliability, integrity and accuracy of data submitted.

The statutory reporting requirements for States and IHEs in section 205(a) and (b) are thus extensive, with a chief purpose of improving the overall quality of teacher preparation programs and the programs' ability to produce teachers who are well-prepared to teach when they enter the classroom. See, e.g., H. Rep. 100-803, the House-Senate conference report accompanying H.R. 4137, which was enacted as Pub. L. 110-315.

Notwithstanding the focus that Congress has placed on improving the quality of new teachers produced by teacher preparation programs and improving or closing programs that are low-performing, these State and IHE reporting requirements have not produced information that is sufficiently helpful to programs, the public, or the Secretary in improving low-performing teacher preparation. To date, the Department has relied exclusively upon each State to establish, implement, and report upon its own criteria and indicators thereof for determining the effectiveness of teacher preparation programs in that State and for identifying and improving low-performing teacher preparation programs. In 2011, the most recent year for which data are available, States identified only 38 teacher preparation programs as low-performing or at-risk. Twenty-nine of these programs were identified as at-risk and nine were designated as low-performing. Thirty-two of the 38 low-performing or at-risk teacher preparation programs were located in traditional teacher preparation institutions, and six were alternative route teacher preparation programs not based at an IHE. Additionally, of the 38 programs identified by States as low-performing or at-risk, 22 were based in IHEs that participate in the TEACH Grant Program. Over the last dozen years, 34 States have never identified a single low-performing or at-risk program at a single IHE.²

² See the Secretary's annual reports at: https://title2.ed.gov/Public/SecReport.aspx.

The data that are collected and reported have not led to an identification of significant improvements in teacher preparation program performance in part because the data are not based on meaningful indicators of program effectiveness. Rather than focusing on outcome measures of program quality, the title II reporting system currently relies on States to establish their own indicators of program effectiveness, while at the same time directing States and IHEs to fill out annual questionnaires having a combined total of almost 600 fields. There are more than 400 fields in the State report card (SRC) and more than 150 fields in the institutional report card (IRC). These questions focus heavily on teacher preparation program inputs—such as admission requirements (including whether a program applicant must submit a resume as a condition of admission), student demographic information, and clock-hour requirements for participation in the program's supervised clinical experience—and not on outcomes or program impact.

Through these proposed regulations, the Department aims to provide teacher preparation programs, local educational agencies (LEAs), prospective teachers, and the general public with access to more meaningful indicators of teacher preparation program performance. These indicators would be based not only on program inputs but also program outcomes, including the ability of the program's graduates to produce gains in student learning. These indicators would also include employment outcomes such as placement and retention rates of program graduates and survey data from past graduates and their employers. Creating a feedback loop between school districts and higher education will not only facilitate program improvement, but will also provide information that can be used, for example, by potential employers to guide their hiring decisions and by prospective teachers to guide their application decisions.

The Department also intends to use information gathered through the title II reporting system to determine institutional and program eligibility for the Federal TEACH Grant program. Authorized under title IV of the HEA, the TEACH Grant program provides aid to students at IHEs who are preparing to become teachers. Pursuant to section 420L(1)(a) of the HEA, eligible IHEs must provide “high-quality” teacher preparation services at the baccalaureate, post-baccalaureate, or master's degree level to be eligible for TEACH Grants (see 34 CFR part 686 for the regulations governing this program). In exchange for a TEACH Grant, a student must teach in a low-income school and in a high-need field for four years. The student must complete the service obligation within eight years of completing the program for which the student obtained the grant, or the student's TEACH Grant converts to a Federal Direct Unsubsidized Stafford Loan.

The term “high-quality teacher preparation program,” which is used in section 420L(1)(A) of the HEA and throughout part 686 pertaining to the TEACH Grant program, is not currently defined by statute or in the TEACH Grant program regulations. The Department seeks to define “high-quality teacher preparation program” in part because, of the 38 programs identified by States as “low-performing” or “at-risk,” 22 programs were based in IHEs participating in the TEACH Grant program. Further, based on data from national surveys and existing teacher loan forgiveness programs, the Department currently estimates that approximately 75 percent of participating students will not complete the required service obligation. The Department intends to limit TEACH Grants to students enrolled in teacher preparation programs deemed by States to be of “effective” quality or higher in part because we believe that a larger percentage of TEACH Grant recipients will be able to fulfill their service obligations if they have been prepared by strong teacher preparation programs that: (1) Provide to prospective teachers the knowledge and skills necessary to succeed in the classroom; and (2) have high placement and retention rates.

Summary of Proposed Changes

These proposed regulations would establish specific indicators that States would use to assess and report on the quality of teacher preparation programs under the title II reporting system. The indicators would ensure the collection of more meaningful data that can be used to improve teacher preparation programs. These proposed regulations also would amend the TEACH Grant program regulations to link TEACH Grant program eligibility to the determinations of quality made and reported by States under the title II reporting system.

These proposed regulations would address teacher preparation issues by:

• Establishing definitions for the terms “at-risk teacher preparation program,” “candidate accepted into a teacher preparation program,” “candidate enrolled in a teacher preparation program,” “content and pedagogical knowledge,” “effective teacher preparation program,” “employer survey,” “employment outcomes,” “exceptional teacher preparation program,” “high-need school,” “low-performing teacher preparation program,” “new teacher,” “quality clinical preparation,” “recent graduate,” “rigorous teacher candidate entry and exit qualifications,” “student achievement in non-tested grades and subjects,” “student achievement in tested grades and subjects,” “student growth,” “student learning outcomes,” “survey outcomes,” “teacher evaluation measure,” “teacher placement rate,” “teacher preparation entity,” “teacher preparation program,” “teacher retention rate,” and “teacher survey” (see proposed § 612.2(d)).

• Establishing reporting requirements for IHEs on the quality of their teacher preparation programs (see proposed § 612.3).

• Establishing reporting requirements for States on the quality of teacher preparation programs, and requirements that States develop measures for assessing the performance of teacher preparation programs in consultation with stakeholders (see proposed § 612.4).

• Establishing requirements related to the indicators States must use to report on teacher preparation program performance (see proposed § 612.5).

• Establishing requirements related to the areas States must consider in identifying low-performing and at-risk teacher preparation programs and the actions States must take with respect to those programs (see proposed § 612.6).

• Establishing the consequences for a low-performing teacher preparation program that loses State approval or financial support (see proposed § 612.7).

• Providing for the conditions under which a low-performing teacher preparation program that has lost State approval or financial support may regain its eligibility for title IV, HEA funding and may resume accepting and enrolling students who receive title IV, HEA funds (see proposed § 612.8).

• Adding or amending definitions of the terms “classification of instructional programs,” “educational service agency,” “high-quality teacher preparation program,” “school or educational service agency serving low-income students (low-income school),” “TEACH Grant-eligible institution,” “TEACH Grant-eligible program,” “TEACH Grant-eligible science, technology, engineering, and mathematics (STEM) program” and “teacher preparation program” to § 686.2.

• Using the States' determination of teacher preparation program quality under proposed §§ 612.4 and 612.5 to determine whether a teacher preparation program is a “high-quality teacher preparation program” for the purpose of establishing TEACH Grant eligibility (see proposed definition of “high-quality teacher preparation program” in § 686.2(e)).

• Establishing a requirement that to continue to be TEACH Grant-eligible, a science, technology, engineering, or mathematics (STEM) program must not be identified by the Secretary as having fewer than sixty percent of its TEACH Grant recipients completing at least one year of teaching that fulfills the service obligation pursuant to § 686.40 within three years of completing the program (see proposed definition of “TEACH Grant-eligible science, technology, engineering, or mathematics (STEM) program” in § 686.2(e)).

• Clarifying the conditions under which TEACH Grant recipients may receive additional TEACH Grants to complete a teacher preparation program, even if that program is no longer considered a TEACH Grant-eligible teacher preparation program or a TEACH Grant-eligible STEM program under these proposed regulations (see proposed § 686.3(c)).

• For teaching service performed on or after July 1, 2010, providing that a TEACH Grant recipient who otherwise meets the requirements of his or her agreement to serve may satisfy the requirement to teach in a high-need field if that field was listed, as of the date the grant recipient signed the agreement to serve or received the TEACH Grant, in the Department's annual Teacher Shortage Area Nationwide Listing (Nationwide List) for the State in which the grant recipient begins teaching (see proposed § 686.12).

• Establishing the conditions under which a student would be eligible to receive a new TEACH Grant if the student's previous TEACH Grant was discharged based on total and permanent disability (see proposed § 686.11(d)).

• Amending the provisions for discharging a TEACH Grant recipient's service obligation based on total and permanent disability to conform to changes made to the discharge process in the title IV, HEA loan programs (see proposed § 686.42(b)).

Significant Proposed Regulations

We discuss substantive issues under the sections of the proposed regulations to which they pertain. Generally, we do not address the regulatory provisions that are technical or otherwise minor in effect.

Part 612—Title II Reporting System

Subpart A—Scope, Purpose and Definitions

Statute: Sections 205 through 208 of the HEA establish the teacher preparation program accountability system through which IHEs and States report on the performance of their teacher preparation programs.

Current Regulations: None.

Proposed Regulations: In proposed subpart A of part 612, we describe the scope and purpose of part 612 and define key terms. In proposed § 612.2(a), (b) and (c), we identify those definitions from 34 CFR parts 600 and 668, and 34 CFR 77.1, respectively, that would apply to part 612. In proposed § 612.2(d), we define: “at-risk teacher preparation program,” “candidate accepted into a teacher preparation program,” “candidate enrolled in a teacher preparation program,” “content and pedagogical knowledge,” “effective teacher preparation program,” “employer survey,” “employment outcomes,” “exceptional teacher preparation program,” “high-need school,” “low-performing teacher preparation program,” “new teacher,” “quality clinical preparation,” “recent graduate,” “rigorous teacher candidate entry and exit qualifications,” “student achievement in non-tested grades and subjects,” “student achievement in tested grades and subjects,” “student growth,” “student learning outcomes,” “survey outcomes,” “teacher evaluation measure,” “teacher placement rate,” “teacher preparation entity,” “teacher preparation program,” “teacher retention rate,” and “teacher survey.”

Reasons: We have included proposed § 612.1 to summarize the purpose of new part 612 and to lay out the organization of the part. Proposed § 612.2 defines key terms that are used, but not defined, in title II of the HEA as well as other important terms that are introduced in this part. We discuss our reasoning for each proposed term under the section of the regulations in which the term would first be used, except for the terms “content and pedagogical knowledge,” “quality clinical preparation,” and “rigorous teacher candidate entry and exit qualifications,” all of which are discussed in the Reasons section for proposed § 612.5.

Subpart B—Reporting Requirements

§ 612.3 What are the regulatory reporting requirements for the institutional report card?

Statute: Section 205(a) of the HEA requires that each IHE that conducts a traditional teacher preparation program or an alternative route to State certification or licensure program and enrolls students receiving Federal assistance under the HEA annually report on the quality of its teacher preparation to the State and the general public in a uniform and comprehensible manner that conforms with the definitions and methods established by the Secretary. Section 205(a)(1), (a)(2) and (a)(4) of the HEA identify the minimum content requirements for the IRC.

Current Regulations: None.

Proposed Regulations: Under proposed § 612.3, according to a revised reporting calendar, starting October 1, 2017, and annually thereafter, each IHE that conducts a traditional teacher preparation program or an alternative route to State certification or licensure program and enrolls students receiving Federal financial assistance under the HEA would be required to report to the State and general public on the quality of its teacher preparation using an institutional report card prescribed by the Secretary. As suggested by several non-Federal negotiators, the IHE would be required to provide this information to the general public by prominently and promptly posting the IRC information on the IHE's Web site, and, if applicable, on the teacher preparation program portion of the IHE's Web site. The IHE could also provide that information in promotional materials it makes available to prospective students and others.

Reasons: This section would codify in regulations the statutory requirement governing reporting by IHEs that conduct a traditional teacher preparation program or an alternative route to State certification or licensure program. There are no current regulations that do this. The Department is not proposing regulations related to the specific reporting requirements for the IRC. Rather, the Secretary would continue to prescribe the specific reporting requirements for IHEs in the IRC itself. Being an information collection instrument, the IRC is subject to a separate approval process that includes an opportunity for public comment under the Paperwork Reduction Act, 44 U.S.C. 3501 et seq.

While annual title II reporting is required by section 205(a) of the HEA, the mechanisms IHEs use to report are determined by the State. However, to ease reporting burdens, the Department developed the IRC system. The IRC system is an online tool that States, IHEs, and other organizations with State-approved teacher preparation programs can use to fulfill the annual reporting requirements on teacher preparation and other matters mandated by title II of the HEA.

As explained in the Delayed Implementation Date and Revised Reporting Calendar discussion under § 612.4, we are proposing to revise the reporting calendar in order to ensure that the public and programs receive more timely feedback on program performance. Thus, we are proposing that institutional reporting will occur in October of each calendar year covering data from the prior academic year, rather than (as currently) April of the following calendar year. In order to have time to prepare for this change, the first year for this new reporting schedule will be in 2017 covering data from the 2016-2017 academic year. Prior to October 2017, IHEs will continue to report, as currently, in April of each calendar year covering data from the prior academic year.

In proposed § 612.3(b), we would require IHEs to prominently and promptly post the IRC information on the IHE's Web site and, if applicable, on the teacher preparation program's portion of the IHE's Web site. This proposed requirement is also based on information we obtained during the negotiated rulemaking process. Non-Federal negotiators stated that a reasonable way for IHEs to share the IRC information with the general public was for IHEs to post the information promptly and prominently on their Web sites, thus providing easy access for anyone seeking report card information. We agreed.

In proposed § 612.3(c), we would clarify that at its discretion, an IHE may also provide the IRC information to the general public in promotional materials it makes available to prospective students and others. While regulatory language is not needed to permit IHEs to do so, we propose to include this provision because we believe that many people rely on promotional materials instead of, or in addition to, Web sites in their decision-making process, and we wish to specifically encourage IHEs to consider providing as much information as possible in their promotional materials.

§ 612.4 What are the regulatory reporting requirements for the State report card?

Statute: Section 205(b)(1) of the HEA provides that each State that receives funds under the HEA must report annually, in a State report card, on the quality of teacher preparation in the State, both for traditional teacher preparation programs and for alternative routes to State certification or licensure programs. Each State must report this information to the Secretary and make it widely available to the general public in a uniform and comprehensible manner that conforms to the definitions and methods established by the Secretary. By virtue of the definition of “State” in section 103(16) of the HEA, the statutory reporting requirements apply to each of the 50 States of the United States, the Commonwealth of Puerto Rico, the District of Columbia, Guam, American Samoa, the United States Virgin Islands, the Commonwealth of the Northern Mariana Islands, and the freely associated states of the Republic of the Marshall Islands, the Federated States of Micronesia, and the Republic of Palau.

Section 205(b)(1)(A) through (b)(1)(L) of the HEA lists the minimum content requirements for the State report card. In particular, section 205(b)(1)(F) requires each State to include in its State report card a description of the State's criteria for assessing the performance of teacher preparation programs within IHEs in the State. This provision further requires that the criteria include indicators of the academic content knowledge and teaching skills of students enrolled in the teacher preparation programs. Section 200(23) of the HEA defines the term “teaching skills” as those skills that enable a teacher, among other competencies, to effectively convey and explain academic content. In addition, section 205(b)(1) authorizes the Secretary to include other reporting elements in the State report card beyond those set forth in paragraphs (b)(1)(A) through (b)(1)(L).

Finally, section 205(c) requires the Secretary to prescribe regulations to ensure the reliability, validity, integrity, and accuracy of the data submitted in the institutional and State report cards, and section 208(a) requires the Secretary to ensure that States and IHEs use fair and equitable methods in reporting the data required by the institutional and State report cards.

Current Regulations: None.

Proposed Regulations

Proposed § 612.4(a)—General State Report Card Reporting

The Department proposes to add new § 612.4(a) to require that, beginning on April 1, 2018, and annually thereafter, each State that receives funds under the HEA report to the Secretary and the general public, using a SRC prescribed by the Secretary, (1) the quality of all approved teacher preparation programs in the State, including distance education programs, whether or not they enroll students receiving Federal assistance under the HEA, and (2) all other information consistent with section 205(b)(1) of the HEA. As explained further in the discussion of Pilot Reporting, during the first reporting year for this regulation, States would be permitted to pilot the new reporting requirements and would not be required to classify programs in at least four levels of program performance using the indicators in proposed § 612.5, although a State could do so at its option. Regardless of whether a State chooses to pilot program classification according to the new requirements, States would nevertheless be required to identify low-performing programs and programs at risk of being low-performing, using current indicators, as required by section 207(a) of the HEA. Each State would be required to post the SRC information on the State's Web site.

Proposed § 612.4(b)—Reporting of Information on Teacher Preparation Program Performance

Under proposed § 612.4(b), the Department would identify specific content requirements, criteria, and data that a State would use, beginning in April 2019 and annually thereafter, to assess the performance of each teacher preparation program in addition to the reporting elements expressly identified in section 205(b) of the HEA. The Department proposes to define a number of terms used in those proposed requirements in § 612.2(d). Because the definitions affect the discussion that follows of proposed regulations to govern assessments of the performance of teacher preparation programs, we first note two proposed definitions—“teacher preparation entity” and “teacher preparation program”—that identify the universe of affected programs. “Teacher preparation entity” would be defined as an IHE or other organization that is authorized by the State to prepare teachers. “Teacher preparation program” would be defined as a program, whether traditional or alternative route, offered by a teacher preparation entity that leads to a specific State teacher certification or licensure in a specific field.

Additionally, under § 612.2(d), we propose definitions for the terms “new teacher” and “recent graduate.” We propose to define the term “new teacher” as a recent graduate or alternative route participant who, within the last three title II reporting years, has received a level of certification or licensure that allows him or her to serve in that State as a teacher of record. Under the definition, States would only be required to report on the student learning outcomes, employment outcomes, and survey outcomes of new teachers who teach K-12 students unless, in the State's discretion, the State chooses to define “new teacher” to include teachers of preschool students, and thereby include reporting on the student learning outcomes, employment outcomes, and survey outcomes of such teachers. The term “recent graduate” would refer to an individual whom a teacher preparation program has documented as having met all the requirements of a teacher preparation program within the last three title II reporting years. The definition would provide that documentation may take the form of a degree, institutional certificate, program credential, transcript, or other written proof of having met the program's requirements. The definition would also clarify that whether an individual has been hired as a full-time teacher or been recommended to the State for initial certification or licensure may not be used as a criterion for determining who is a recent graduate.

Proposed § 612.4(b)(1)—Meaningful Differentiations in Teacher Preparation Program Performance

Under proposed § 612.4(b)(1), beginning in April, 2019 and annually thereafter, each State would be required to report how it has made meaningful differentiations of teacher preparation program performance using at least four performance levels: “low-performing,” “at-risk,” “effective,” and “exceptional” that are based on the indicators in proposed § 612.5 including, in significant part, employment outcomes for high-need schools and student learning outcomes. At its discretion, a State could choose to identify teacher preparation program performance using more than these four levels.

The Department would define key classifications and related terms. First, the Department would include in § 612.2(d) definitions of the terms “exceptional teacher preparation program,” “effective teacher preparation program,” “at-risk teacher preparation program,” and “low-performing teacher preparation program.” These definitions would reflect that those performance levels are based upon the State's assessment of the teacher preparation program's performance using, at a minimum, the teacher preparation program performance indicators in proposed § 612.5. Second, the Department would define the term “student learning outcomes” as data, for each teacher preparation program in a State, on the aggregate learning outcomes of students taught by new teachers that are calculated by the State using one or both of the following: “student growth” and “teacher evaluation measures,” both of which also would be defined in proposed § 612.2(d). Finally, the Department would define the term “high-need school” as used in the requirement for “employment outcomes for high-need schools” as the placement and retention rates calculated for high-need schools as those terms would be defined in proposed § 612.2(d). For a complete discussion of these terms, please see the discussion under proposed § 612.5.

Proposed § 612.4(b)(2)—Satisfactory or Higher Student Learning Outcomes for Programs Identified as Effective or Higher

Under proposed § 612.4(b)(2), a State would not be permitted to identify a teacher preparation program as having a performance level of effective or higher unless the State determined the program had satisfactory or higher student learning outcomes. Our proposed regulation reflects the recommendation of non-Federal negotiators and ensures that States consider student performance when they classify programs by levels of performance.

Proposed § 612.4(b)(3)—Disaggregated Data, Assurances of Accreditation or Quality of Program Characteristics, Weighting, and Rewards or Consequences

Under proposed § 612.4(b)(3)(i), each State would, for each teacher preparation program in its State, (1) report disaggregated data that corresponds to each of the indicators in proposed § 612.5, and (2) provide an assurance that the teacher preparation program is either accredited by a specialized agency pursuant to § 612.5(a)(4)(i), or produces teacher candidates with quality clinical preparation and content and pedagogical knowledge, and who have met rigorous teacher candidate entry and exit qualifications. Each of these terms (“quality clinical preparation,” “content and pedagogical knowledge,” and “rigorous teacher candidate entry and exit qualifications”) would be defined in § 612.2(d). The definitions of each of these terms reflect the specific and detailed suggestions of non-Federal negotiators. For a complete discussion of these terms, please see the discussion under proposed § 612.5.

Under proposed § 612.4(b)(3)(ii) and (iii), each State would be required to report how it weighted the teacher preparation program performance indicators in proposed § 612.5, and the State-level rewards or consequences associated with each teacher preparation program performance level.

Proposed § 612.4(b)(4) Reporting the Performance of All Teacher Preparation Programs

Under proposed § 612.4(b)(4), except for certain programs subject to proposed § 612.4(b)(4)(ii)(D) or (E), each State would ensure that all of its teacher preparation programs are represented in the SRC. In this regard, each State would be required to report annually and separately on the performance of each teacher preparation program that produces a total of 25 or more new teachers in a title II reporting year. Proposed § 612.4(b)(4) would permit a State, at its discretion, to establish a program size threshold lower than 25. For example, a State might determine that it has the capacity to report on programs with 15 new teachers.

Proposed § 612.4(b)(4)(ii) describes the reporting requirements for teacher preparation programs in the State that do not meet the program size threshold of 25 new teachers in a title II reporting year (or such lower program size threshold that the State chooses to use). States would annually report performance results for these programs, using one of three methods. Under proposed § 612.4(b)(4)(ii)(A), a State could aggregate teacher preparation program performance data among teacher preparation programs that are operated by the same teacher preparation entity and are similar to or broader than the program. For example, if a teacher preparation entity had two different special education programs and both had 13 new teachers, the State could combine performance results of the two programs and report them as a single teacher preparation program with 26 new teachers, which would meet the program size threshold of 25 (or a lower program size threshold, at the State's discretion).

Alternatively, under proposed § 612.4(b)(4)(ii)(B), the State could report on a teacher preparation program's performance by aggregating performance data for that program over multiple years, up to a total of four years, until the size threshold is met. For example, if a teacher preparation program had ten new teachers each year, the State could combine performance results of that year with the results of the preceding two years and report the results as a single teacher preparation program with 30 new teachers, which would meet the program size threshold of 25 (or a lower program size threshold, at the State's discretion).

Under § 612.4(b)(4)(ii)(C), States also could use a combination of both of these methods if neither method alone would be sufficient to permit the State to meet the program size threshold (or for a State that chooses a lower program size threshold, to permit the State to meet the lower program size threshold) described in § 612.4(b)(4)(i).

Proposed § 612.4(b)(4)(ii)(D) would allow States to refrain from reporting data on any program that cannot meet the program size threshold (or the State's lower program size threshold) for reporting using one of the three options.

Finally, proposed § 612.4(b)(4)(ii)(E) would exempt States from reporting data under § 612.4(b) on a particular teacher preparation program in cases where reporting of such data would be inconsistent with Federal or State privacy and confidentiality laws and regulations.

Proposed § 612.4(b)(5)—Procedures for Assessing and Reporting Teacher Preparation Program Performance Data

Under proposed § 612.4(b)(5), each State would be required to report, beginning on April 1, 2018, and every four years thereafter, and at any other time that the State makes substantive changes to either the weighting of the indicators or the procedures for assessing and reporting the performance of each teacher preparation program in the State described in § 612.4(c)(2). These procedures would be established by the State in consultation with a group of stakeholders in accordance with § 612.4(c)(1).

Proposed § 612.4(c)—Fair and Equitable Methods

To assist in the development of the State's procedures for assessing and reporting teacher preparation program performance, each State would be required under § 612.4(c)(1) to consult with a representative group of stakeholders, including, at a minimum, representatives of leaders and faculty of traditional and alternative route teacher preparation programs; students of teacher preparation programs; superintendents; school board members; elementary and secondary school leaders and instructional staff; elementary and secondary school students and their parents; IHEs that serve high proportions of low-income or minority students, or English language learners; advocates for English language learners and students with disabilities; and officials of the State's standards board or other appropriate standards body. In developing its procedures in consultation with stakeholders as provided by § 612.4(c)(1), each State would be required under § 612.4(c)(2) to address (a) its weighting of the indicators identified in proposed § 612.5, (b) its process for aggregating data such that all teacher preparation programs would be represented in the SRC, (c) State-level rewards or consequences associated with each teacher preparation program designation, and (d) the method by which teacher preparation programs may challenge the accuracy of their performance data and program classification. Under proposed § 612.4(c)(2), each State would also be required to examine the quality of the data collection and reporting activities it conducts and modify those activities as appropriate to improve deficiencies.

Proposed § 612.4(d)—Inapplicability to Certain Insular Areas

Proposed § 612.4(d) would provide that the regulatory reporting requirements in § 612.4(b) and (c) regarding indicators of academic content knowledge and teaching skills would not apply to the insular areas of American Samoa, the Commonwealth of the Northern Mariana Islands, and the freely associated States of the Republic of the Marshall Islands, the Federated States of Micronesia, the Republic of Palau, Guam, and the United States Virgin Islands.

Reasons

Proposed § 612.4(a)—General State Report Card Reporting

Proposed § 612.4 would codify in regulations the statutory requirement that States that receive funds under the HEA report annually to the Secretary, in a SRC prescribed by the Secretary, on (1) the quality of all approved teacher preparation programs in the State for both traditional teacher preparation programs and alternative routes to State certification or licensure programs, and (2) basic data about teaching in the State, and make this information widely available to the general public.

Scope of Programs Covered by Reporting

Because section 205(b)(1) of the HEA requires each State to report data on all teacher preparation programs in its State, we have included language in § 612.4(a) to underscore that this requirement applies to all teacher preparation programs, regardless of whether they enroll students receiving Federal assistance under the HEA, or whether they are traditional or alternative route programs. Our goal is for States to report equivalent information needed for program improvement, transparency, and accountability for all teacher preparation programs in the State, including both traditional and alternative route programs. We invite comment specifically on whether the proposed regulation would adequately provide alternative route programs with the information about their participants and graduates that they need in order to facilitate program improvement, and whether the proposed regulation provides equivalent accountability for both traditional and alternative route programs.

We are specifically interested in the potential scenario in which an IHE is deemed to be the “teacher preparation entity,” as defined in § 612.2(d), for an alternative route program or provider in a particular State because the IHE is authorized by the State to recommend teacher candidates for certification, while the alternative route provider is not. We invite comment on whether, in such a scenario, the State would be able to report separately on the performance of alternative route program participants who are enrolled at an IHE-based teacher preparation program so as to provide sufficient transparency and accountability at the program level not only to the IHE-based teacher preparation program that is enrolling the alternative route program participants, but also to the alternative route program itself, which in this scenario would not be a teacher preparation entity as defined in § 612.2. If commenters do not believe that a State could report separately on the performance of alternative route program participants, we invite comment on whether there are other data, or changes that should be made to the proposed regulations, that would provide adequate transparency and accountability for both the IHE-based teacher preparation program and the alternative route program, and whether States have the capacity to report such data.

In addition, during the negotiated rulemaking process, some non-Federal negotiators stated that it was not clear whether States had to report on the performance of distance education programs under this requirement. Non-Federal negotiators requested that we specify in the regulations that distance education programs must be included in a State's reporting. We have therefore included language in § 612.4(a) to clarify that, for purposes of State reporting, States must report on distance learning programs that are being provided in the State.

Further, as addressed in our explanations for proposed § 612.4(b), annual State reporting of indicators and criteria for assessing program performance would extend to all teacher preparation programs—whether or not they are within IHEs. Section 205(b)(1)(F) of the HEA provides for such reporting only for programs within IHEs. However, the introductory language in section 205(b)(1) provides that the content of the SRC is not limited to the elements Congress has prescribed, and also expressly includes alternative route providers in the reporting system. Because the Secretary believes it is important that States report on the performance of all of their teacher preparation programs—including programs that are not based at IHEs—using the same criteria, we propose to extend the State's reporting requirements in §§ 612.4(b)(1) and 612.5 to cover all teacher preparation programs in the State.

Delayed Implementation Date and Revised Reporting Calendar

Because the proposed regulations make changes to current State reporting obligations under title II of the HEA, we believe that it is appropriate to provide a year for States and institutions to design and set-up their data reporting systems. Such set-up would take place during the 2015-2016 academic year. During the negotiated rulemaking, a number of non-Federal negotiators indicated that the minimum amount of time States would need to set up the new processes and systems would be six months. Thus, this delay will provide sufficient time for States that do not already have the processes and systems necessary to implement the new reporting to develop processes and systems to do so. We are also proposing to implement a new reporting calendar. Currently, institutions report to States in April about data from the prior academic year, and States report to the Department the following October. Under these regulations, beginning in October 2017, we are proposing to require annual institutional reporting on data from the prior academic year in October of each calendar year, rather than April of the following calendar year, and annual State reporting in April of the following calendar year rather than October. We believe that this revised reporting calendar will ensure more timely feedback on program performance to programs and the public, and thus more rapid program improvement.

Pilot Reporting Year

The system design and set-up period during the 2015-2016 academic year would be followed by a pilot reporting year for State report cards in April 2018. The pilot reporting year cycle would begin with the institutional report card in October 2017 (for data pertaining to IHE programs and new teachers in the 2016-2017 academic year) and the pilot State report card would be due in April 2018. During the pilot reporting year, States would publically report new data required by the regulations, but would not be required to use the data to assign programs to one of four levels of performance (exceptional, effective, at-risk for low-performing, or low-performing). As required by section 207(a) of the HEA, States would still be required to identify programs that are at-risk of being low-performing or low-performing, but States would not be required to use the indicators in proposed § 612.5 to make such determinations, although a State could do so at its option.

Additionally, during the pilot reporting year, any State ratings of program performance would not have implications for that program's eligibility to participate in the TEACH Grant program. As discussed further under proposed § 686.2 Definitions in the explanation of the term “high-quality teacher preparation program,” to ensure adequate time for program improvement, no program would be in danger of losing eligibility to participate in the TEACH Grant program until the program is rated as lower than “effective” for two out of the previous three reporting years. Thus, a program could first lose eligibility to participate in the TEACH Grant program in July, 2020, if the program received a rating of lower than “effective” in both the State's April 2019 and April 2020 report cards.

In summary, the Department is proposing that pilot reporting by States under these regulations occur in the State report cards due in April 2018, over two years from the expected date that final regulations take effect in 2015, and that full reporting by States under these regulations for the State report cards begin in April 2019, over three years from the expected date that the final regulations take effect. Finally, the Department is proposing that programs would first be ineligible to participate in the TEACH Grant program in July 2020, if they receive two consecutive ratings of lower than “effective” under the proposed regulations, four years from the expected date the final regulations take effect. The following table summarizes the timeline for the implementation of the reporting requirements in the proposed regulations by teacher preparation program cohort and reporting year. The Department particularly invites comment on whether this timetable is reasonable.

Implementation Dates
— | — | — | — | — | —
Academic Year in which data systems are designed and set up | 2015-16
Academic year in which data is collected |  | 2016-17 | 2017-18 | 2018-19 | 2019-20.
Student Learning |  | C1 | C1,2 | C1,2,3 | Rolling.
Job Placement |  | C1 | C1,2 | C1,2,3 | Rolling.
Job Retention |  | C1 | C1,2 | C1,2,3 | Rolling.
Program Completer Survey |  | C1 | C2 | C3 | Rolling.
Cohort Employer (CE) Survey |  | CE of C1 | CE of C2 | CE of C3 | Rolling.
Year in Which Data Reported in State Report Card |  | April 2018 Pilot Report | April 2019 Full Report | April 2020 Full Report | April 2021 Full Report.
|  | Required | Required | Required
|  | Report all new data required by regulations | Report all new data required by regulations | Report all new data required by regulations
|  | Identify and report low-performing or at-risk programs (does not have to be based on new data) Optional Report program performance ratings based on new data | Report 4-level program performance ratings based on new data Ratings do not impact TEACH Grant eligibility for the 2019-2020 Award Year | Report 4-level program performance ratings based on new data Ratings could impact TEACH Grant eligibility for 2020-2021 Award Year (if second rating of lower than effective)
C1: Cohort 1, graduates from teacher preparation program in 2016, earliest first year of teaching is 2016-2017 academic year.
C2: Cohort 2, graduates from teacher preparation program in 2017, earliest first year of teaching is 2017-2018 academic year.
C3: Cohort 3, graduates from teacher preparation program in 2018, earliest first year of teaching is 2018-2019 academic year.
CE: Cohort employer.

Making the State Report Card Available on the State's Web Site

Non-Federal negotiators stated that it was reasonable to require States to make their report card information widely available to the general public by posting the information on the State Web site. We find this request reasonable in light of the statutory directive in section 205(a)(1) of the HEA. Accordingly, proposed § 612.4(a)(2) would require the State to make its SRC information widely available to the general public by posting it on its Web site.

Program-Level Reporting

Under the current title II reporting system, a teacher preparation program is defined as a State-approved course of study, the completion of which signifies that an enrollee has met all of the State's educational or training requirements for initial certification or licensure to teach in the State's elementary, middle, or secondary schools. A teacher preparation program may be either a traditional program or an alternative route to certification program, as defined by the State. It may be within or outside an IHE. Additionally, for the purposes of current title II reporting, all traditional teacher preparation programs at a single IHE are considered to be a single program. Likewise, under the current title II reporting system, all alternative route to initial teacher certification programs administered by any IHE or organization are considered to be a single program. As a result, States (and IHEs in their own report cards) currently do not provide data on individual teacher preparation programs offered by a single IHE, such as an elementary education program or a secondary mathematics program.

Many non-Federal negotiators stated that collecting and reporting data at the level of the individual teacher preparation program would assist IHEs and alternative route providers in improving specific programs. Reporting at this level would also aid prospective students and employers in making informed choices about the quality of particular teacher preparation programs. Non-Federal negotiators stated that reporting at the individual program level would prevent the dilution of data on individual program quality by the “averaging” effect of combined ratings for a number of teacher preparation programs within a single IHE or other teacher preparation program entity, and instead would reveal potential variations in program quality among different teacher preparation programs within a single IHE or entity.

We agree with this view and believe that by requiring States to report on teacher preparation program performance at the individual program level, the proposed performance levels required under proposed § 612.4(b)(1) would be more meaningful to IHEs and the public. Knowing the performance classification of an individual teacher preparation program, rather than simply the combined performance rating of all such programs at an IHE, also would be much more useful to IHEs in deciding where to focus improvement efforts, and much more useful to the public in choosing a teacher preparation program. In addition, identification of teacher preparation program performance at the individual program level (e.g., early education, elementary education program or a secondary mathematics program) is necessary so that eligibility to participate in the TEACH Grant program is linked to high-quality teacher preparation programs consistent with the statutory directive of title IV. Finally, program level reporting ensures that teacher preparation programs that prepare teachers to work in particular educational settings (e.g., teachers of students with disabilities or English Language Learners), receive their own focus and can be compared to like programs.

For these reasons, we propose to require States to report on performance at the individual teacher preparation program level, rather than on the overall performance of all of an entity's teacher preparation programs. We would accomplish this by referring to a “teacher preparation program” in proposed § 612.4 (and elsewhere in part 612), and defining that term, as well as the term “teacher preparation entity” in § 612.2, to differentiate between a program that leads to a specific State teacher certification in a specific field and an IHE or organization that is authorized by the State to prepare teachers.

Proposed § 612.4(b)—Reporting of Information on Teacher Preparation Program Performance

In proposed § 612.4(b), we would identify the minimum content reporting requirements for the SRC. This regulatory approach differs from how the Department currently implements the statutory SRC requirements under the title II reporting system, under which specific reporting requirements are established solely through the review of public comment under the Paperwork Reduction Act. We propose to codify the substantive framework of a State's title II reporting obligations in new part 612 in order to clarify the effect these requirements would have, support TEACH program implementation, and to create a more meaningful reporting system to facilitate improvement in teacher preparation programs and services.

Proposed § 612.4(b)(1)—Meaningful Differentiations in Teacher Preparation Program Performance

Currently, States meet the reporting requirements that concern the quality of teacher preparation programs under title II of the HEA primarily by reporting and considering input-based measures (e.g., an admission criterion that asks whether a prospective student submits a resume). In fact, while States must report the criteria they use to identify programs that are low-performing or at-risk, the only data on program performance currently collected by the title II reporting system are input data. However, there is little empirical support to suggest that these measures are good predictors of a teacher's eventual success in the classroom.

The Department believes that this input-based reporting provides insufficient information with which to differentiate among the quality of teacher preparation programs. Because the Department strongly believes that reporting on teacher preparation program quality should consider multiple measures, especially outcome measures, we have structured the State reporting requirements in § 612.4(b) to require that States report criteria for assessing program performance that include specific outcome and input-based indicators proposed in § 612.5. States would be required to report on their criteria for determining teacher preparation program performance and to differentiate teacher preparation program performance using these indicators. (We discuss our proposed outcome-based indicators in the preamble discussion related to proposed § 612.5.)

Specifically, under proposed § 612.4(b)(1), following a pilot reporting year in 2018, beginning in April 2019 and annually thereafter, States would be required to report a teacher preparation program's performance using at least four performance levels (“exceptional,” “effective,” “at-risk,” or “low-performing”). We have proposed that States use at least four performance levels because two of these levels (at-risk and low-performing) are already identified in section 207(a) of the HEA as levels on which States must report, and a third level is identified by title IV of HEA, which provides that to be eligible to distribute TEACH Grants, IHEs must provide “high quality” teacher preparation. Several non-Federal negotiators suggested that only having three classifications (i.e., low-performing, at-risk of being low-performing, and high-quality) would not allow for meaningful distinctions of quality. Therefore, several non-Federal negotiators suggested, and we agree, that to permit identification of the best programs, at least one additional classification should be created by States to ensure meaningful differentiation between programs whose performance is satisfactory and those whose performance is truly exceptional. For reasons explained under proposed § 612.6, the Secretary proposes that employment outcomes for high-need schools and student learning outcomes be included, in significant part, in determining teacher preparation program performance.

Proposed § 612.4(b)(2)—Satisfactory or Higher Student Learning Outcomes for Programs Identified as Effective or Higher

The Secretary proposes that States may identify the performance level for a teacher preparation program as effective or higher quality only if the program has satisfactory or higher student learning outcomes. The Secretary believes, and many non-Federal negotiators agreed, that a program's ability to train future teachers who produce positive results in student learning is a clear and important standard of teacher preparation program quality.

In order to assess teacher preparation program performance in terms of student learning outcomes, States would need to collect data on student growth of students assigned to each new teacher, defined in proposed § 612.2 as the change in student achievement for an individual student between two or more points in time. For student learning outcomes, data would be calculated by the State using a student growth measure, a teacher evaluation measure, or both.

Because many States are adopting comprehensive teacher evaluation systems that consider student growth in significant part, as well as other measures of a teacher's instructional practice, we have proposed a definition of “student learning outcomes” in § 612.2 that would give States the option of using the results of those evaluation systems in identifying a program's performance level. To ensure that States weigh student learning outcomes as a significant part of the system, the non-Federal negotiators proposed language with which the Secretary agreed. Under that language, as noted at the outset of this discussion, States could only identify the quality of a teacher preparation program as effective or higher if the State determined that the program's graduates produce student learning outcomes that are satisfactory or higher. The Department believes that this provision will encourage States to classify programs with the utmost integrity while still preserving State discretion as to the setting of performance levels.

Proposed § 612.4(b)(3)—Disaggregated Data, Assurances of Accreditation on Quality of Program Characteristics, Weighting, and Rewards and Consequences

Section 205(b)(1)(F) of the HEA requires that a State provide a description of its criteria for assessing the performance of teacher preparation programs, which must include indicators of the academic content knowledge and teaching skills of students enrolled in these programs. Section 207(a) requires the State to provide a list of IHEs with programs that are low-performing or at-risk of becoming low-performing. We believe that these two requirements provide insufficient information about the quality of teacher preparation programs in a State and focus only on the negative. As noted in our discussion of proposed § 612.4(b)(1), we believe States should be required to identify not only programs that are low-performers but also programs that are high-performers, with gradations of success, in order to recognize and reward excellence, help other programs learn from best practices, and facilitate faithful implementation of the TEACH Grant program.

The Secretary further believes that to document the basis on which a State makes its determination of teacher preparation performance levels and to facilitate self-improvement by teacher preparation programs and entities, a State should be required to report data on each of the indicators in proposed § 612.5, disaggregated for each teacher preparation program. These reports would include an assurance that the teacher preparation program is either accredited by a specialized agency recognized by the Secretary for accreditation of professional teacher education programs, or produces teacher candidates with content and pedagogical knowledge and quality clinical preparation who have met rigorous teacher candidate entry and exit qualifications. Non-Federal negotiators emphasized that specialized agencies base accreditation on these same factors regarding knowledge and entry and exit requirements, and thus, an assurance of such accreditation is tantamount to a State finding that the teacher preparation program has these other attributes.

The availability of these data in State reports, which States and the Secretary would make available to the public, can help guide potential employers in their hiring decisions and prospective teachers in their application decisions. For example, a superintendent may be particularly interested in hiring teachers from programs with a history of placing teachers who stay in their positions. A prospective special education teacher may want to look at which special education programs in the State have the highest success rates in placing program graduates.

More generally, the Secretary also believes that a State should be required to include in its State report card its weighting of the various indicators of program performance included in proposed § 612.5. This information will show how that State arrived at its overall assessment of a teacher preparation program's performance and provide a way for the Secretary and the public to understand the relative value that a State places on each of the indicators of program quality. This reporting also will be an important transparency tool that will permit programs and the general public to understand how States make their performance-level determinations.

Lastly, the Secretary believes that as a further mechanism for making the State assessment of teacher preparation performance levels more meaningful, States should be required to identify any State-level rewards or consequences associated with each teacher preparation program performance level.

Proposed § 612.4(b)(4)—Reporting the Performance of All Teacher Preparation Programs

Proposed § 612.4(b)(4)(i) would require separate reporting of the performance of any teacher preparation program that annually produces 25 or more new teachers, and establishes permissible procedures for data aggregation that would result in reporting on all of the State's teacher preparation programs (except for those programs that are particularly small and for which aggregation procedures cannot be applied or where State or Federal privacy or confidentiality laws and regulations prevent it). In developing this proposed requirement, the Department considered the current processes used by States that already assess teacher preparation program performance using student growth data for students of new teachers from those programs. Those States use program size thresholds that range from as few as 10 to as many as 25 new teachers. The proposed regulations would set a program size threshold for reporting of 25, which we believe would ensure that each State will report results each year for the largest number of programs consistent with what the State would find to be logistically feasible and statistically valid. The Secretary specifically invites comment on an appropriate program size threshold.

While proposed § 612.4(b)(4) would not require separate annual reporting on the effectiveness of individual teacher preparation programs that produce 24 or fewer new teachers, we recognize that some States may find it logistically feasible and statistically valid to establish a lower threshold, and may prefer to do so in order to recognize the quality of smaller teacher preparation programs. In order to encourage these States to do so, the provision would expressly permit a State to report the effectiveness of these smaller programs by allowing a State to set a program size threshold lower than 25.

We also recognize, however, that the smaller the size of a teacher preparation program, the greater the challenge of generating data on program effectiveness that can be valid and reliable and meet the reporting threshold. Because we strongly believe that it is important that States report annually to the public, and to IHEs and other entities that operate teacher preparation programs, on the quality of these smaller programs, we have proposed alternative methods through which States could report performance of programs that annually produce a number of new teachers that is fewer than 25 (or whatever lower program size threshold the State establishes). As proposed in § 612.4(b)(4)(ii)(A)-(C), these methods involve annually meeting the program size threshold of 25 (or any lower threshold a State establishes) by aggregating performance data for each of these smaller programs with performance data (1) of like programs that the teacher preparation entity operates (thus, in effect, reporting on a broader-based teacher preparation program), (2) for the same program generated over multiple years for up to four years, or (3) generated under a combination of these first two methods. For this second method, we have proposed to set a four-year cap on the number of years over which such aggregation may occur so that the performance levels are not based on data that are too old to be a reflection of current program performance. The Department particularly invites comment on whether such a cap should exist, and if so, how many years should be aggregated to report data on a single program.

We believe that a State's use of these alternative methods would produce more reliable and valid measures of quality for each of these smaller programs and reasonably balance the need annually to report on program performance with the special challenges of generating a meaningful annual snapshot of program quality for programs that annually produce few new teachers. Even with multiple options for reporting on smaller teacher preparation programs, we recognize that it is possible that some States will still be unable to aggregate the program performance data for some small programs based on a program size threshold of 25 or such lower size threshold as a State may establish. Through proposed § 612.4(b)(4)(ii)(D), we would accommodate this situation by not requiring that a State include performance information on these particular programs in their annual State report until aggregation allows reporting with validity, reliability, accuracy, and integrity commensurate with the program size threshold of 25 or such lower threshold the State has chosen to use.

Finally, we recognize that reporting data on program performance under § 612.4(b)(4) could be inconsistent with Federal or State privacy and confidentiality laws or regulations. For example, in cases where a teacher is both a participant in an alternative route teacher preparation program and concurrently enrolled as a student in an IHE, data regarding that student/teacher could be considered education records and, therefore, implicate the Family Educational Rights and Privacy Act, 20 U.S.C. 1232g. Additionally, States may have privacy laws that protect employment records, including protections that could implicate data related to a number of the measures outlined in this proposed regulation. Because we do not intend the proposed regulations to require reporting that would be inconsistent with these other legal requirements, proposed § 612.4(b)(4)(ii)(E) would provide that a State would not need to report on the performance of a particular program in the SRC if doing so would be inconsistent with Federal or State privacy and confidentiality laws or regulations.

Proposed § 612.4(b)(5)—Implementing Procedures Established by the State

While requiring each State to report on both the level of performance of each teacher preparation program and the data the State used to determine the program's level of performance is important, so too is the transparency of the process the State used to make these determinations. For this reason, we propose in § 612.4(b)(5) to have States report periodically on the procedures they used to make decisions about program performance. Specifically, we propose that States report annually (1) their procedures for assessing and reporting the performance of each teacher preparation program, (2) the weighting they apply to the indicators identified in proposed § 612.5 to determine each teacher preparation program's resulting performance level, (3) their procedures under § 612.4(b)(4)(ii) for aggregating data for small programs, (4) State-level rewards or consequences associated with the designated performance levels, and (5) their provision of appropriate opportunities for programs to challenge the accuracy of their performance data and classification of the program.

We would require each State to report these procedures in its report card to be submitted by October 1, 2017, to inform the public at the outset how each State assessed teacher preparation program performance. We think it is reasonable to require States to review, and inform the public about any changes to, their procedures at least once every four years, and so would have the State report on this subject again every four years thereafter. In addition, to promote transparency, under proposed § 612.4(b)(5)(ii), at any time a State made significant changes to its procedures for assessing program performance, we would have the State include a description of those significant changes in the next report card.

Proposed § 612.4(c)—Fair and Equitable Methods

Proposed § 612.4(c)(1) would require that each State consult with a representative group of stakeholders when developing procedures for assessing and reporting the performance of each teacher preparation program in the State under § 612.4. This wide-ranging consultation process was suggested by non-Federal negotiators as the best way for a State to develop fair and equitable procedures for assessing and reporting the performance of each teacher preparation program.

Consistent with the non-Federal negotiators' recommendations, § 612.4(c)(1)(i) identifies those entities and groups that are likely to be affected by the way a State assesses and reports teacher preparation program performance under these proposed regulations. Those stakeholders would minimally include leaders and faculty of traditional and alternative route teacher preparation programs; students of teacher preparation programs; superintendents; school board members; elementary and secondary school leaders and instructional staff; elementary and secondary school students and their parents; IHEs that serve high proportions of low-income or minority students, or English language learners; advocates for English language learners and students with disabilities; and officials of the State's standards board or other appropriate standards body. Each State would consult with these stakeholders as it develops its system and makes decisions about its procedures for assessing and reporting teacher preparation program performance. The Secretary also agrees with many non-Federal negotiators that requiring States to have a process by which teacher preparation programs can challenge data accuracy and performance-level classification, and to consult with stakeholders on that process, will help to ensure fair and equitable treatment of teacher preparation programs and the reliability, validity, integrity, and accuracy of the data reported about such programs.

Proposed § 612.4(c)(2) would require each State to examine the quality of its data collection and reporting activities and to modify the data collection and reporting activities, as appropriate. We developed these proposed regulatory provisions in response to feedback received during the negotiated rulemaking sessions. A number of non-Federal negotiators suggested that we build into our regulations this type of State review process to ensure the continued fairness of the process for collecting and analyzing data required under §§ 612.4(b) and 612.5, and thereby further promote the reliability, validity, integrity, and accuracy of the data relating to teacher preparation program quality reported in the SRC.

Proposed § 612.4(d)—Inapplicability to Certain Insular Areas

Finally, we propose that the reporting requirements in § 612.4(b) and (c) regarding reporting of a teacher preparation program's indicators of academic content knowledge and teaching skills would not apply to the insular areas of American Samoa, the Commonwealth of the Northern Mariana Islands, the freely associated states of the Republic of the Marshall Islands, the Federated States of Micronesia, the Republic of Palau, Guam and the United States Virgin Islands. We believe that these entities are so small that the cost of reporting data relating to these entities' small teacher preparation programs is unwarranted.

§ 612.5 What indicators must a State use to report on teacher preparation program performance for purposes of the State report card?

Statute: Section 205(b)(1)(F) of the HEA requires each State to include in its State report card a description of the State's criteria for assessing the performance of teacher preparation programs within IHEs in the State. This provision further requires that the criteria include indicators of the academic content knowledge and teaching skills of students enrolled in the teacher preparation programs. Section 200(23) of the HEA defines the term “teaching skills” as those skills that enable a teacher, among other competencies, to effectively convey and explain academic content. Each State must report the information identified in section 205(b)(1)(F) to the Secretary and make it widely available to the general public in a uniform and comprehensible manner that conforms to the definitions and methods established by the Secretary.

Current Regulations: None.

Proposed Regulations: Proposed § 612.5(a) would require that, for reporting purposes under proposed § 612.4, a State must assess, for each teacher preparation program in the State, indicators of academic content knowledge and teaching skills of new teachers or recent graduates from that program. As discussed earlier in this preamble, we would define the term “new teacher” to mean a recent graduate or alternative route participant who, within the last three title II reporting years, has received a level of certification or license that allows him or her to serve in that State as a teacher of record for K-12 students and, at a State's discretion, for preschool students (see proposed § 612.2(d)). We would define “recent graduate” to mean an individual whom a teacher preparation program has documented as having met all the requirements of a teacher preparation program within the last three title II reporting years, without regard to whether the individual has passed a licensure examination, been hired as a full-time teacher, or been recommended to the State for initial certification or licensure (see proposed § 612.2(d)).

In proposed § 612.5(a)(1) through (a)(4), we identify those indicators that a State would be required to use to assess the academic content knowledge and teaching skills of new teachers from each of the teacher preparation programs in the State's jurisdiction. While a State would be able to use additional indicators and establish its own “cut-scores,” it would be required to use the following indicators of teacher preparation program performance: (i) Student learning outcomes (ii) employment outcomes, (iii) survey outcome data, and (iv) an assurance that the program is accredited by a specialized accreditation entity recognized by the Secretary for accreditation of professional teacher education programs, or an assurance by the State that the teacher preparation program provides teacher candidates with content and pedagogical knowledge and quality clinical preparation who have met rigorous teacher candidate entry and exit qualifications. In proposed § 612.2(d), we would define several key terms used in proposed § 612.5(a), including “student learning outcomes,” “employment outcomes,” “survey outcomes,” “content and pedagogical knowledge,” “quality clinical preparation,” and “rigorous teacher candidate entry and exit qualifications.”

Student Learning Outcomes

The first required indicator of academic content knowledge and teaching skills would be student learning outcomes (see proposed § 612.5(a)(1)). “Student learning outcomes” would be defined as data on the aggregate learning outcomes of students taught by new teachers (as that term would be defined in § 612.2(d)) trained by each teacher preparation program in the State. The State would choose to calculate the data on student learning outcomes using measures of student growth (as that term would be defined in § 612.2(d)), teacher evaluation measures (as that term would be defined in § 612.2(d)), or both.

Definitions of “student growth” and “teacher evaluation measure” would also be added to proposed § 612.2. “Student growth” would be defined as the change in student achievement in tested grades and subjects and the change in student achievement in non-tested grades and subjects for an individual student between two or more points in time. This could be a simple comparison of achievement between two points in time or a more complex “value-added model” ³ that some States already use to assess teacher preparation program performance based on levels of student growth associated with new teachers from those programs.

³ A value-added model is a statistical technique developed by researchers to estimate a teacher's unique contribution to student achievement. Briefly, VAM predicts (estimates) student achievement based on prior student test scores and other observable characteristics and then takes the difference between the predicted student test score and the actual student score and attributes this difference to the teacher.

For the purpose of determining student growth, definitions of “student achievement in tested grades and subjects” and “student achievement in non-tested grades and subjects” would also be included in proposed § 612.2. Under the former, for grades and subjects in which assessments are required under section 1111(b)(3) of the ESEA, student achievement would be determined using (a) a student's score on the State's assessments under section 1111(b)(3) of the ESEA, and, (b) as appropriate, other measures of student learning described in the definition of “student achievement in non-tested grades and subjects” that are rigorous and comparable across schools and consistent with State requirements.

Under the definition of “student achievement in non-tested grades and subjects,” for grades and subjects that do not require assessments under section 1111(b)(3) of the ESEA, student achievement would be determined by measures of student learning and performance, such as students' results on pre-tests and end-of-course-tests, objective performance-based assessments, student learning objectives, student performance on English language proficiency assessments, and other measures of student achievement, that are rigorous and comparable across schools and consistent with State requirements.

In order to create as much consistency as possible for States, LEAs, and other entities that work with the Department of Education, these definitions are nearly identical to the ones used in other Department initiatives, including ESEA flexibility,⁴ the Teacher Incentive Fund, and the Race to the Top program.

⁴ On September 23, 2011, the Department invited each State educational agency (SEA) to request flexibility on behalf of itself, its LEAs, and schools, in order to better focus on improving student learning and increasing the quality of instruction. This voluntary opportunity has provided to educators and State and local leaders flexibility regarding specific requirements of the Elementary and Secondary Education Act (ESEA) in exchange for rigorous and comprehensive State-developed plans designed to improve educational outcomes for all students, close achievement gaps, increase equity, and improve the quality of instruction. In particular, States requesting flexibility committed to, by the 2014-15 school year, developing, adopting, piloting, and implementing teacher and principal evaluation and support systems that, among other things, use multiple valid measures in determining performance levels, including as a significant factor data on student growth for all students. As of September 1, 2014, the Secretary has granted 43 States, the District of Columbia, California Office to Reform Education (CORE), and the Commonwealth of Puerto Rico flexibility on key provisions of the ESEA in exchange for State-developed plans to prepare all students for college and career, focus aid on the neediest students, and support effective teaching and leadership. States with waivers include Alabama, Arizona, Arkansas, Colorado, Connecticut, Delaware, Florida, Georgia, Hawaii, Idaho, Illinois, Indiana, Kansas, Kentucky, Louisiana, Maine, Maryland, Massachusetts, Michigan, Minnesota, Mississippi, Missouri, Nevada, New Hampshire, New Jersey, New Mexico, New York, North Carolina, Ohio, Oregon, Pennsylvania, Rhode Island, South Carolina, South Dakota, Tennessee, Texas, Utah, Virginia, West Virginia, and Wisconsin. Three additional requests, from Iowa, Wyoming, and the Department of the Interior's Bureau of Indian Education, are still under review.

Under the proposed definition of “student learning outcomes” in proposed § 612.2, a State would be permitted to choose an alternative approach to calculating data on aggregate student learning outcomes of students using a “teacher evaluation measure.” We would define a “teacher evaluation measure” as the percentage of new teachers (as that term would be defined in § 612.2(d)), by grade span and subject level, rated at each performance level under an LEA teacher evaluation system consistent with statewide parameters that differentiates teachers on an annual basis using at least three performance levels and multiple valid measures in determining the performance levels. For the purpose of this definition, “multiple valid measures” of performance level would include data on student growth (as that term would be defined in § 612.2(d)) for all students as a significant factor as well as observations based on rigorous teacher performance standards and other measures of professional practice.

Employment Outcomes

The second indicator of the academic content knowledge and teaching skills of new teachers and recent graduates would be their employment outcomes (see proposed § 612.5(a)(2)). Under proposed § 612.2(d), we would define “employment outcomes” to include the teacher placement rate (as the term “teacher placement rate would be defined in § 612.2(d)), the teacher placement rate calculated for high-need schools (as the term “high-need schools” would be defined in § 612.2(d)), the teacher retention rate (as that term would be defined in § 612.2(d)), and the teacher retention rate calculated for high-need schools (as the term “high-need schools” would be defined in § 612.2(d)). The Department proposes to include in § 612.2(d) definitions for the terms “teacher placement rate,” “teacher retention rate,” and “high-need school.”

“Teacher placement rate” would be defined as the combined non-duplicated percentage (calculated annually and pursuant to § 612.5(a)) of new teachers (as that term would be defined in § 612.2(d)) and recent graduates (as that term would be defined in § 612.2(d)) who have been hired in a full-time teaching position for the grade level, span, and subject area in which the teachers were prepared. Under this definition, one or more of the following could, at the State's discretion, be excluded from the calculation of teacher placement rate, provided that the State uses a consistent approach to assess and report on all of its preparation programs: (a) New teachers or recent graduates who have taken teaching positions in another State, (b) new teachers or recent graduates who have taken teaching positions in private schools, (c) new teachers or recent graduates who have taken teaching positions that do not require State certification, or (d) new teachers or recent graduates who have enrolled in graduate school or entered military service.

“Teacher retention rate” would be defined as any of the following three rates (calculated annually and pursuant to § 612.5(a)) as determined by the State, provided that the State uses a consistent approach to assess and report on all teacher preparation programs in the State. The first rate would be the percentage of new teachers (as that term would be defined in § 612.2(d)) who have been hired in full-time teaching positions and who have served for periods of at least three consecutive school years within five years of being granted a level of certification that allows them to serve as teachers of record. The second rate would be the percentage of new teachers who have been hired in full-time teaching positions and reached a level of tenure or other equivalent measure of retention within five years of being granted a level of certification that allows them to serve as teachers of record. The third rate would be one hundred percent less the percentage of new teachers who have been hired in full-time teaching positions and whose employment was not continued by their employer for reasons other than budgetary constraints within five years of being granted a level of certification that allows the teachers to serve as teachers of record. In addition, under this proposed definition of “teacher retention rate,” a State would have the discretion to exclude one or more of the following from the calculation of the teacher retention rate, provided that the State uses a consistent approach to assess and report on all of its teacher preparation programs: (a) New teachers who have taken teaching positions in other States, (b) new teachers who have taken teaching positions in private schools, (c) new teachers who are not retained due to market conditions or circumstances particular to the LEA and beyond the control of teachers or schools, or (d) new teachers who have enrolled in graduate school or entered military service.

“High-need school” would be defined by using the definition of “high-need school” from section 200(11) of the HEA. Specifically, under proposed § 612.2(d), “high-need school” would be defined as a school that, based on the most recent data available, meets one or both of the following definitions. First, a “high-need school” is in the highest quartile of schools in a ranking of all schools served by a local educational agency, ranked in descending order by percentage of students from low-income families enrolled in such schools, as determined by the local educational agency based on a single or a composite of two or more of the following measures of poverty: (a) The percentage of students aged 5 through 17 in poverty counted; (b) the percentage of students eligible for a free or reduced price school lunch under the Richard B. Russell National School Lunch Act; (c) the percentage of students in families receiving assistance under the State program funded under part A of title IV of the Social Security Act; and (d) the percentage of students eligible to receive medical assistance under the Medicaid program. Additionally, or alternatively, a school may be considered a “high-need school,” if, in the case of an elementary school, the school serves students not less than 60 percent of whom are eligible for a free or reduced price school lunch under the Richard B. Russell National School Lunch Act; or in the case of any other school that is not an elementary school, the other school serves students not less than 45 percent of whom are eligible for a free or reduced price school lunch under the Richard B. Russell National School Lunch Act.

Proposed § 612.5(a)(2) would clarify that, in using the employment outcomes measure as an indicator of academic content knowledge and teaching skills of new teachers and recent graduates, a State could, at its discretion, assess traditional and alternative route teacher preparation programs differently based on whether there are differences in the programs that affect employment outcomes, provided that varied assessments result in equivalent levels of accountability and reporting.

Survey Outcomes

The third indicator of the academic content knowledge and teaching skills of new teachers produced by a teacher preparation program would be survey outcome data (see proposed § 612.5(a)(3)). Under proposed § 612.2(d), we would define the term “survey outcomes” as qualitative and quantitative data collected through survey instruments, including, but not limited to, a teacher survey (as that term would be defined in § 612.2(d)) and an employer survey (as that term would be defined in § 612.2(d)), designed to capture perceptions of whether new teachers (as that term would be defined in § 612.2(d)) who are employed as teachers in their first year of teaching in the State where the teacher preparation program is located have the skills needed to succeed in the classroom.

“Teacher survey” would be defined as a survey of new teachers (as that term would be defined in § 612.2(d)) serving in full-time teaching positions for the grade level, span, and subject area in which the teachers were prepared that is designed to capture their perceptions of whether the preparation that they received was effective.

“Employer survey” would be defined as a survey of employers or supervisors designed to capture their perceptions of whether the new teachers (as that term would be defined in § 612.2(d)) they employ or supervise, who attended teacher preparation programs in the State where the teachers are employed or supervised, were effectively prepared.

Accreditation or State Approval To Provide Teacher Candidates With Content and Pedagogical Knowledge and Quality Clinical Preparation and as Having Rigorous Teacher Candidate Entry and Exit Qualifications

The fourth indicator of academic content knowledge and teaching skills of a program's new teachers, reflected in proposed § 612.5(a)(4), would be a determination of whether (a) the teacher preparation program is accredited by a specialized accrediting agency recognized by the Secretary for accreditation of professional teacher education programs or, alternatively, (b) that the program:

• Produces teacher candidates with content and pedagogical knowledge (as that term would be defined in § 612.2(d));

• Produces teacher candidates with quality clinical preparation (as that term would be defined in § 612.2(d)); and

• Produces teacher candidates who have met rigorous teacher candidate entry and exit qualifications (as that term would be defined in § 612.2(d)).

To implement this requirement, the Department proposes to include in proposed § 612.2(d) definitions of the terms “content and pedagogical knowledge,” “quality clinical preparation,” and “rigorous teacher candidate entry and exit qualifications.”

“Content and pedagogical knowledge” would be defined as an understanding of (a) the central concepts and structures of the discipline in which a teacher has been trained, and (b) how to create effective learning experiences that make the discipline accessible and meaningful for all students, including a distinct set of instructional skills to address the needs of English language learners and students with disabilities, in order to assure mastery of the content by the students, as described in applicable professional, State, or institutional standards.

“Quality clinical preparation” would be defined as training that integrates content, pedagogy, and professional coursework around a core of pre-service clinical experiences that at a minimum must (a) be provided, at least in part, by qualified clinical instructors who meet established qualification requirements and who use a training standard that is made publicly available; (b) include multiple clinical or field experiences, or both, that serve diverse, rural, or underrepresented student populations, including English language learners and students with disabilities, and that are assessed using a performance-based protocol to demonstrate candidate mastery of content and pedagogy; and (c) require that teacher candidates use research-based practices, including observation and analysis of instruction, collaboration with peers, and effective use of technology for instructional purposes.

“Rigorous teacher candidate entry and exit qualifications” would be defined as teacher candidate qualifications established by a teacher preparation program using, at a minimum—(a) rigorous entrance requirements based on multiple measures, and (b) rigorous exit criteria based on an assessment of candidate performance that relies on validated professional teaching standards and measures of candidate effectiveness including, at a minimum, measures of curriculum planning, instruction of students, appropriate plans and modifications for all students, and assessment of student learning.

Other Indicators Predictive of a Teacher's Effect on Student Performance

Under proposed § 612.5(b), among the indicators of academic content knowledge and teaching skills of new teachers and recent graduates it uses for purposes of reporting each teacher preparation program's performance under § 612.4, a State could, at its discretion, include other indicators predictive of a teacher's effect on student performance, such as student survey results, provided that the State uses a consistent approach for all of its teacher preparation programs.

Just as we exclude American Samoa, the Commonwealth of the Northern Mariana Islands, the freely associated states of the Republic of the Marshall Islands, the Federated States of Micronesia, the Republic of Palau, Guam, and the United States Virgin Islands from reporting on the indicators of academic content knowledge and teaching skills used to determine a program's level of performance in proposed § 612.4(b) and (c), proposed § 612.5(c) makes the required use of the indicators described in proposed § 612.5(a) and (b) inapplicable to these jurisdictions as well.

Summary of Proposed § 612.5

Under proposed § 612.5, in determining the performance of each teacher preparation program, each State (except for insular areas identified in proposed § 612.5(c)) would need to use student learning outcomes, employment outcomes, survey outcomes, and the program characteristics described above as its indicators of academic content knowledge and teaching skills of the program's new teachers or recent graduates. In addition, the State could use other indicators of its choosing, provided the State uses a consistent approach for all of its teacher preparation programs and these other indicators are predictive of a teacher's effect on student performance. Also, as discussed above under proposed § 612.4(b)(1), each State would need to classify the performance of each teacher preparation program using at least four performance levels—low-performing, at-risk, effective, and exceptional—and meaningfully differentiate those classification levels.

Reasons:

Proposed § 612.5(a) would define how each State would implement its statutory responsibility to include in its report card a description of the criteria the State uses to assess the performance of teacher preparation programs in the State, which must include indicators of the academic content knowledge and teaching skills of students enrolled in the teacher preparation programs. (See section 205(b)(1)(F) of the HEA.) Proposed § 612.5(b) would also describe other indicators that a State would be permitted to use to evaluate the program's performance, which could include any indicator that is predictive of the effect of the new teachers it produces on student performance. We define these other indicators in this way consistent with the general agreement of non-Federal negotiators that the true performance of any teacher preparation program should be assessed in terms of how well the teachers it produces perform.

In defining these indicators of teacher preparation program performance in this way, the Department would be (1) exercising its responsibility under section 205(b) of the HEA to have States report “in a uniform and comprehensible manner that conforms with the definitions [of terms] and methods established by the Secretary”; (2) establishing those indicators of academic content knowledge and teaching skills that would best ensure the reliability, validity, integrity, and accuracy of the data submitted in the SRCs consistent with section 205(c) of the HEA; and (3) ensuring that States and IHEs use fair and equitable methods in reporting the data required by the IRC and SRC consistent with section 208(a) of the HEA. Moreover, we are proposing that States base their assessment of a teacher preparation program's performance on all of these measures of new teachers' and recent graduates' academic content knowledge and teaching skills because, as explained in the discussion of each measure that follows, each measure offers a different lens on whether the program has succeeded in providing new teachers and recent graduates with the content knowledge and teaching skills they need, and because the Department believes that using multiple measures provides more valid and reliable assessments of program quality. In implementing this proposed requirement, States would exercise their own reasonable discretion on just how these measures would be implemented and weighted in order to determine performance levels.

Under proposed § 612.5, the Department would require that each State utilize these indicators for “new teachers” and, where applicable, “recent graduates” who have completed any teacher preparation program in its State. As explained previously, in proposed § 612.2 we would define a “new teacher” as a recent graduate or alternative route participant who, within the last three title II reporting years, received a level of certification or licensure that would allow him or her to serve in the State as a teacher of record for K-12 students and, at the State's discretion, for preschool students. We would define “recent graduate” as an individual whom a teacher preparation program has documented as meeting all the program's requirements within the last three title II reporting years, without regard to whether the individual has been hired as a full-time teacher, has passed a licensure examination, or has been recommended to the State for initial certification or licensure.

We propose this definition of “recent graduate” because an individual could meet all of a teacher preparation program's requirements, but never be hired as a full-time teacher or be recommended to the State for initial certification or licensure. This distinction between new teachers and recent graduates is necessary in order to accurately track teacher placement rates. Without this distinction, a State could define a “recent graduate” as including only those who have received their teaching license or certificate and begun to teach, thereby nullifying the intended ability of that indicator to capture a program's ability to prepare teacher candidates who actually go on to become teachers.

In the following paragraphs, we explain our rationale for proposing the specific indicators we have included in proposed § 612.5, why we believe they are valid and reliable indicators of the academic content knowledge and teaching skills of teacher preparation program graduates, and why we believe these required and optional State indicators proposed in § 612.5(b) will reflect with integrity the level of the program's performance.

Rationale for Student Learning Outcomes

The Secretary believes that student learning outcomes should be included in the criteria States report and use under section 205(b)(1)(F) of the HEA to determine teacher preparation program performance. That provision requires each State to identify in its report card the criteria it is using to identify the performance of each teacher preparation program within an IHE in the State, including its indicators of the academic knowledge and teaching skills of the program's students. We would supplement the required content of the SRC by having States report this same information for all teacher preparation programs in the State—whether operated by an IHE or another entity.

Research from Tennessee and the State of Washington has shown that a teacher's preparation program has a significant effect on the learning gains of a teacher's Kindergarten through 12th grade (K-12) students. In Tennessee, for example, the most effective teacher preparation programs produced graduates who were two to three times more likely to be in the top quintile of teacher effectiveness scores in the State, while the least effective programs produced graduates who were two to three times more likely to be in the bottom quintile. In Washington, the top-performing teacher preparation programs produced new teachers who, on average, raised K-12 student achievement by an amount equal to levels seen in classes that are 20 percent smaller. In both of these States, as well as in Louisiana and North Carolina, which also track data linking student growth to the programs where the students' teachers were prepared, some teacher preparation programs consistently produce new teachers who are able to achieve strong student learning gains, while other programs consistently produce teachers associated with lower levels of growth. We believe that evidence from these States provides a strong basis for including student learning outcomes as an indicator of academic content knowledge and teaching skills of teachers produced by a teacher preparation program.⁵

⁵ See, for example, Tennessee Higher Education Commission, “Report Card on the Effectiveness of Teacher Training Programs,” Nashville, TN (2010); Dan Goldhaber, et al. “The Gateway to the Profession: Assessing Teacher Preparation Programs Based on Student Achievement.” Economics of Education Review, 34 (2013), pp. 29-44.

We believe that for the purpose of title II reporting, States are well positioned to be able to include by April 1, 2018, student growth in tested grades and subjects of the new teachers that come from the program in the data they annually report on a teacher preparation program, and be able to incorporate student learning outcomes into the program's overall performance measure by April 1, 2019. For example, all 50 States and the District of Columbia received State Fiscal Stabilization Fund (SFSF) awards designed to fund, in part, the collection and reporting of student growth data relating to individual teachers in tested grades and subjects by the end of 2013. We believe this will enable States to meet the April 1, 2018, reporting deadline for student growth in tested grades and subjects, as the 2018 SRC will report primarily on data from the 2016-2017 academic year.

Having identified student learning outcomes as a required indicator in proposed § 612.5(a), we have proposed a definition that includes relevant data on student growth, which States could reliably use to assess the academic content knowledge and the teaching skills of new teachers. In particular, we are mindful of the definition of the term “teaching skills” in section 200(23) of the HEA, which includes those skills that enable a teacher to increase student learning, achievement, the ability to apply knowledge, and to effectively convey and explain academic subject matter. Our proposed indicator of student learning outcomes reflects both of these key aspects of the definition of “teaching skills,” which is itself an important element of the criteria required by section 205(b)(1)(F) for assessing teacher preparation program performance.

Specifically, under this measure as defined in proposed § 612.2(d), States would calculate a program's student learning outcomes for each new teacher using (1) aggregate student growth data for students taught by new teachers, (2) a teacher evaluation measure that as defined in § 612.2(d) must, in significant part, include data on student growth for all students, or (3) both. Where a State has already adopted measures of student growth as part of a comprehensive teacher evaluation system, we would permit the State to build its indicators of academic content knowledge and teaching skills linked to student learning outcomes from data provided by these existing teacher evaluation systems. In this regard, we believe that comprehensive teacher evaluations provide richer and more accurate information on teacher quality than student growth data alone. Our proposed definition of “teacher evaluation measure” would ensure that these evaluations are meaningful by requiring that they (1) differentiate teachers on a regular basis using at least three performance levels, (2) use multiple valid measures in determining each teacher's performance level, and (3) include, as a significant factor, data on student growth for all students and other measures of professional practice. We recognize that not all State evaluation systems currently meet our proposed definition, and that States may prefer to use a stand-alone measure of student growth. Alternatively, or in addition, provided that a State's existing measures of student growth are part of a comprehensive teacher evaluation system, a State may use the results of its teacher evaluation system as its indicator of student learning outcomes.

Rationale for Employment Outcomes

The employment outcomes indicator in proposed § 612.5(a)(2) would measure the effectiveness of a teacher preparation program in carrying out another of its pivotal missions—preparing and placing recent graduates as new teachers consistent with local school needs. Under our proposed regulatory framework, a program's employment outcomes would be determined based on its teacher placement rate, teacher placement rate calculated for high-need schools, teacher retention rate, and teacher retention rate calculated for high-need schools. These measures would identify the extent to which a program is successfully placing new teachers who stay in the profession. The requirement to report disaggregated employment outcome measures for high-need schools reflects the need to ensure transparency about which programs are encouraging placement at high-need schools and which schools' recent graduates are succeeding in these placements as reflected by retention rates.

We believe that the use of the employment outcomes indicator is necessary for assessing the effectiveness of teacher preparation programs for several reasons. The goal of teacher preparation programs is to provide prospective teachers with the skills and knowledge needed to pursue a teaching career and remain successfully employed as a teacher, and to produce graduates who meet the needs of local educational agencies. Therefore, the rate at which a program's graduates become and remain employed as teachers is a critical indicator of program quality for prospective students, as well as policymakers and the general public. Acknowledging this, non-federal negotiators suggested including teacher placement and retention as indicators of program performance because such measures reflect employment outcomes for teacher preparation programs consistent with local educational agency needs.

We understand that teacher placement rates and teacher retention rates are affected by some considerations outside of the program's control. Individual teachers may decide to leave the teaching profession either before they begin to teach or afterwards. Such decisions may be due to family considerations, working conditions at their school, or other reasons that do not necessarily reflect upon the quality of their teacher preparation program or the level of content knowledge and teaching skills of the program's graduates. However, we believe that programs that persistently produce teachers who fail to find jobs or, once teaching, fail to remain in teaching, may not be providing the level of content knowledge and teaching skills that new teachers need to succeed in the classroom. Correspondingly, we believe that high placement and retention rates suggest that a teacher preparation program's graduates do have the requisite content knowledge and teaching skills that enable them to demonstrate sufficient competency to find a job, earn positive reviews, and stay in the profession.

This view is also evidenced by higher education accrediting agencies' use of employment outcomes as an indicator of program performance. For example, in 2013, the Council for the Accreditation of Educator Preparation (CAEP) adopted new accreditation standards and annual monitoring and reporting requirements, which include the “ability of completers to be hired in education positions for which they were prepared” as a measure of program outcome and consumer information.⁶ The rate of teacher retention is thus included in the accreditation standards and the accompanying report urges “collaboration with States on preparation measures of common interest, such as employment and retention rates.” Several other institutional and programmatic accrediting agencies also use employment outcomes to assess a program's quality, including the American Bar Association and the Council on Education for Public Health. In addition, some States use employment outcomes in performance-based higher education funding formulas.⁷

⁶ Council for the Accreditation of Educator Preparation, “Annual Reporting and CAEP Monitoring,” (2013). http://caepnet.org/accreditation/standards/annual-reporting-and-caep-monitoring/.

⁷ Southern Regional Education Board, “Essential Elements of State Policy for College Completion: Outcomes-Based Funding,” (2012). http://publications.sreb.org/2012/Outcomes_Based_Funding.pdf.

Congress has also recognized the importance of employment outcome information in connection with higher education programs generally, including with respect to teacher preparation programs specifically. For example, under section 485(a)(1)(R) of the HEA, institutions “must make available to current and prospective students information regarding the placement in employment of, and types of employment obtained by, graduates of the institution's degree or certificate programs.” In addition, “an institution that advertises job placement rates as a means of recruiting students to enroll must make these rates available to prospective students, at or before the time the prospective student applies for enrollment.” ⁸ Additionally, the Title II Teacher Quality Partnership (TQP) Program requires, under section 204(a)(2) of the HEA, that grant applicants establish an evaluation plan that includes strong and measurable performance objectives, including objectives and measures for “increasing teacher retention in the first three years of a teacher's career.” In addition to TQP, retention metrics are included in the statutory requirements for several Department grant programs such as Transition to Teaching, Teachers for a Competitive Tomorrow, and the National Professional Development Program.

⁸ National Postsecondary Education Cooperative, “Information Required to Be Disclosed Under the Higher Education Act of 1965: Suggestions for Dissemination (Updated),” Washington, DC. (2009). http://nces.ed.gov/pubs2010/2010831rev.pdf.

Congress has also included statutory requirements intended to ensure that teacher preparation programs produce new teachers who will address areas of need in local educational agencies and States. Congress's expectations are manifested in statutory requirements that each program provide assurances to the Secretary in its IRC that it is training prospective teachers to fill these needs (sections 205(a)(1)(A)(ii) and 206 of the HEA). Specifically, IHEs that conduct teacher preparation programs are required to provide an assurance in the institutional report card that the IHE is providing training to prospective teachers that “responds to the identified needs of the local educational agencies or States where the institution's graduates are likely to teach based on past hiring and recruitment trends.”

The Department believes that teacher placement and retention data can provide important information on whether there is a labor market alignment between the new teachers and the teacher preparation program's ability to place teachers in areas of teacher shortage and high-need fields and in schools serving high-need populations. Currently, research shows that there are important mismatches in the teacher labor market. For example, one study found that there is a sufficient supply of qualified teachers to compensate for teacher turnover in English, but not for math and science. Additionally, principals were roughly ten percentage points more likely to report serious difficulties filling math and science vacancies than English vacancies.⁹ New York State also reported that while elementary education accounted for 44 percent of the initial teaching certifications awarded, only 17 percent of certified program completers received an elementary and early childhood job placement in the State within two years. This contrasts with an in-subject placement rate of 63 percent for teachers of foreign languages, 59 percent for teachers of English as a second language, and 50 percent for secondary science teachers, suggesting a significant demand and supply mismatch by teaching area in the State.¹⁰ The Department believes that requiring reporting on placement and retention rates will promote greater transparency about this mismatch where it exists in order to help IHEs and policymakers better understand and address this problem.

⁹ Richard M. Ingersoll and David Perda, “Is the Supply of Mathematics and Science Teachers Sufficient?” American Education Research Journal (May 2010). http://aer.sagepub.com/content/47/3/563.

¹⁰ New York Board of Regents, “Teacher Demand and Supply Reports,” (2013). http://www.regents.nysed.gov/meetings/2013Meetings/November2013/TeacherSupplyDemandReports.pdf.

In regard to teacher retention, we believe that this measure reflects, to a significant extent, the degree to which teachers are adequately prepared for the schools that employ them. In a survey of American Federation of Teachers members, 50 percent indicated that their teacher preparation program did not adequately prepare them for the challenges of teaching in the “real world.” ¹¹ This lack of preparation is a concern not only because of the potential impact on the learning outcomes of the students taught by such teachers, but because the Department believes that inadequately prepared teachers are less likely to remain in the classroom, and teacher attrition entails significant costs for States, districts, and schools. Although hard to quantify, research suggests that a conservative estimate of the cost of teacher turnover is 30 percent of the leaving teacher's salary.¹² By requiring reporting on teacher retention rates by program, the Department believes that employers will be able to better understand which teacher preparation programs have strong track records for placing recent graduates as new teachers who stay, and succeed, in the classroom. This information will in turn help employers make informed hiring decisions and may ultimately help districts reduce teacher turnover rates and cut some of the high costs associated with such turnover.

¹¹ American Federation of Teachers Teacher Preparation Task Force, “Raising the Bar: Aligning and Elevating Teacher Preparation and the Teaching Profession,” (2012). http://files.eric.ed.gov/fulltext/ED538664.pdf.

¹² Barnes et al, “The Cost of Teacher Turnover in Five School Districts: A Pilot Study,” National Commission on Teaching and America's Future (2007). http://files.eric.ed.gov/fulltext/ED497176.pdf.

The requirement to report disaggregated employment outcome measures for high-need schools reflects the need to ensure transparency about which programs are encouraging placement at high-need schools and which programs' recent graduates are succeeding in these placements as reflected by retention rates. High-need schools face unique challenges and experience much higher vacancy and attrition rates, compared to other schools. More than 90 percent of high minority concentration districts reported challenges recruiting qualified applicants to teach math and science compared with roughly 40 percent of low minority districts.¹³ High-poverty schools have some of the highest rates of attrition among public schools, and high-poverty schools experience roughly 50 percent higher turnover rates than low-poverty schools.¹⁴ In addition to experiencing larger proportions of teachers leaving the profession, four times as many math and science teachers transfer from high-poverty schools to low-poverty schools than transfer from low-poverty schools to high-poverty schools. Similarly, three-and-a-half times as many math and science teachers transfer from urban to suburban schools as transfer from suburban to urban schools.¹⁵ A limited body of research also suggests that differences in turnover rates result in a higher relative cost to high-need schools than their more advantaged counterparts.¹⁶

¹³ US Department of Education, “State and Local Implementation of the No Child Left Behind Act: Volume VIII—Teacher Quality Under NCLB,” (2009). http://www2.ed.gov/rschstat/eval/teaching/nclb-final/report.pdf.

¹⁴ Richard Ingersoll, “Teacher Turnover and Teacher Shortages: An Organizational Analysis,” American Educational Research Journal (2001). http://www.gse.upenn.edu/pdf/rmi/TeacherTurnoverTeacherShortages-RMI-Fall-2001.pdf.

¹⁵ Richard Ingersoll and Henry May, “The Magnitude, Destinations, and Determinants of Mathematics and Science Teacher Turnover,” Educational Evaluation and Policy Analysis (2012). http://epa.sagepub.com/content/34/4/435.

¹⁶ Barnes et al, “The Cost of Teacher Turnover in Five School Districts: A Pilot Study,” National Commission on Teaching and America's Future (2007). http://files.eric.ed.gov/fulltext/ED497176.pdf.

Recognizing these unique challenges faced by high-need schools, we believe that it is essential to promote transparency in the reporting of employment outcomes through disaggregated information about high-needs schools and requiring that it be factored in significant part in a program's performance rating. In turn, this transparency will inform program improvement and encourage teacher preparation programs to increase their employment retention rates in high-need schools, such as by strengthening their partnerships with high-need schools and districts.

In our discussions about employment outcomes during negotiated rulemaking, we spent a considerable amount of time examining questions and issues concerning the calculation of teacher placement and retention rates for different types of programs.

For example, both the Department and non-Federal negotiators agreed that, in order to minimize the burden associated with calculating teacher placement and teacher retention rates and to better focus the data collection, States should be allowed to include or exclude, at their discretion, certain categories of new teachers from the teacher placement and teacher retention rate calculations for their teacher preparation programs, provided that each State uses a consistent approach to assess and report on all of the teacher preparation programs in the State. These categories include teachers who leave the State, teach in private schools or other settings that do not require State certification or licensure, are not retained due to market conditions or other circumstances particular to the LEA and beyond the control of the teachers or schools, or join the military or enroll in graduate school.

We anticipate that States will have varying circumstances and capacities that would make it difficult for some States to provide data regarding these categories of teachers, while other States would like to analyze this data. For example, some States may have systems in place to track teachers in private schools and others may not, and some States have strong relationships with nearby States where a substantial proportion of out-of-state graduates work and others may not. For this reason, the definitions of “teacher placement rate” and “teacher retention rate” allow a State to exclude one or more of these categories from its calculations, provided that the State uses a consistent approach to assess and report on all of the teacher preparation programs in the State. The Department, however, encourages States to develop appropriate data linkages across States, when possible, to capture teachers that are employed outside of the State in which their teacher preparation programs are located.

Some non-Federal negotiators argued that, because teacher placement rates and teacher retention rates could vary based solely on the kind, rather than quality, of a teacher preparation program, States should be permitted to assess teacher placement and teacher retention rates for traditional programs differently than the way they assess them for alternative route programs. The Department agreed that this flexibility would be appropriate if there are differences in the programs that affect employment outcomes (such as employment requirements for entry into an alternative route program). Therefore, in proposed § 612.5(a)(2), States are permitted, at their discretion, to assess traditional and alternative route teacher preparation programs differently based on whether there are differences in the programs that affect employment outcomes, provided that varied assessments result in equivalent levels of accountability and reporting.

To achieve equivalent standards of accountability in assessments of employment outcomes for traditional programs and alternative route programs, States could employ a variety of approaches. For example, a State might choose to use a single uniform standard for all teacher preparation programs in the State, but apply that standard differently to traditional programs (relative to other traditional programs) compared to alternative route programs (relative to other alternative route programs). Thus, when assessing teacher retention rates, for example, a State might choose to apply a uniform standard to all teacher preparation programs in the State (i.e., to achieve an “exceptional” designation of program quality, a program would need to produce a retention rate in the top quartile of like programs), or it might apply that standard differently for traditional versus alternative route programs (i.e., to attain top quartile status a traditional program would need to meet an 80 percent retention rate threshold relative to other traditional programs, while to reach top quartile status an alternative route program would need to meet a 60 percent retention rate threshold relative to other alternative route programs).

Alternatively, in assessing employment outcomes a State might choose to weight indicators differently for traditional programs versus alternative route programs in order to achieve equivalent standards of accountability. Thus, in States where employment is a prerequisite to entry into alternative route programs, a State might recognize that, by definition, all alternative route programs would have nearly 100 percent placement rates, thereby reducing the value of placement rate as a valid and reliable indicator of such programs' performance. Accordingly, because all alternative route programs in that context would, by definition, have similarly high placement rates, when assessing and reporting on employment outcomes under § 612.5, a State could assess alternative route programs relative to other alternative route programs in order to effectively or explicitly reduce the weight given to placement rate as an indicator of program quality. In doing so, by necessity, the relative weight of other indicators of program performance, which might prove more valid and reliable in that context, would increase.

Non-Federal negotiators were initially divided on whether teacher retention was an accurate measure of teacher preparation program quality. However, given these allowances for calculating teacher retention, the various ways a State might calculate this measure, and State discretion in relative weighting of this indicator as compared to other indicators, a majority of the non-Federal negotiators eventually expressed support for using the measure as one of a comprehensive set of indicators of the academic content knowledge and teaching skills of a program's new teachers and recent graduates as part of a State's criteria for assessing teacher preparation program performance.

Rationale for Survey Outcomes

We propose to use survey outcome data as an indicator of academic content knowledge and teaching skills of new teachers from teacher preparation programs that we would require States to assess under proposed § 612.5(a) in determining program performance. Specifically, through this indicator, States would examine whether employers and the new teachers themselves are satisfied that a teacher preparation program has provided new teachers with the skills needed to succeed in the classroom. Survey outcome data would provide another, more qualitative measure for examining the effectiveness of a teacher preparation program in producing new teachers with requisite academic content and teaching skills.

Two of the major national organizations focused on teacher preparation are now incorporating this kind of survey data as an indicator of program quality. The National Council on Teacher Quality (NCTQ) relies on the use of surveys in its rankings of teacher preparation programs. In its recently adopted accreditation standards, CAEP—which serves as the accreditor of the largest number of teacher preparation programs—requires in its standards that teacher preparation programs measure employer and completer satisfaction and recommend valid and reliable surveys as a method of collecting these data. Just as research shows that K-12 student surveys are a valid means for assessing aspects of teacher effectiveness,¹⁷ the use of satisfaction surveys by employers and program completers, as required by the CAEP standards, is aimed at assessing “the results of preparation at the point where they most matter—in classrooms and schools.” CAEP has also recommended the development of common survey items and instruments for employers and completers and suggests that it could participate in the validation of survey instruments. Specifically, CAEP believes that “much efficiency might be gained through CAEP collaboration with states on preparation measures of common interest, such as employment and retention rates, and perhaps completer and employer surveys.” The use of surveys is thus a practice that is becoming increasingly prevalent and one that the Department expects to contribute to future research on teacher preparation program quality.

¹⁷ Council for the Accreditation of Educator Preparation, “CAEP Accreditation Standards,” (2013). http://caepnet.files.wordpress.com/2013/09/final_board_approved1.pdf.

In addition, it is important to note that graduating student and employer surveys are also employed in the higher education world more broadly, including by accrediting agencies. For example, the Committee on Accreditation of Educational Programs for the Emergency Medical Services Professions requires its accredited programs to conduct surveys of each group of graduating students and the employers of those graduates within 6-12 months after graduation using required graduate survey and employer survey items.¹⁸ Also, the Committee on Accreditation for Education in Neurodiagnostic Technology requires all accredited programs to survey both graduates and employers of graduates six months following graduation using, at a minimum, all items contained in its graduate and employer surveys.¹⁹ Finally, many IHEs conduct graduate and alumni surveys, as well as employer surveys, to help improve their programs.²⁰

¹⁸ “Evaluation Instruments/Program Resources,” Committee on Accreditation of Educational Programs for the Emergency Medical Services Professions. http://coaemsp.org/Evaluations.htm.

¹⁹ “Standardized Graduate and Employer Surveys,” Committee on Accreditation for Education in Neurodiagnostic Technology. http://coa-end.org/?page_id=27.

²⁰ See, for example, “Graduate/Employer Survey Data,” California State University-Fullerton, College of Education. http://ed.fullerton.edu/about-us/accreditation-and-assessment/assessments/graduateemployer-survey-data/.

We believe that this indicator is a useful measure of teacher preparation program quality because many teachers report entering the profession feeling unprepared for classroom realities. Collecting survey data from new teachers and their employers would provide important qualitative information about a teacher's ability to transfer the knowledge and skills acquired in their preparation program to their classrooms. We believe it is important to collect this information from both teachers and their employers because each group represents a different perspective on the quality of the teacher's preparation. We propose that the survey outcome data would be collected through, at a minimum, surveys of new teachers and surveys of employers and supervisors of new teachers, in each case for those new teachers in their first year of teaching who attended a teacher preparation program in the State where the new teachers are employed or supervised.

Non-Federal negotiators discussed at great length the potential burden to States in requiring the use of survey outcomes as an indicator of academic content knowledge and teaching skills of new teachers. Some non-Federal negotiators expressed concern about the potential costs and burdens associated with the requirement.

During the negotiations, non-Federal negotiators broadly rejected a proposal by the Department that the Department take responsibility for, including responsibility for costs of, conducting the surveys of new teachers and their employers and supervisors. These non-Federal negotiators believed that States are better positioned to know what data should be collected and why. Given the reaction of the non-Federal negotiators, the Department is not proposing to take on this responsibility.

Rationale for Accreditation or State Approval To Provide Teacher Candidates With Content and Pedagogical Knowledge and Quality Clinical Preparation and as Having Rigorous Teacher Candidate Entry and Exit Qualifications

The required indicators of teachers' academic content knowledge and teaching skills in proposed § 612.5(a)(1) through (a)(3) are outcome-based measures that we believe will provide strong and clear evidence of the quality of each teacher preparation program. During negotiations, many non-Federal negotiators expressed the view that States should also assess the quality of teacher preparation programs based on indicators of program inputs that provide signals of the program's quality before outcome data are available. In addition, outcome indicators measure results but do not suggest a cause for favorable or unfavorable results, nor do they inform programs about steps they should take in order to improve. For these reasons, we added input measures recommended by non-Federal negotiators as an additional indicator of content knowledge and teaching skills that States would use to determine a program's quality.

Specifically, we propose in § 612.5(a)(4) that, for purposes of its reporting indicators of, and data on, the performance of each teacher preparation program under proposed § 612.4, a State must include as an indicator whether the teacher preparation program either is accredited by a specialized accrediting agency that the Secretary recognizes for accrediting professional teacher education programs or, consistent with § 612.4(b)(3)(i)(B), the program produces teacher candidates with content and pedagogical knowledge and quality clinical preparation, who have met rigorous entry and exit qualifications. Non-Federal negotiators also told us that accrediting agencies base accreditation on these same factors regarding knowledge, clinical preparation, and entry and exit requirements, and thus, an accreditation is tantamount to a State's assurance that the teacher preparation program has these attributes. Accordingly, programs that receive such accreditation would already be determined to have satisfied the indicator.

The non-Federal negotiators proposed these two options not only to give States discretion in how they determined that a program had these input qualities, but also to provide them with a way to determine that alternative route programs, which often are not eligible for specialized accreditation, have these input qualities and so may be designated as exceptional teacher preparation programs using the same indicators as other programs.

The Department agrees with the suggestions of the non-Federal negotiators and believes that use of multiple input-based measures in the assessment of teacher preparation program quality would complement the outcome-based measures in proposed § 612.5(a)(1)-(3).

Rationale for Other Indicators Predictive of a Teacher's Effect on Student Performance

Under proposed § 612.5(b), a State also could use other indicators of academic content knowledge and teaching skills predictive of a teacher's effect on student performance to assess a teacher preparation program's performance. However, in order to be able to compare programs as reflected in proposed § 612.5(b), if a State utilizes such other indicators, we believe the State should apply the same indicators for all of its teacher preparation programs. This would ensure consistent evaluation of a State's teacher preparation programs.

The Department believes that the indicators of academic content knowledge and teaching skills that States are required to collect and report under these proposed regulations would significantly improve the reliability, validity, integrity, and accuracy of teacher preparation program performance evaluation. However, the Department acknowledges that future research may show that other indicators beyond those that are required could provide additional information on teacher preparation program performance. For example, recent research has found that results from surveying students can provide additional reliability in measuring teacher performance, especially when included in a combined measure, and that these data may provide more robust feedback for teachers of non-tested grades and subjects.²¹ This proposed regulatory provision would permit a State, at its discretion, to use this or other such indicators.

²¹ Thomas Kane and Douglas Staiger, “Gathering Feedback for Teaching: Combining High-Quality Observations with Student Surveys and Achievement Gains,” Bill and Melinda Gates Foundation Measures of Effective Teaching (MET) Project (January, 2012). http://www.metproject.org/downloads/MET Gathering Feedback Practioner Brief.pdf.

§ 612.6 What must a State consider in identifying low-performing teacher preparation programs or at-risk teacher preparation programs, and what regulatory actions must a State take with respect to those programs identified as low-performing?

Statute: Section 205(b)(1)(F) of the HEA requires that the State include in its annual report card a description of the State's criteria for assessing the performance of teacher preparation programs within IHEs in the State, including the indicators of the academic content knowledge and teaching skills of students enrolled in the teacher preparation programs. Furthermore, section 205(b) of the HEA provides that States must report not less than the information specified in section 205(b)(1)(A) through (b)(1)(L) of the HEA, and requires States to provide this information in a uniform and comprehensible manner that conforms with the definitions and methods established by the Secretary.

In addition, section 207(a) of the HEA requires States to identify low-performing teacher preparation programs in the State, and provide to the Secretary in the report card an annual list of low-performing teacher preparation programs as well as those programs at risk of being placed on the low-performing teacher preparation program list. Section 207(a) of the HEA further requires a State to provide technical assistance to low-performing teacher preparation programs.

Current Regulations: None.

Proposed Regulations: Under proposed § 612.6(a), we would require States to use criteria that, at a minimum, include the indicators of academic content knowledge and teaching skills from proposed § 612.5, including, in significant part, employment outcomes for high-need schools and student learning outcomes when determining whether a teacher preparation program should be identified as a low-performing teacher preparation program or an at-risk teacher preparation program. (Consistent with our approach in proposed §§ 612.4 and 612.5, the required use of these indicators would not apply to the identification of low-performing or at-risk teacher preparation programs by American Samoa, the Commonwealth of the Northern Mariana Islands, the freely associated states of the Republic of the Marshall Islands, the Federated States of Micronesia, the Republic of Palau, Guam, and the United States Virgin Islands).

Under proposed § 612.6(b), States would also be required to provide technical assistance to improve the performance of any teacher preparation program in its State that has been identified as a low-performing teacher preparation program. Technical assistance may include, but would not be limited to: Providing programs with information on the specific indicators used to determine the program's rating (e.g., specific areas of weakness in student learning, job placement and retention, and new teacher or employer satisfaction); assisting programs to address the rigor of their entry and exit criteria; helping programs identify specific areas of curriculum or clinical experiences that correlate with gaps in graduates' preparation; helping identify potential research and other resources to assist program improvement (e.g., evidence of other successful interventions, other university faculty, other teacher preparation programs, nonprofits with expertise in educator preparation and teacher effectiveness improvement, accrediting organizations, or higher education associations); and sharing best practices from exemplary programs.

Reasons: This section implements the statutory requirement that States conduct an assessment to identify low-performing teacher preparation programs in the State and help those programs to improve their performance by providing technical assistance to them. So that proposed § 612.6 reflects all applicable requirements, we also would reiterate the relevant requirement under proposed § 612.4(b)(1) that the State's criteria include, at a minimum, the indicators of academic content knowledge and teaching skills from § 612.5, including, in significant part, employment outcomes for high-need schools and student learning outcomes. The Department includes a requirement to factor in the placement and retention of new teachers in high-need schools, in significant part, in determining teacher preparation performance because the Secretary believes that a program's ability to train future teachers who succeed in high-need schools is a critical standard for assessing a teacher preparation program's effectiveness. The Secretary believes that a State's reliance in significant part on employment outcomes in high-need schools will encourage teacher preparation programs to improve and strengthen their efforts to prepare new teachers for high-need schools, and thus, will help to address unmet demand and improve learning outcomes in such schools, which is the primary policy objective of the TEACH Grant program. With respect to student learning outcomes, consistent with the approach the Department has taken in promoting educator evaluation systems in programs and initiatives such as ESEA Flexibility, Race to the Top, and the Teacher Incentive Fund, the Secretary believes that the performance of teacher preparation programs should also weight student outcomes, in significant part, because, as with educator evaluation systems, student outcomes are an important, but not exclusive, factor for measuring performance.

The statute also requires that States identify programs that are at-risk of being identified as low-performing, and proposed § 612.6 would state this requirement as well.

Subpart C—Consequences of Withdrawal of State Approval or Financial Support

§ 612.7 What are the consequences for a low-performing teacher preparation program that loses the State's approval or the State's financial support?

Statute: Section 207(b) of the HEA describes the consequences that occur when a teacher preparation program, that the State finds to be low-performing based on its assessment of program performance, loses State approval or financial support. Low-performing teacher preparation programs that have lost State approval or financial support are ineligible for funding awarded by the Department for professional development activities. In addition, these teacher preparation programs may not accept or enroll any student who receives HEA title IV student financial assistance. Further, the affected teacher preparation program must provide transitional support, including remedial services if necessary, for students enrolled when the loss of State approval or financial support occurs.

Current Regulations: None.

Proposed Regulations: Proposed § 612.7(a)(1) and (a)(2) would codify in regulations the statutory requirements that a teacher preparation program from which the State has withdrawn its approval or terminated its financial support because of the State's identification of the program as a low-performing teacher preparation program—

(a) Is ineligible for professional development funding awarded by the Department, and

(b) is not permitted to include any candidate accepted into the teacher preparation program (as defined in proposed § 612.2(d)) or any candidate enrolled in the teacher preparation program (as defined in proposed § 612.2(d)) who receives HEA title IV, student financial assistance in the IHE's teacher preparation program as of the date that the State's approval was withdrawn or the State's financial support was terminated. In proposed § 612.2(d), we would define the term “candidate accepted into a teacher preparation program” as an individual who has been admitted into a teacher preparation program but who has not yet enrolled in any coursework that the IHE has determined to be part of that teacher preparation program. In that section, we would also define the term “candidate enrolled in a teacher preparation program” as an individual who has been accepted into a teacher preparation program and is in the process of completing required coursework but has not completed the teacher preparation program.

Under proposed § 612.7(a)(3), any teacher preparation program from which the State has withdrawn its approval or terminated its financial support because of the State's identification of the program as a low-performing teacher preparation program would also be required to provide transitional support (including remedial services, if necessary) to students enrolled in the teacher preparation program at the IHE at the time of the withdrawal of approval or termination of financial support for a period of time no longer than 150 percent of the published length of the program, but not less than the period of time a student continues in the program (up to 150 percent of the published program length).

Proposed § 612.7(b) would describe the requirements that apply to any IHE administering a teacher preparation program that has lost State approval or financial support based on being identified by the State as a low-performing teacher preparation program. First, under proposed § 612.7(b)(1), such an IHE would be required to notify the Secretary of the loss of State approval or financial support within 30 days of such designation. Second, under proposed § 612.7(b)(2), the IHE would be required to immediately notify each affected student that the IHE is no longer eligible to provide funding to them under title IV, HEA commencing with the next payment period. Finally, under proposed § 612.7(b)(3), the IHE would be required to disclose on its Web site and in promotional materials that it makes available to prospective students the fact that the teacher preparation program has been identified by the State as a low-performing teacher preparation program, has lost State approval or financial support, and that students accepted or enrolled in that program may not receive title IV, HEA funding.

Reasons: Proposed § 612.7(a) implements the statutory requirement that low-performing teacher preparation programs that have lost State approval or financial support are ineligible for funding for professional development activities awarded by the Department, may not accept or enroll any student who receives title IV student financial assistance, and must provide transitional support for students enrolled when the loss of State approval or financial support occurred.

In proposed § 612.7(a)(3), we would require a teacher preparation program that has lost State approval or financial support under this part to provide affected students (such as students currently enrolled in the teacher preparation program) with transitional support for a period of time no longer than 150 percent of the published program length, but not less than the period of time a student continues in the program (up to 150 percent of the published program length). We expect such transitional support to include such services as remedial services, career counseling, or assistance with locating another teacher preparation program for the student.

Regulations governing satisfactory academic progress under § 668.34(b), which apply to all title IV federal student aid, establish a maximum timeframe of no longer than 150 percent of the published length of the educational program relative to the pace at which a student must progress through his or her educational program to ensure that the student will complete the program within the maximum timeframe. To be consistent with the maximum timeframe used for other title IV Federal student aid programs, the Secretary believes that the transitional support under this section should also be provided for a period of time no longer than 150 percent of the published program length. Hence, we propose this same timeframe for transitional support in § 612.7(a)(3).

In addition, given the consequences students face when a teacher preparation program loses State approval or financial support, it is imperative that any IHE administering such a program make this information widely available and do so promptly. For this reason, and to be consistent with other notifications related to HEA title IV programs, we would require such an IHE to notify the Secretary within 30 days.²² This notification is necessary and reasonable because the students in the affected program would no longer be eligible for title IV, HEA funding, and the Department would need to take action to ensure that no further title IV, HEA funds are disbursed to students accepted or enrolled in the affected teacher preparation program. In addition, because a student enrolled or accepted for enrollment in such a program would be unable to receive title IV, HEA funding if he or she remains with the program, we would require under proposed § 612.7(b)(2) that IHEs administering such a program immediately notify each student who is enrolled or accepted into the low-performing teacher preparation program and who receives title IV, HEA financial assistance that, commencing the next payment period, the IHE is no longer eligible to provide such funding to students enrolled or accepted into the low-performing teacher preparation program. Finally, we would require any IHE administering a teacher preparation program that has been identified as low-performing and has lost State approval or financial support to disclose that information on its Web site and in any promotional materials it makes available to prospective students so that prospective students and employers have current information about program quality in order to make informed choices.

²² See, for example, 34 CFR 600.40(d)(1), which requires that any IHE that has lost institutional eligibility to enroll students receiving title IV aid notify the Secretary within 30 days.

§ 612.8 How does a low-performing teacher preparation program regain the eligibility to accept or enroll students receiving Title IV, HEA funds after loss of the State's approval or the State's financial support?

Statute: Section 207(b)(4) of the HEA provides that a low-performing teacher preparation program, from which the State has withdrawn State approval or terminated the State's financial support but which has sufficiently improved its performance, shall have its eligibility for title IV, HEA funds reinstated upon the State's determination of improved performance.

Current Regulations: None.

Proposed Regulations: Under proposed § 612.8(a), a low-performing teacher preparation program that has lost State approval or financial support may have its title IV eligibility and its eligibility for Department funding for professional development activities reinstated if it can demonstrate (1) improved teacher preparation program performance, as determined by the State based on the teacher preparation program performance indicators under proposed § 612.5 and (2) reinstatement by the State of its approval or financial support. In proposed § 612.8(b), we would clarify that, to meet the requirements of proposed § 612.8(a), the IHE must submit an application to the Secretary with supporting documentation that would allow the Secretary to determine that the teacher preparation program that had previously lost State approval or financial support based on poor performance has improved performance as measured using the indicators in proposed § 612.5, and that the State has reinstated its approval or financial support.

Reasons: This section would implement the statutory provision that low-performing teacher preparation programs that have lost State approval or financial support can regain eligibility to accept or enroll students receiving title IV, HEA funding by demonstrating improved performance, as determined by the State. Consistent with the State's reporting of the performance level of each teacher preparation program, as required under proposed § 612.4, we would link improved performance under this requirement with the State's determination of the performance level of the teacher preparation program, using the indicators under proposed § 612.5 and the State's decision to reinstate approval or financial support of the program. Because reinstatement of the authority to award financial assistance under title IV of the HEA would require the Secretary's approval, proposed § 612.8(b) would provide the process by which an IHE would submit an application for reinstatement to the Secretary that will enable the Secretary to determine that the teacher preparation program previously identified by the State as low-performing has met the requirements under proposed § 612.8(a). The Secretary will evaluate an IHE's application to participate in the title IV, HEA programs consistent with 34 CFR 600.20. In the event that an IHE is not granted eligibility to participate in the title IV, HEA programs, that IHE may submit additional evidence to demonstrate to the satisfaction of the Secretary that it is eligible to participate in the title IV, HEA programs.

Part 686—Teacher Education Assistance for College and Higher Education (TEACH) Grant Program

Subpart A—Scope, Purpose and General Definitions

§ 686.2 Definitions

High-Quality Teacher Preparation Program and TEACH Grant-Eligible STEM Program

Statute: Section 420L(1)(A) of the HEA provides that in order to be eligible to participate in the TEACH Grant program, an IHE must, among meeting other requirements, provide “high-quality teacher preparation and professional development services, including extensive clinical experience as part of pre-service preparation” as determined by the Secretary.

Current Regulations: Section 686.2 provides definitions for key terms used for 34 CFR part 686. It does not currently include a definition of “high-quality teacher preparation” or “TEACH Grant-eligible STEM program.”

Proposed Regulations: The Department proposes to include in proposed § 686.2(e) (current § 686.2(d)) a definition for the term “high-quality teacher preparation program” to mean a teacher preparation program that (1) for purposes of the 2020-2021 title IV HEA award year, a State has classified as effective or of higher quality under proposed § 612.4 in either or both the April 2019 and/or the April 2020 State Report Card and for purposes of the 2021-2022 title IV HEA award year and subsequent award years, a State has classified as effective or of higher quality under proposed § 612.4, beginning with the April 2019 State Report Card, for two out of the previous three years, (2) meets the exception from State reporting of teacher preparation performance under 34 CFR 612.4(b)(4)(ii)(D) or (b)(4)(ii)(E), or (3) is a TEACH Grant-eligible science, technology, engineering, or mathematics (STEM) program at a TEACH Grant-eligible institution. We propose to define a TEACH Grant-eligible STEM program as a program in one of the physical, life, or computer sciences; technology; engineering; or mathematics as identified by the Secretary that has not been identified by the Secretary as having fewer than 60 percent of its TEACH Grant recipients completing at least one year of teaching that fulfills the service obligation pursuant to § 686.40 within three years of completing the program for the most recent three years for which data are available. The definition of “teacher preparation program” is discussed elsewhere in this notice.

In proposed § 686.2(d), we would also add a cross-reference to the definition of the term “effective teacher preparation program” in proposed 34 CFR part 612.

Reasons: The term “high-quality teacher preparation program” is not explicitly defined in either the statute or the TEACH Grant program regulations. Currently, TEACH Grants are awarded at more than 800 of the approximately 2,124 IHEs that house a teacher preparation program without, for many of these programs, a specific determination of teacher preparation program quality being made. In addition, some IHEs with teacher preparation programs that have been designated by States as low-performing or at-risk of being low-performing are currently awarding TEACH Grants.

Under the proposed definition of “high-quality teacher preparation program,” the Secretary would determine that a program is a high-quality teacher preparation program only if it has been classified by the State to be an effective teacher preparation program or of higher quality under § 612.4 in either or both the April 2019 and/or the April 2020 State Report Card for the 2020-2021 title IV HEA award year and in two out of the previous three years beginning with the April 2019 State Report Card for the 2021-2022 title IV HEA award year; meets the exception from State reporting of teacher preparation program performance under 34 CFR 612.4(b)(4)(ii)(D) or (b)(4)(ii)(E); or is a TEACH Grant-eligible science, technology, engineering, or mathematics (STEM) program at a TEACH Grant-eligible institution. “Effective or of higher quality” under this definition refers to teacher preparation program performance levels of effective or higher as defined in proposed part 612. New § 686.2(d) includes a cross-reference to the definition of the term “effective teacher preparation program” in part 612 to clarify what we mean by this term in the context of part 686. The proposed language refers to a program being classified as “effective or of higher quality” rather than as an “effective teacher preparation program” or “exceptional teacher preparation program” because States have discretion to classify teacher preparation programs in performance levels other than the four required in part 612. For example, a State could create a performance level above effective, but below exceptional. For the purpose of TEACH Grant eligibility, we intend to require only that a program has been identified as at least an “effective teacher preparation program.”

The Department believes that the proposed definition of high-quality teacher preparation program, which would connect the assessment of teacher preparation program quality under the title II reporting system in proposed part 612 with TEACH Grant program funding, would help ensure that TEACH Grants are awarded only to students in high-quality teacher preparation programs. Research from States that have linked student achievement data to teacher preparation programs such as Louisiana, Tennessee, North Carolina, and Washington State show there are significant and lasting differences in quality between teacher preparation programs, and that high-quality programs can consistently produce teachers who obtain larger student achievement gains than teachers from other preparation programs.²³ For example, in 2003-2004, the Louisiana Board of Regents began examining the growth in achievement of K-12 students and linking the growth in student learning to teacher preparation programs. They began by using achievement data for students from ten school districts, and, over time, have added all school districts in the State and all public and private universities with teacher preparation programs. They have found that some teacher preparation programs prepare new teachers who are equivalent to experienced teachers, while other programs prepare new teachers whose effectiveness is at or below other new teachers.

²³ See, for example, Tennessee Higher Education Commission, “Report Card on the Effectiveness of Teacher Training Programs,” Nashville, TN (2010); Dan Goldhaber, et al. “The Gateway to the Profession: Assessing Teacher Preparation Programs Based on Student Achievement.” Economics of Education Review, 34 (2013), pp. 29-44.

Tennessee passed legislation in 2007 requiring the State Board of Education to analyze the effectiveness of teacher preparation programs. Annually, the Tennessee Higher Education Commission produces “report cards” on each teacher preparation program in the State with information such as teacher preparation program placement and retention rates and the student growth of K-12 students taught by teacher preparation program graduates.

The proposed definition of “high-quality teacher preparation program” includes teacher preparation programs that meet the exception from State reporting of teacher preparation program performance under 34 CFR 612.4(b)(4)(ii)(D), which exempts programs unable to meet the threshold size, or 34 CFR 612.4(b)(4)(E), which exempts programs if reporting of their performance data would be inconsistent with Federal or State confidentiality laws or regulations. We believe that programs that meet one or both of these exceptions should not be excluded from TEACH Grant eligibility because of their small size or the fact that they are subject to privacy laws or regulations that would temporarily delay them from reporting on their performance until they reach an acceptable program size threshold by enrolling more students or aggregating across programs or years under proposed 612.4(b)(4)(ii).

Under this proposed definition for high-quality teacher preparation program, the levels of program performance as reported in State report cards in both the April 2019 and the April 2020 State Report Card for the 2020-2021 title IV HEA award year would determine TEACH Grant eligibility for the 2020-2021 academic year. Subsequently, beginning with the 2021-2022 title IV HEA award year, a program's eligibility would be based on the level of program performance reported in the State Report Card for two out of three years. For example, program eligibility for the 2021-2022 title IV HEA award year, would be based on the level of performance reported in the April 2019, 2020, and 2021 State Report Cards. The State Report Card ratings from April 2018 (if the State exercised its option to report the ratings using the new indicators) and April 2019 would not immediately impact TEACH Grant eligibility. Instead, the loss of TEACH Grant eligibility for low-performing or at-risk programs would become effective July 1, 2020. In addition, the proposed definition of “high-quality teacher preparation program” would include a TEACH Grant-eligible STEM program at a TEACH Grant-eligible institution. A TEACH Grant-eligible STEM program would be defined, in part, as an eligible program, as defined in 34 CFR 668.8, in one of the physical, life, or computer sciences; technology; engineering; or mathematics as identified by the Secretary. This definition is consistent with the definition that was used in the National Science and Mathematics Access to Retain Talent Grant (National SMART Grant) Program's definition of SMART Grant-eligible program.

To meet the proposed definition of a TEACH Grant-eligible STEM program, a program also must, over the most recent three years for which data are available, not have been identified by the Secretary as having fewer than sixty percent of its TEACH Grant recipients complete at least one year of teaching that fulfills the service obligation pursuant to § 686.40 within three years of completing the STEM program. In addition, the definition of TEACH Grant-eligible STEM program would specify that the Secretary will publish an annual list of TEACH Grant-eligible STEM programs identified by Classification of Instructional Program (CIP) codes as defined in the proposed regulations. Publishing this list will enable the public to determine easily whether a specific STEM program is eligible to participate in the TEACH Grant program.

If otherwise eligible, a student who intends to be a teacher may receive a TEACH Grant if the student majors in one of the STEM areas identified by the Secretary using the CIP codes promulgated by the National Center for Education Statistics (which generally include programs in the physical, life, or computer sciences; technology; engineering; or mathematics). Majoring in a STEM field allows a prospective teacher to develop content knowledge in that field. Research has found that a teacher's content specialization in mathematics or science has a positive impact on student achievement in those subjects.²⁴ One way to encourage STEM majors to become teachers is to make TEACH Grants available to them. Note that while research shows that math and science teachers benefit from obtaining a content-area degree rather than a degree in education, research on other content areas such as history and English language arts does not show a similar relationship between content area degrees and teaching success.²⁵

²⁴ Robert Floden and Marco Meniketti, “Research on the Effects of Coursework in the Arts and Sciences and in the Foundations of Education,” Studying Teacher Education: The Report of the AERA Panel on Research and Teacher Education, Mahwah, NJ (2006): 261-308.

²⁵ Ibid.

To ensure that all eligible programs provide high-quality teacher preparation, we believe it is appropriate to require that, over the most recent three years for which data are available, the Secretary has not identified that fewer than sixty percent of a STEM program's TEACH Grant recipients have taught full-time as a highly-qualified teacher in a high-need field in a low-income school in accordance with § 686.40 for at least one year within three years of completing the STEM program. The Secretary believes that sixty percent is the appropriate percentage because we believe TEACH Grant recipients in the STEM fields should enter the teaching profession at the same rates that education majors secure a teaching placement within ten years of receiving their bachelor's degree.²⁶ The Department acknowledges that the overall rate of teaching is not the same as teaching in a high-need field in a low-income school, as is required under TEACH, but we think the rate is nonetheless reasonable because TEACH is designed to support students who have committed to fulfilling their service obligations, and because TEACH recipients are high-achieving students who attended high-quality programs. We have chosen a three-year window in order to allow students time to complete their content training and to enter into and complete a teacher preparation program. For example, we expect that some of these students would need to enroll in and complete a Master's degree to earn a teaching license. A three-year window would allow these students time to complete a Master's degree and then begin fulfilling their TEACH Grant service obligations.

²⁶ Sharon Anderson, “Teacher Career Choices: Timing of Teacher Careers Among 1992-93 Bachelor's Degree Recipients, Postsecondary Education Descriptive Analysis Report,” National Center for Education Statistics, Institute of Education Sciences, U.S. Department of Education, Washington, DC (2008). http://nces.ed.gov/pubs2008/2008153.pdf.

The Secretary requests comments about this framework and particularly on the three-year window and on whether the sixty percent placement rate is a reasonable and realistic placement rate, or whether another rate, such as seventy-five percent, would be more reasonable or could be supported with research, data, or other analysis. The Secretary also requests comments about whether the definition of the term “high-quality teacher preparation program” should include other content majors, such as foreign language programs, at a TEACH Grant-eligible institution. In particular, we invite comment as to whether strong empirical evidence exists that demonstrates that having a teacher with a content specialization in those fields leads to positive effects on student achievement in those subjects.

TEACH Grant-Eligible Institution

Statute: Section 420(L)(1) of the HEA provides that an eligible IHE for TEACH Grant program purposes is an IHE as defined in section 102 of the HEA that is financially responsible and that provides high-quality teacher preparation and professional development services, including extensive clinical experience as part of pre-service preparation; pedagogical coursework or assistance in the provision of such coursework, including the monitoring of student performance, and formal instruction related to the theory and practices of teaching; and supervision and support services to teachers, or assistance in the provision of such services, including mentoring focused on developing effective teaching skills and strategies.

Section 420L(2) of the HEA defines “post-baccalaureate” as a program of instruction for individuals who have completed a baccalaureate degree, that does not lead to a graduate degree, and that consists of courses required by a State in order for a teacher candidate to receive a professional certification or licensing credential that is required for employment as a teacher in an elementary school or secondary school in that State, except that such term does not include any program of instruction offered by an eligible IHE that offers a baccalaureate degree in education.

Current Regulations: Current § 686.2(d) defines a “TEACH Grant-eligible institution” as an eligible institution as defined in 34 CFR part 600 that meets financial responsibility standards established in 34 CFR part 668, subpart L, or that qualifies under alternative standards in 34 CFR 668.175, and that meets one of the following four options:

Option 1: The IHE provides a high-quality teacher preparation program at the baccalaureate or master's degree level that is either (a) accredited by a specialized accrediting agency recognized by the Secretary for the accreditation of professional teacher education programs or (b) is approved by a State and includes a minimum of 10 weeks of full-time pre-service clinical experience, or its equivalent, and provides either pedagogical coursework or assistance in the provision of such coursework.

To meet Option 1, the IHE must also provide supervision and support services to teachers, or assist in the provision of services to teachers, such as identifying and making available information on effective teaching skills or strategies; identifying and making information on effective practices in the supervision and coaching of novice teachers available; and mentoring focused on developing effective teaching skills and strategies.

Option 2: The IHE provides a two-year program acceptable for full credit in a baccalaureate teacher preparation program under Option 1 in this section or acceptable for full credit in a baccalaureate degree program in a high-need field under Option 3 (described in the following paragraph).

Option 3: The IHE provides a baccalaureate degree that, in combination with other training or experience, will prepare an individual to teach in a high-need field and has entered into an agreement with an IHE under Option 1 or Option 4 to provide courses necessary for students to begin a teaching career.

Option 4: The IHE provides a post-baccalaureate program of study.

Proposed Regulations: The Department proposes to amend the definition of “TEACH Grant-eligible institution” in current § 686.2(d) to provide that, to be TEACH Grant-eligible, an IHE must provide at least one teacher preparation program at the baccalaureate or master's degree level that is a high-quality teacher preparation program, as that term would be defined in proposed § 668.2(e). (Note that we would redesignate current § 686.2(d) as proposed § 686.2(e), and the definition of “TEACH Grant-eligible institution” would now be in § 686.2(e).

We would remove from paragraph (1)(i) of the current definition of “TEACH Grant-eligible institution” in current § 686.2(d) the requirement that an IHE provide a program that (1) is accredited by a specialized accrediting agency or (2) is approved by a State and includes a minimum of 10 weeks of full-time pre-service clinical experience, and provides either pedagogical coursework or assistance in the provision of such coursework. The substance of this removed language would be captured in the proposed indicators of teacher preparation program performance determined under proposed §§ 612.5(a)(4)(i) and (a)(4)(ii), respectively, and reported under the title II reporting system under proposed § 612.4(b)(3)(i)(B). We believe that these requirements, while important, should be part of a broader examination of a program's quality and not considered separate from other measures. For a full discussion of these proposed provisions, please refer to the preamble discussion related to proposed §§ 612.4 and 612.5 earlier in this notice.

In paragraph (iii) of the proposed definition of “TEACH Grant-eligible institution,” we would include any eligible IHE that offers a TEACH Grant-eligible science, technology, engineering or mathematics (STEM) program (as defined in proposed § 686.2(e)). In addition to offering a TEACH Grant-eligible STEM program, such an IHE would be required to have an agreement with an IHE that either provides at least one high-quality teacher preparation program at the baccalaureate or master's degree level that also provides supervision and support services to teachers or assists in the provision of services to teachers, or that provides a high-quality teacher preparation program that is a post-baccalaureate program of study to provide courses necessary for students in the TEACH Grant-eligible STEM program to begin a career in teaching.

We propose removing from the definition of TEACH Grant-eligible institution in current § 686.2(d) paragraphs (2)(ii) and (3) so that a financially responsible IHE that (1) offers only a two-year program acceptable for full credit in a baccalaureate degree program in a high-need field in a TEACH-Grant eligible institution or (2) offers only a baccalaureate degree that in combination with other training or experience will prepare an individual to teach in a high-need field would no longer be considered a TEACH Grant-eligible institution. However, a financially responsible IHE that offers a two-year program acceptable for full credit in a TEACH Grant-eligible program offered by an IHE described in paragraph (1) of the definition of TEACH Grant-eligible institution, or a TEACH Grant-eligible STEM program, offered by an IHE described in paragraph (iii) of the definition of TEACH Grant-eligible institution, would be considered a TEACH Grant-eligible institution.

Finally, we propose amending paragraph (4) (to be redesignated as paragraph (iv)) of the definition of “Teach Grant-eligible institution” to provide that, for a post-baccalaureate program of study to meet the definition, it must be a high-quality teacher preparation program.

Reasons: The Department is proposing these changes in order to consistently implement—at the pre-baccalaureate, baccalaureate, and post-baccalaureate levels—the requirement that, to be a TEACH-Grant eligible institution, an IHE must provide high-quality teacher preparation. We explain in the previous section the reasons for our focus on high-quality teacher preparation under part 686. We also explain in the previous section why TEACH Grant-eligible STEM programs at TEACH Grant-eligible institutions meet the proposed definition of high-quality teacher preparation program.

An IHE that is an eligible institution as defined in 34 CFR part 600 and meets the financial responsibility standards established in 34 CFR part 668, subpart L, or that qualifies under an alternative standard in 34 CFR 668.175 would be considered a TEACH Grant-eligible institution if it provides a TEACH Grant-eligible STEM program and has entered into an agreement with an IHE described in paragraph (i) or (iv) under the definition of TEACH Grant-eligible institution to provide courses necessary for its students to begin a career in teaching. While teacher preparation programs are evaluated under the title II reporting system, TEACH Grant-eligible STEM programs would not be evaluated under the title II reporting system. In order to ensure that TEACH Grant-eligible STEM programs provide their students with a pathway to teaching, proposed paragraph (iii) of the definition of Teach Grant-eligible institution in proposed § 686.2(e) would require that the relevant TEACH Grant-eligible STEM program enter into an agreement with an IHE described in paragraphs (i) or (iv) of the definition (an IHE with a teacher preparation program or a post-baccalaureate program) to provide courses necessary for its students to begin a career in teaching. TEACH Grant recipients would, therefore, have access to necessary teacher preparation training to supplement and enhance their substantive knowledge and ensure they are prepared to teach.

TEACH Grant-eligible program

Statute: The HEA does not define the term “TEACH Grant-eligible program.”

Current Regulations: Current § 686.2(d) defines “TEACH Grant-eligible program” as an eligible program, as defined in 34 CFR 668.8, that is a program of study designed to prepare an individual to teach as a highly-qualified teacher in a high-need field and leads to a baccalaureate or master's degree, or is a post-baccalaureate program of study. A two-year program of study acceptable for full credit toward a baccalaureate degree is considered to be a program of study that leads to a baccalaureate degree.

Proposed Regulations: The Department proposes to amend the definition of “TEACH Grant-eligible program” under current § 686.2(d). (Note that we would redesignate current § 686.2(d) as proposed § 686.2(e), and the definition of “TEACH Grant-eligible program” would now be in § 686.2(e).) A TEACH Grant-eligible program would no longer be defined simply as a program of study. Rather, under our proposed revisions to the definition, to be a TEACH Grant-eligible program, the program would have to be a high-quality teacher preparation program (as that term would be defined in proposed § 686.2(e)) that is designed to prepare an individual to teach as a highly-qualified teacher in a high-need field and leads to a baccalaureate or master's degree, or is a post-baccalaureate program of study. Further, under the proposed definition of “TEACH Grant-eligible program,” a two-year program of study acceptable for full credit toward a baccalaureate degree must be in a high-quality teacher preparation program (as that term would be defined in proposed § 686.2(e)) to be considered a program of study that leads to a baccalaureate degree.

Reasons: The Department is proposing these changes in order to implement the statutory requirement that to be a TEACH-Grant eligible program, the program must be a high-quality teacher preparation program. Simply offering a baccalaureate, master's, or post-baccalaureate degree is not sufficient for a program to be deemed “high-quality.” The Secretary believes determinations of quality should be based on indicators of effectiveness linked to the academic content and teaching skills of new teachers from teacher preparation programs, specifically the indicators that States use to evaluate programs under part 612. The importance of focusing on high-quality teacher preparation programs is discussed further under the heading “High-quality teacher preparation program and TEACH Grant-eligible STEM program.”

Educational Service Agency and School or Educational Service Agency Serving Low-Income Students (Low-Income School)

For a discussion related to the proposed additions of the defined terms “educational service agency” and “school or educational service agency serving low-income students (low-income school),” please refer to our preamble discussion under the heading “Service Obligations for the TEACH Grant program: Teaching Service Performed for an Educational Service Agency (34 CFR 686.2, 686.12, 686.32, 686.40, and 686.43),” later in this document.

§§ 686.3(c), 686.11(a)(1)(iii), and 686.37(a)(1) Duration of Student Eligibility for TEACH Grants

Statute: Section 420M(d)(1) and (d)(2) of the HEA include a number of TEACH Grant eligibility provisions, including a provision stating that the maximum amount an undergraduate or post-baccalaureate student may receive in TEACH Grants is $16,000 and that the maximum amount a graduate student may receive in TEACH Grants is $8,000. However, neither this section nor any other section of the statute addresses the duration of student eligibility for TEACH Grants when a previously eligible TEACH Grant program is no longer considered TEACH Grant-eligible.

Current Regulations: Current § 686.3(a) provides that an undergraduate or post-graduate student enrolled in a TEACH Grant-eligible program may receive the equivalent of up to four Scheduled Awards (as defined in § 686.2(d)) during the period the student is completing the first undergraduate program of study and first post-baccalaureate program of study. Current § 686.3(b) provides that a graduate student is eligible to receive the equivalent of up to two Scheduled Awards during the period required for the completion of a TEACH Grant-eligible master's degree program of study. Current § 686.3 does not address duration of student eligibility for a student who is enrolled in a TEACH Grant-eligible program or a TEACH Grant-eligible STEM program that loses eligibility subsequent to the student's receipt of a TEACH Grant.

Proposed Regulations: The Department proposes to revise current § 686.3 by adding a new paragraph (c). This new paragraph would clarify that an otherwise eligible student who received a TEACH Grant for enrollment in a TEACH Grant-eligible program or a TEACH Grant-eligible STEM program would remain eligible to receive additional TEACH Grants to complete that program even if the program the student was enrolled in was subsequently no longer considered a TEACH Grant-eligible program or a TEACH Grant-eligible STEM program. Additionally, otherwise eligible students who received a TEACH Grant for enrollment in a program before July 1 of the year these proposed regulations become effective would remain eligible to receive additional TEACH Grants to complete that program even if the program the student enrolled in is not a TEACH Grant-eligible program under proposed § 686.2(e).

Consistent with this change to proposed § 686.3, we would also amend current § 686.11(a)(1)(iii) to add that an otherwise eligible student who received a TEACH Grant and who is completing a program under proposed § 686.3(c) would be eligible to receive a TEACH Grant.

Finally, we would amend current § 686.37(a)(1), as it relates to institutional reporting requirements, to require that an IHE provide to the Secretary information about the eligibility of each TEACH Grant recipient awarded a TEACH Grant under proposed § 686.3(c).

Reasons: In the proposed regulations, program eligibility is linked to title II reporting and, to be eligible, STEM programs must maintain a certain percentage of students who fulfill a year of the service obligation within three years of graduating. As a result, program eligibility may change from year to year. The Secretary believes that a student who begins a TEACH Grant-eligible program or TEACH Grant-eligible STEM program and receives a TEACH Grant should not be penalized if the program the student attends is subsequently not considered to be a TEACH Grant-eligible program or a TEACH Grant-eligible STEM program. In such a case, we believe that the student should continue to be eligible to receive a TEACH Grant under proposed §§ 686.3(c) and 686.11(a)(1)(iii). Because a student who receives one TEACH Grant is obligated to fulfill the requirements of the agreement to serve—generally that the student teach full-time as a highly-qualified teacher in a high-need field in a low-income school for four years within eight years after the student completes his or her program—the Secretary believes it would be unfair to deny a student additional TEACH Grants to complete a program that lost TEACH Grant eligibility after the student received a TEACH Grant for that program and incurred a service obligation.

We would also make corresponding changes to student eligibility requirements for the TEACH Grant program as well as to institutional reporting requirements for students receiving TEACH Grants under these circumstances to reflect this provision.

Service Obligations for the TEACH Grant Program: Teaching Service Performed for an Educational Service Agency (§§ 686.2, 686.12, 686.32, 686.40, and 686.43)

Statute: Section 420N(b) of the HEA requires that a TEACH Grant recipient, as a condition of receiving a TEACH Grant, serve as a full-time highly-qualified teacher in a high-need field at an elementary or secondary school serving low-income children (low-income school) for not less than four academic years within eight years of completing the course of study for which the recipient received a TEACH Grant.

A “low-income school” is described in section 465(a)(2)(A) of the HEA as:

(1) A public or other nonprofit private elementary or secondary school or an educational service agency that has been determined by the Secretary, after consultation with the State educational agency in the State in which the school is located, to be a school in which the number of children meeting a measure of poverty under section 1113(a)(5) of the ESEA exceeds 30 percent of the total number of children enrolled in such school, and is in a school district of an LEA that is eligible for assistance under part A, title I of the ESEA; or

(2) a public or other nonprofit private elementary school or secondary school or location operated by an educational service agency that has been determined by the Secretary, after consultation with the State educational agency of the State in which the educational service agency operates, to be a school or location at which the number of children taught who meet a measure of poverty under section 1113(a)(5) of the ESEA exceeds 30 percent of the total number of children taught at such school or location.

The Higher Education Opportunity Act of 2008 (Public Law 110-315) (HEOA) amended section 465(a)(2)(A) of the HEA to include educational service agencies in the description of a low-income school, and added a new section 481(f) that provides that the term “educational service agency” has the meaning given the term in section 9101 of the ESEA.

Current Regulations: The current regulations governing the TEACH Grant program do not reflect the fact that a TEACH Grant recipient may fulfill his or her service obligation to teach in a low-income school by teaching in a school or location operated by an educational service agency.

Proposed Regulations: In proposed § 686.2(e) (current § 686.2(d)), the Department proposes to define “educational service agency” to mean a regional public multiservice agency authorized by State statute to develop, manage, and provide services or programs to LEAs, as defined in section 9101 of the ESEA, as amended.

In proposed § 686.2(e) (current § 686.2(d)), we would also remove the term “school serving low-income students (low-income school)” and its definition and replace them with the term “school or educational service agency serving low-income students (low-income school)” and its definition. We would make conforming changes in other provisions that currently refer to “school serving low-income students (low-income school).” Specifically, we would amend §§ 686.12(b)(1)(i) and (b)(2) (Agreement to serve); 686.32(a)(3)(ii), (c)(4)(iii), and (c)(4)(v) (Counseling requirements); 686.40(b) and (f) (Documenting the service obligation); and 686.43(a)(1) (Obligation to repay the grant), to add references to an “educational service agency” as appropriate, to make it clear that a TEACH Grant recipient can satisfy his or her agreement to serve in a low-income school by teaching in a school or location operated by an educational service agency.

Reasons: We are proposing to amend §§ 686.2, 686.12, 686.32, 686.40, and 686.43 of the TEACH Grant program regulations to reflect the statutory change made by the HEOA to section 465(a)(2)(A) of the HEA that allows a TEACH Grant recipient to satisfy his or her service obligation to teach in a low-income school by teaching in an educational service agency, and we are adopting the definition of that term from section 9101 of the ESEA as required by section 481(f) of the HEA. A TEACH Grant recipient can satisfy his or her service obligation by teaching in a Head Start program provided by an educational service agency at an elementary school or secondary school or other location that meets the poverty requirement.

Service Obligations for the TEACH Grant Program: Teaching in a High-Need Field (§§ 686.12 and 686.32)

Statute: As stated in the previous discussion, section 420N(b) of the HEA requires a TEACH Grant recipient to serve as a full-time highly-qualified teacher in a high-need field at a low-income school as a condition of receiving a TEACH Grant. Section 420N(b)(1)(C) of the HEA describes high-need fields as mathematics, science, foreign languages, bilingual education, special education, reading specialist, or another field documented as high-need by the Federal Government, State government, or LEA, and approved by the Secretary.

The HEOA added section 420N(d)(1) to the HEA to provide that, for fields documented as high-need by the Federal Government, State government, or LEA, and approved by the Secretary, a TEACH Grant recipient may fulfill his or her service obligation by teaching in a field that was designated as high-need when the recipient applied for the grant, even if the field is no longer designated as high-need when the recipient begins teaching. This change became effective on July 1, 2010.

Current Regulations: The definition of “high-need field” in current § 686.2 is similar to the statutory definition of the term included in section 420N(b)(1)(C) of the HEA. As in section 420N(b)(1)(C) of the HEA, in the definition of “high-need field” in current § 686.2(d), a high-need field that is not specified in the regulation must be documented as high-need by the Federal Government, State government, or LEA, and approved by the Secretary, in order for it to be determined a high-need field. The definition of “high-need field” in current § 686.2(d) also specifies that the high-need field must be listed in the Department's annual Teacher Shortage Area Nationwide Listing (Nationwide List) in accordance with 34 CFR 682.210(q), to be included as a high-need field.

Under current § 686.12(d), a TEACH Grant recipient may satisfy his or her service obligation by teaching in a high-need field that is listed in the Nationwide List only if that field is designated by a State as high-need and included in the Nationwide List at the time the recipient begins qualifying teaching in that field in that State.

Under current § 686.40(c)(2), if a grant recipient begins qualified full-time teaching service in a State in a high-need field designated by that State and listed in the Nationwide List and in subsequent years that high-need field is no longer designated by the State in the Nationwide List, the grant recipient will be considered to continue to perform qualified full-time teaching service in satisfaction of his or her agreement to serve.

Proposed Regulations: We propose to add a new paragraph (d) to current § 686.12 to reflect the statutory change made by the HEOA to section 420N(d)(1) of the HEA.

Specifically, proposed § 686.12(d) would provide that, in order for a grant recipient's teaching service in a high-need field listed in the Nationwide List to count toward satisfying the recipient's service obligation, the high-need field in which he or she prepared to teach must be listed in the Nationwide List for the State in which the grant recipient begins teaching in that field—

(1) At the time the grant recipient begins qualifying teaching service in that field (even if that field subsequently loses its high-need designation for that State); or

(2) For teaching service performed on or after July 1, 2010, at the time the grant recipient begins qualifying teaching service in that field or when the grant recipient signed the agreement to serve or received the TEACH Grant (even if that field subsequently loses its high-need designation for that State before the grant recipient begins qualifying teaching service).

The proposed regulations would also make technical changes to § 686.32(a)(3)(iii)(B) and (c)(4)(iv)(B), regarding initial and exit counseling provided to a TEACH Grant recipient, to reflect the statutory change to section 420N(d)(1) of the HEA and to be consistent with proposed § 686.12(d).

Reasons: Proposed § 686.12(d) would implement the statutory change to section 420N(d)(1) of the HEA by the HEOA discussed above. To implement this provision of the HEA, we are proposing regulations, in § 686.12(d), that interpret the term “when the recipient applied for the grant” to relate to the date when the recipient signed the agreement to serve or received the TEACH Grant, because the use of two dates provides both the Department and the TEACH Grant recipient with the most flexibility. Currently, the Department already tracks the date the recipient signs the agreement to serve, and the date a grant recipient receives a TEACH Grant.

While we did consider using the date the TEACH Grant recipient filed a Free Application for Federal Student Aid (FAFSA) for this determination, we declined to take this approach because the Department's TEACH Grant servicing system does not currently contain the FAFSA filing date, and adding this information to the TEACH Grant servicing system would require expensive changes. We do not believe these system changes are necessary in light of other alternatives available.

We believe that permitting the use of either date is also beneficial for TEACH Grant recipients. The Nationwide List is published on an award year basis, and it is possible that the date a grant recipient signs the agreement to serve and the date he or she receives the grant could fall in different award years. Using either date provides the grant recipient with a choice of which Nationwide List to use in determining which high-need field to pursue as a course of study. The TEACH Grant recipient can also be assured that, when the grant recipient begins teaching, service done in that high-need field will qualify as eligible service.

Eligibility for a New TEACH Grant After Receiving a Discharge of the TEACH Grant Agreement to Serve Based on Total and Permanent Disability (§ 686.11)

Statute: Section 420N(d)(2) of the HEA authorizes the Secretary to establish categories of extenuating circumstances under which a TEACH Grant recipient who is unable to fulfill all or part of the recipient's service obligation may be excused from fulfilling that portion of the recipient's service obligation.

Current Regulations: Current § 686.42(b) provides that a TEACH Grant recipient's agreement to serve is discharged if the recipient becomes totally and permanently disabled, as that term is defined in 34 CFR 682.200(b), and applies for, and satisfies the eligibility requirements for, a total and permanent disability discharge of a Direct Loan in accordance with 34 CFR 685.213. The TEACH Grant eligibility requirements in current § 686.11 do not address the eligibility of a TEACH Grant recipient for a new TEACH Grant after receiving a discharge of the agreement to serve based on total and permanent disability.

Proposed Regulations: We propose to add a new paragraph to § 686.11 to address the eligibility of a TEACH Grant recipient for a new TEACH Grant after receiving a discharge of the agreement to serve based on total and permanent disability. Proposed § 686.11(d) would provide that, if a student's previous TEACH Grant service obligation or title IV, HEA loan was discharged based on total and permanent disability, the student is eligible to receive a new TEACH Grant only if the student:

• Obtains a certification from a physician that the student is able to engage in substantial gainful activity as defined in 34 CFR 685.102(b);

• Signs a statement acknowledging that neither the service obligation for the TEACH Grant the student receives nor any previously discharged service agreement on which the grant recipient is required to resume repayment in accordance with § 686(d)(1)(iii) can be discharged in the future on the basis of any impairment present when the new grant is awarded, unless that impairment substantially deteriorates and the grant recipient applies for, and meets the eligibility requirements for, a discharge in accordance with 34 CFR 685.213; and

• For a situation in which the student receives a new TEACH Grant within three years of the date that any previous TEACH Grant service obligation or title IV loan was discharged due to a total and permanent disability in accordance with § 686.42(b), 34 CFR 685.213(b)(7)(i)(B), 34 CFR 674.61(b)(6)(i)(B), or 34 CFR 682.402(c)(6)(i)(B), the grant recipient acknowledges that he or she is once again subject to the terms of the previously discharged TEACH Grant agreement to serve in accordance with § 686.42(b)(5) before receiving the new grant and resumes repayment on the previously discharged loan in accordance with § 685.213(b)(47), 34 CFR 674.61(b)(6), or 34 CFR 682.402(c)(6).

Reasons: We are proposing to add eligibility requirements that require a TEACH Grant recipient to be subject to the terms of a previously discharged TEACH Grant agreement to serve, and to resume repayment on any previously discharged loan before receiving a new TEACH Grant, because the receipt of a new TEACH Grant, which requires the grant recipient to work as a teacher, amounts to an implicit acknowledgement that the recipient is able to engage in substantial gainful activity and is therefore no longer totally and permanently disabled. We are also proposing to add eligibility requirements to address this situation in order to make the TEACH Grant program regulations consistent with and conform to the rules governing borrower eligibility for a new HEA, title IV loan after receiving a total and permanent disability discharge on a prior loan.

Discharge of the TEACH Grant Agreement To Serve Based on the Total and Permanent Disability of the TEACH Grant Recipient (§ 686.42(b))

Statute: Section 420N(d)(2) of the HEA provides the Secretary with regulatory authority to establish categories of extenuating circumstances under which a TEACH Grant recipient who is unable to fulfill all or part of his or her service obligation may be excused from fulfilling that portion of the service obligation.

Current Regulations: Current § 686.42(b) provides for a discharge of the service obligation if the TEACH Grant recipient applies for, and satisfies the eligibility requirements for, a total and permanent disability discharge of a Direct Loan in 34 CFR 685.213.

Proposed Regulations: We propose to remove current § 686.42(b)(2), which provides that the eight-year time period in which the grant recipient must complete the service obligation remains in effect during the conditional discharge period described in 34 CFR 685.213(c)(3) unless the grant recipient is eligible for a suspension based on a condition that is a qualifying reason for leave under the Family Medical Leave Act.

We would also remove current § 686.42(b)(3), which requires that interest continues to accrue on each TEACH Grant disbursement unless and until the grant recipient's agreement to serve is discharged by the Secretary.

In addition, we would remove current § 686.42(b)(4) and modify current § 686.42(b)(2) to provide that, if at any time the Secretary determines that the grant recipient does not meet the requirements of the three-year period following the discharge in 34 CFR 685.213(b)(5), the Secretary will notify the grant recipient that the grant recipient's obligation to satisfy the terms of the agreement to serve is reinstated.

Finally, we would add new § 686.42(b)(3) to clarify that the Secretary's notification under § 686.42(b)(2) would include the reason or reasons for reinstatement, provide information on how the grant recipient may contact the Secretary if the grant recipient has questions about the reinstatement or believes that the agreement to serve was reinstated based on incorrect information, inform the grant recipient that interest accrual will resume on TEACH Grant disbursements made prior to the date of the discharge, and inform the TEACH Grant recipient that he or she must satisfy the service obligation within the portion of the eight-year period that remained after the date of the discharge.

Reasons: The current total and permanent disability discharge provisions in § 686.42(b) of the TEACH Grant regulations are modeled on the Direct Loan Program regulations and provide that, if a TEACH Grant recipient becomes totally and permanently disabled, the grant recipient's service obligation is discharged if the TEACH Grant recipient applies for, and satisfies the same eligibility requirements for, a total and permanent disability discharge of a Direct Loan in 34 CFR 685.213. Much like a Direct Loan borrower who cannot repay his or her loan because of a total and permanent disability, a disabled TEACH Grant recipient cannot comply with the service obligation because he or she cannot work and earn money. The Department processes TEACH Grant applications for total and permanent disability in the same manner it processes applications for the Federal Family Education Loan (FFEL) and Direct Loan programs. On November 1, 2012, we published final regulations that amended the Perkins, FFEL, and Direct Loan program regulations (77 FR 66088) to streamline the total and permanent disability discharge application process and provide more detailed information in the various notifications received by the borrower. We are proposing to amend the provisions authorizing the discharge of a TEACH Grant recipient's agreement to serve based on total and permanent disability to conform to the changes to the discharge process set forth in the November 1, 2012 final regulations.

Executive Orders 12866 and 13563

Regulatory Impact Analysis (RIA) for Teacher Preparation Proposed Regulations

Under Executive Order 12866, the Secretary must determine whether this regulatory action is “significant” and, therefore, subject to the requirements of the Executive Order and subject to review by the Office of Management and Budget (OMB). Section 3(f) of Executive Order 12866 defines a “significant regulatory action” as an action likely to result in regulations that may—

(1) Have an annual effect on the economy of $100 million or more, or adversely affect a sector of the economy; productivity; competition; jobs; the environment; public health or safety; or State, local or tribal governments or communities in a material way (also referred to as “economically significant” regulations);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is a significant regulatory action subject to review by OMB under section 3(f) of Executive Order 12866.

We have also reviewed these regulations pursuant to Executive Order 13563, published on January 21, 2011 (76 FR 3821), which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor their regulations to impose the least burden on society, consistent with obtaining regulatory objectives, taking into account, among other things, and to the extent practicable, the costs of cumulative regulations;

(3) In choosing among alternative regulatory approaches, select those approaches that maximize net benefits (including potential economic, environmental, public health and safety, and other advantages; distributive impacts; and equity);

(4) To the extent feasible, specify performance objectives, rather than specifying the behavior or manner of compliance that regulated entities must adopt; and

(5) Identify and assess available alternatives to direct regulation, including providing economic incentives to encourage the desired behavior, such as user fees or marketable permits, or providing information upon which choices can be made by the public.

We emphasize as well that Executive Order 13563 requires agencies “to use the best available techniques to quantify anticipated present and future benefits and costs as accurately as possible.” In its February 2, 2011, memorandum (M-11-10) on Executive Order 13563, the Office of Information and Regulatory Affairs within the Office of Management and Budget emphasized that such techniques may include “identifying changing future compliance costs that might result from technological innovation or anticipated behavioral changes.”

We are issuing these proposed regulations only upon a reasoned determination that their benefits justify their costs and we selected, in choosing among alternative regulatory approaches, those approaches that maximize net benefits. Based on this analysis and the reasons stated in the preamble, the Department believes that these proposed regulations are consistent with the principles in Executive Order 13563.

In this Regulatory Impact Analysis we discuss the need for regulatory action, the potential costs and benefits, net budget impacts, assumptions, limitations, and data sources, as well as regulatory alternatives we considered. Although the majority of the costs related to information collection are discussed within this RIA, elsewhere in this NPRM under Paperwork Reduction Act of 1995, we also identify and further explain burdens specifically associated with information collection requirements.

I. Need for Regulatory Action

Recent international assessments of science, reading, and math knowledge have revealed that the United States is significantly behind other countries in preparing students to compete in the global economy.²⁷ Although many factors influence student achievement, a large body of research has used value-added analysis to demonstrate that teacher quality is the largest in-school factor affecting student achievement.²⁸ We use “value-added” analysis and related terms to refer to statistical methods that use changes in the academic achievement of students over time to isolate and estimate the effect of particular factors, such as family, school, or teachers, on changes in student achievement.²⁹ One study found that the difference between having a teacher who performed at a level one standard deviation below the mean and a teacher who performed at a level one standard deviation above the mean was equivalent to student learning gains of a full year's worth of knowledge.³⁰

²⁷ Kelly, D., Xie, H., Nord, C.W., Jenkins, F., Chan, J.Y., and Kastberg, D. “Performance of U.S. 15-Year-Old Students in Mathematics, Science, and Reading Literacy in an International Context: First Look at PISA 2012 (NCES 2014-024),” U.S. Department of Education, National Center for Education Statistics, Washington, DC (2013). http://nces.ed.gov/pubs2014/2014024rev.pdf.

²⁸ William Sanders and June C. Rivers, “Cumulative and Residual Effects of Teachers on Future Student Academic Achievement,” Research report, Knoxville, TN, University of Tennessee, Value-Added Research and Assessment Center, (1996); Steven G. Rivkin, Eric A. Hanushek, and Thomas A. Kane, “Teachers, Schools, and Academic Achievement.” Econometrica 73, No. 2 (2005): 417-58; Jonah Rockoff, “The Impact of Individual Teachers on Student Achievement: Evidence from Panel Data.” American Economic Review 94, No. 2 (2004): 247-52.

²⁹ For more information on approaches to value-added analysis, see also: Henry I. Braun, “Using Student Progress to Evaluate Teachers: A Primer on Value-Added Models.” Princeton, NJ, Educational Testing Service (2005); William J. Sanders, “Comparisons Among Various Educational Assessment Value-Added Models,” Presentation at the Power of Two—National Value-Added Conference, Battelle for Kids, Columbus, OH, (October 16, 2006).

³⁰ Eric A. Hanushek, “The Trade-Off between Child Quantity and Quality,” Journal of Political Economy, 100, No. 1 (1992): 84-117.

A number of factors are associated with teacher quality, including academic content knowledge, in-service training, and years of experience, but researchers and policymakers have begun to examine whether some of these student achievement discrepancies can be explained by differences in the preparation their teachers received before entering the classroom.³¹ An early influential study on this topic found that the effectiveness of teachers in public schools in New York City who were prepared through different teacher preparation programs varied in statistically significant ways, as measured by the value added by these teachers.³²

³¹ Douglas Harris and Timothy Sass, “Teacher Training, Teacher Quality, and Student Achievement.” Journal of Public Economics 95, (2011): 798-812; Daniel Aaronson, Lisa Barrow, and William Sanders, “Teachers and Student Achievement in the Chicago Public High Schools.” Journal of Labor Economics 25, No. 1 (2007): 95-135; Donald J. Boyd, et al., “The Narrowing Gap in New York City Teacher Qualifications and its Implications for Student Achievement in High-Poverty Schools,” Journal of Policy Analysis and Management 27, No. 4 (2008): 793-818.

³² Donald J. Boyd, et al., “Teacher Preparation and Student Achievement.” Educational Evaluation and Policy Analysis 31, No. 4 (2009): 416-440.

Subsequent studies have examined the value-added scores of teachers prepared through different teacher preparation programs in, Missouri, Louisiana, North Carolina, Tennessee, and Washington.³³ Many of these studies have found statistically significant differences between teachers prepared at different preparation programs. For example, State officials in Tennessee and Louisiana have worked with researchers to examine whether student achievement could be used to inform teacher preparation program accountability. After controlling for observable differences in students, researchers in Tennessee found that the most effective teacher preparation programs in that State produced graduates that were two to three times more likely than other new teachers to be in the top quintile of teachers in a particular subject area, as measured by increases in the achievement of their students, with the least-effective programs producing teachers that were equally likely to be in the bottom quintile.³⁴ Analyses based on Louisiana data on student growth linked to the programs that prepared students' teachers found few statistically significant differences in teacher effectiveness.³⁵ Although these findings did not achieve statistical significance, three teacher preparation programs produced new teachers who appeared, on average, to be as effective as teachers with at least two years of experience, based on growth in student achievement in four or more content areas.³⁶ A study analyzing differences between teacher preparation programs in Washington based on the value-added scores of their graduates also found few statistically significant differences, but the authors argued that the differences were educationally meaningful.³⁷ In math, the average difference between teachers from the highest performing program and the lowest performing program was approximately 1.5 times the difference in performance between students eligible for free or reduced-price lunches and those who are not, while in reading the average difference was 2.3 times larger.³⁸

³³ Cory Koedel, et al., “Teacher Preparation Programs and Teacher Quality: Are There Real Differences Across Programs?” Working Paper 79, Washington, DC: National Center for Longitudinal Data Education Research (2012); Gary T. Henry, et al., “Teacher Preparation Program Effectiveness Report.” Research brief, Chapel Hill, NC: Carolina Institute for Public Policy (2011); Dan Goldhaber, et al., “The Gateway to the Profession: Assessing Teacher Preparation Programs Based on Student Achievement,” Economics of Education Review, 34(2013), pp. 29-44.

³⁴ Tennessee Higher Education Commission. “Report Card on the Effectiveness of Teacher Training Programs, 2010” Knoxville, TN: Tennessee Higher Education Commission (2010).

³⁵ Kristin A. Gansle, et al., “Value Added Assessment of Teacher Preparation in Louisiana: 2005-2006 to 2008-2009,” Technical report, Baton Rouge, LA: Louisiana State University (2010).

³⁶ Ibid.

³⁷ Dan Goldhaber, et al., “The Gateway to the Profession: Assessing Teacher Preparation Programs Based on Student Achievement.” Economics of Education Review, 34 (2013), pp. 29-44.

³⁸ Ibid. 1.5 times the difference between students eligible for free or reduced price lunch is approximately 12 percent of a standard deviation, while 2.3 times the difference is approximately 19 percent of a standard deviation.

In contrast to these findings, Koedel et al. found very small differences in effectiveness between teachers prepared at different programs in Missouri.³⁹ The vast majority of variation in teacher effectiveness was within programs, instead of between programs.⁴⁰ However, the authors note that the lack of variation between programs in Missouri could reflect a lack of competitive pressure to spur innovation within traditional teacher preparation programs.⁴¹ A robust evaluation system that included outcomes could spur innovation and increase differentiation between teacher preparation programs.⁴²

³⁹ Cory Koedel, et al., “Teacher Preparation Programs and Teacher Quality: Are There Real Differences Across Programs?” Working Paper 79, Washington, DC: National Center for Longitudinal Data Education Research (2012).

⁴⁰ Ibid.

⁴¹ Ibid.

⁴² Ibid.

The Department acknowledges that there is debate in the research community about the specifications that should be used when conducting value-added analyses of the effectiveness of teachers prepared through different preparation programs,⁴³ but also recognizes that the field is moving in the direction of weighing value-added analyses in assessments of teacher preparation program quality.

⁴³ See Kata Mihaly, et al., “Where You Come From or Where You Go? Distinguishing Between School Quality and the Effectiveness of Teacher Preparation Program Graduates.” Working Paper 63, Washington, DC: National Center for Analysis of Longitudinal Data in Education Research (2012), for a discussion of issues and considerations related to using school fixed effects models to compare the effectiveness of teachers from different teacher preparation programs who are working in the same school.

Thus, despite the methodological debate in the research community, CAEP,⁴⁴ a union of two formerly independent national accrediting agencies, the National Council for Accreditation of Teacher Education (NCATE) and the Teacher Education Accreditation Council (TEAC), has developed new standards that require, among other measures, evidence that students completing a teacher preparation program contribute to an expected level of student growth.⁴⁵ The new standards are currently voluntary for the more than 900 education preparation providers who participate in the education preparation accreditation system. Participating institutions account for nearly 60% of the providers of educator preparation in the United States, and their enrollments account for nearly two-thirds of newly prepared teachers. The new standards will be required for accreditation beginning in 2016.⁴⁶ The standards are an indication that the effectiveness ratings of teachers trained at teacher preparation programs are increasingly being used as a way to evaluate teacher preparation program performance. The research on teacher preparation program effectiveness is relevant to the elementary and secondary schools that rely on teacher preparation programs to recruit and select talented individuals and prepare them to become future teachers. In 2011-2012 (the most recent year for which data are available), 203,701 individuals completed either a traditional teacher preparation program or an alternative route program. The National Center for Education Statistics (NCES) projects that by 2020, States and districts will need to hire as many as 350,000 teachers each year due to teacher retirement and attrition and increased student enrollment.⁴⁷ In order to meet the needs of schools and districts, States may have to expand traditional and alternative route programs to prepare more teachers, find new ways to recruit and train qualified individuals, or reduce the need for new teachers by reducing attrition or developing different staffing models. Better information on the quality of teacher preparation programs could help State and local educational agencies to make sound staffing decisions.

⁴⁵ CAEP Accreditation Standards as Approved by the CAEP Board of Directors, 2013. Council for the Accreditation of Educator Preparation. http://caepnet.files.wordpress.com/2013/09/final_board_approved1.pdf.

⁴⁶ Statement by Mary Brabeck Board Chair, Council for the Accreditation of Educator Preparation (CAEP) and Gale and Ira Drukier Dean and Professor of Applied Psychology Steinhardt School of Culture, Education, and Human Development, New York University Before the Senate Committee on Health, Education, Labor and Pensions Teacher Preparation: Ensuring a Quality Teacher in Every Classroom March 25, 2014.

⁴⁷ U.S. Department of Education, National Center for Education Statistics, “Projections of Education Statistics to 2020,” Washington, DC: U.S. Department of Education (2011): Table 16.

Despite research suggesting that the academic achievement of students taught by graduates of different teacher preparation programs may vary with regard to their teacher's program, analyses linking student achievement to teacher preparation programs have not been conducted and made available publicly for teacher preparation programs in all States. Congress has recognized the value of assessing and reporting on the quality of teacher preparation, and requires States and IHEs to report detailed information about the quality of teacher preparation programs in the State under the HEA. When reauthorizing the title II reporting system, members of Congress noted a goal of having teacher preparation programs explore ways to assess the impact of their programs' graduates on student academic achievement. In fact, the report accompanying the House Bill (H. Rep. 110-500) included the following statement, “[i]t is the intent of the Committee that teacher preparation programs, both traditional and those providing alternative routes to state certification, should strive to increase the quality of individuals graduating from their programs with the goal of exploring ways to assess the impact of such programs on student's academic achievement.”

Moreover, in roundtable discussions and negotiated rulemaking sessions held by the Department, stakeholders repeatedly expressed concern that the current title II reporting system provides little meaningful data on the quality of teacher preparation programs or the impact of those programs' graduates on student achievement. Currently, States must annually calculate and report data on more than 400 data elements, and IHEs must report on more than 150 elements. While some information requested in the current reporting system is statutorily required, other elements—such as whether the IHE requires a personality test prior to admission—are neither required by statute nor provide information that is particularly useful to the public. Thus, stakeholders stressed at the negotiated rulemaking sessions that the current system is too focused on inputs and that outcome-based measures would provide more meaningful information.

Similarly, even some of the statutorily required data elements in the current reporting system do not provide meaningful information on program performance and how program graduates are likely to perform in a classroom. For example, the HEA requires IHEs to report both scaled scores on licensure tests and pass rates for students who complete their teacher preparation programs. Yet existing research provides mixed findings on the relationship between licensure test scores and teacher effectiveness.⁴⁸ This may be because most licensure tests were designed to measure the knowledge and skills of prospective teachers but not necessarily to predict classroom effectiveness.⁴⁹ The predictive value of licensure exams is further eroded by the significant variation in State pass/cut scores on these exams, with many States setting pass scores at a very low level. The National Council on Teacher Quality found that every State except Massachusetts sets its pass/cut scores on content assessments for elementary school teachers below the average score for all test takers, and most States set pass/cut scores at the 16th percentile or lower.⁵⁰ Further, even with low pass/cut scores, some States allow teacher candidates to take licensure exams multiple times. Some States also permit IHEs to exclude students who have completed all program coursework but have not passed licensure exams when the IHEs report pass rates on these exams for individuals who have completed teacher preparation programs under the current title II reporting system. This may explain, in part, why States and IHEs reported an average pass rate on licensure or certification exams of 96 percent for individuals who completed traditional teacher preparation programs in the 2009-10 academic year, a less than reliable indicator of program quality.⁵¹

⁴⁸ Charles T. Clotfelter, Helen F. Ladd, and Jacob Vigdor, “Teacher Credentials and Student Achievement: Longitudinal Analysis with Student Fixed Effects.” Economics of Education Review 26, no. 6 (2010): 673-682; Dan Goldhaber, “Everyone's Doing It, But What Does Teacher Testing Tell Us about Teacher Effectiveness?” The Journal of Human Resources 42, no. 4 (2007): 765-794; Richard Buddin and Gema Zamarro, “Teacher Qualifications and Student Achievement in Urban Elementary Schools.” Journal of Urban Economics 66, no. (2009): 103-115.

⁴⁹ Goldhaber, 2007.

⁵⁰ National Council on Teacher Quality, State Teacher Policy Yearbook, 2011. Washington, DC: National Council on Teacher Quality (2011). For more on licensure tests, see U.S. Department of Education, Office of Planning, Evaluation, and Policy Development, Policy and Program Studies Service, Recent Trends in Mean Scores and Characteristics of Test-Takers on Praxis II Licensure Tests. Washington, DC: U.S. Department of Education (2010).

⁵¹ U.S. Department of Education, Office of Postsecondary Education, “Preparing and Credentialing the Nation's Teachers: The Secretary's Ninth Report on Teacher Quality,” Washington, DC, 2013. https://title2.ed.gov/Public/TitleIIReport13.pdf.

Thus, while the current title II reporting system produces detailed and voluminous data about teacher preparation programs, the data convey suboptimal indications of program quality as measured by how program graduates will perform in a classroom. This lack of meaningful data prevents school districts, principals, and prospective teacher candidates from making informed choices, creating a market failure due to imperfect information.

On the demand side, school districts lack information about the past performance of teachers from different teacher preparation programs and may rely on inaccurate assumptions about the quality of teacher preparation programs when recruiting and hiring new teachers. An accountability system that provided information about how teacher preparation program graduates are likely to perform in a classroom and how likely they are to stay in the classroom would be valuable to school districts and principals seeking to efficiently recruit, hire, train, and retain high-quality educators. Such a system could help to reduce teacher attrition, a particularly important problem because many new teachers do not remain in the profession, with more than a quarter of new teachers leaving the teaching profession altogether within three years of becoming classroom teachers.⁵² High teacher turnover rates are problematic because research has demonstrated that, on average, student achievement increases considerably with more years of teacher experience in the first three through five years of teaching.⁵³

⁵² Richard M Ingersoll, “Is There Really a Teacher Shortage?” University of Washington Center for the Study of Teaching and Policy, (2003). http://depts.washington.edu/ctpmail/PDFs/Shortage-RI-09-2003.pdf.

⁵³ Ronald F. Ferguson and Helen F. Ladd, “How and Why Money Matters: An Analysis of Alabama Schools,” In H. F. Ladd (Ed.), Holding Schools Accountable: Performance-based Reform in Education. Washington, DC: The Brookings Institution (1996): 265-298; Eric Hanushek, et al., “The Market for Teacher Quality.” Working Paper 11154, Cambridge, MA: National Bureau for Economic Research (2005); Robert Gordon, Thomas J. Kane, and Douglas O. Staiger, “Identifying Effective Teachers Using Performance on the Job.” Discussion Paper 2006-01, Washington, DC: The Hamilton Project, The Brookings Institution (2006); Charles T. Clotfelter, Helen F. Ladd, and Jacob L. Vigdor, “How and Why Do Teacher Credentials Matter for Student Achievement?” Working Paper 2, Washington, DC: National Center for Analysis of Longitudinal Data in Education Research (2007); Thomas J. Kane, Jonah E. Rockoff, and Douglas O. Staiger, “What Does Certification Tell Us About Teacher Effectiveness? Evidence from New York City.” Economics of Education Review 27, no. 6 (2008): 615-31.

On the supply side, when considering which program to attend, prospective teachers lack comparative information about the placement rates and effectiveness of program graduates. Teacher candidates may enroll in a program without the benefit of information on employment rates post-graduation, employer and graduate feedback on program quality, and, most importantly, without understanding how well the program prepared prospective teachers to be effective in the classroom. NCES data indicate that 66 percent of certified teachers who received their bachelor's degree in 2008 borrowed an average of $22,905 to finance their undergraduate education.⁵⁴ The average base salary for full-time teachers with a bachelor's degree in their first year of teaching in public elementary and secondary schools is $34,800.⁵⁵ Thus, two-thirds of prospective teacher candidates may incur debt equivalent to 65 percent of their starting salary in order to attend teacher preparation programs without access to reliable indicators of how well these programs will prepare them for classroom teaching or help them find a teaching position in their chosen field. A better accountability system with more meaningful information would enable prospective teachers to make more informed choices while also enabling and encouraging States, IHEs, and alternative route providers to monitor and continuously improve the quality of their teacher preparation programs.

⁵⁴ U.S. Department of Education, National Center for Education Statistics, Baccalaureate and Beyond Longitudinal Study. Washington, DC: U.S. Department of Education (2009).

⁵⁵ U.S. Department of Education, National Center for Education Statistics, Digest of Education Statistics, 2011. Washington, DC: U.S. Department of Education (2012): Table 79.

The lack of meaningful data also prevents States from restricting program credentials to programs with the demonstrated ability to prepare more effective teachers, or accurately identifying low-performing and at-risk teacher preparation programs and helping these programs improve. Not surprisingly, States have not identified many programs as low-performing or at-risk based on the data currently collected. In the latest title II reporting requirement submissions, the majority of States did not classify any teacher preparation programs as low-performing or at-risk.⁵⁶ Eleven States and the Commonwealth of Puerto Rico reported teacher preparation programs that were low-performing or at-risk. Twenty-nine of these programs were identified as at-risk and nine were designated as low-performing. Of the 38 programs identified by States as low-performing or at-risk, 22 were based in IHEs that participate in the TEACH Grant program. Thirty-nine States did not identify a single low-performing program.⁵⁷ Since these reporting requirements were established twelve years ago, thirty-four States have never identified a single IHE with an at-risk or low-performing program.⁵⁸ Under the proposed regulations, every State would collect and report more meaningful information about teacher preparation program performance which would enable them to target scarce public funding more efficiently through direct support to more effective teacher preparation programs and State financial aid to prospective students attending those programs.

⁵⁶ U.S. Department of Education, Office of Postsecondary Education, “Preparing and Credentialing the Nation's Teachers: The Secretary's Ninth Report on Teacher Quality,” Washington, DC, 2013 https://title2.ed.gov/Public/TitleIIReport13.pdf.

⁵⁷ Ibid.

⁵⁸ Ibid.

Similarly, under the current title II reporting system, the Federal government is unable to ensure that financial assistance for prospective teachers is used to help students attend programs with the best record for producing effective classroom teachers. The proposed regulations would help accomplish this by ensuring that program performance information is available for all teacher preparation programs in all States and restricting eligibility for Federal TEACH grants to programs that are rated at least “effective.”

Most importantly, elementary and secondary students, especially those students in high-need schools and communities who are disproportionately taught by recent teacher preparation program graduates, would be the ultimate beneficiaries of an improved teacher preparation program accountability system.⁵⁹ Such a system would better focus State and Federal resources on promising teacher candidates while informing teacher candidates and potential employers about high-performing teacher preparation programs and enabling States to more effectively identify and improve low-performing teacher preparation programs. Such an accountability system would thereby increase the likelihood of a quality teacher in every classroom.

⁵⁹ Several studies have found that inexperienced teachers are far more likely to be assigned to high-poverty schools, including Donald J. Boyd, et al., “The Narrowing Gap in New York City Teacher Qualifications and Its Implications for Student Achievement in High-Poverty Schools.” Working Paper 10, Washington, DC: National Center for Analysis of Longitudinal Data in Education Research (2007); Charles T. Clotfelter, et al., “High-Poverty Schools and the Distribution of Teachers and Principals.” Working Paper 1, Washington, DC: National Center for Analysis of Longitudinal Data in Education Research (2007); Tim R. Sass, et al., “Value Added of Teachers in High-Poverty Schools and Lower-Poverty Schools.” Working Paper 52, Washington, DC: National Center for Analysis of Longitudinal Data in Education Research (2010).

Recognizing the benefits of improved information on teacher preparation program quality and associated accountability, several States have already developed and implemented systems that map teacher effectiveness data back to teacher preparation programs. The proposed regulations would help ensure that all States generate useful data that are accessible to the public to support efforts to improve teacher preparation programs.

The Department's plan to improve teacher preparation has three core elements: (1) Reduce the reporting burden on IHEs while encouraging States to make use of data on teacher effectiveness to build an effective teacher preparation accountability system driven by meaningful indicators of quality (title II accountability system); (2) reform targeted financial aid for students preparing to become teachers by directing scholarship aid to students attending higher-performing teacher preparation programs (TEACH Grants); and (3) provide more support for IHEs that prepare high-quality teachers from diverse backgrounds.

The proposed regulations address the first two elements of this plan. Improving institutional and State reporting and State accountability builds on the work that States like Louisiana and Tennessee have already started, as well as work that is underway in States receiving grants under Phase One or Two of the Race to the Top Fund.⁶⁰ All of these States have, will soon have, or plan to have statewide systems that track the academic growth of a teacher's students by the teacher preparation program from which the teacher graduated and, as a result, will be better able to identify the teacher preparation programs that are producing effective teachers and the policies and programs that need to be strengthened to scale those effects.

⁶⁰ The applications and Scopes of Work for States that received a grant under Phase One or Two of the Race to the Top Fund are available online at: http://www2.ed.gov/programs/racetothetop/awards.html.

Consistent with feedback the Department has received from stakeholders, under the proposed regulations States would assess the quality of teacher preparation programs according to the following indicators: (1) Student learning outcomes of students taught by graduates of teacher preparation programs (as measured by aggregating learning outcomes of students taught by graduates of each teacher preparation program); (2) job placement and retention rates of these graduates (based on the number of program graduates that are hired into teaching positions and whether they stay in those positions); and (3) survey outcomes for surveys of program graduates and their employers (based on questions about whether or not graduates of each teacher preparation program are prepared to be effective classroom teachers).

The proposed regulations would help provide meaningful information on program quality to prospective teacher candidates, school districts, States, and IHEs that administer traditional teacher preparation programs and alternative routes to State certification or licensure programs. The proposed regulations would make data available that also can inform academic program selection, program improvement, and accountability.

During public roundtable discussions and subsequent negotiated rulemaking sessions, the Department consulted with representatives from the teacher preparation community, States, teacher preparation program students, teachers, and other stakeholders about the best way to produce more meaningful data on the quality of teacher preparation programs while also reducing the reporting burden on States and teacher preparation programs where possible. The proposed regulations specify three types of outcomes States would use to assess teacher preparation program quality, but States would retain discretion to select the most appropriate methods to collect and report these data. In order to give States and stakeholders sufficient time to develop these methods, the Department proposes to implement the requirements of these proposed regulations over several years.

II. Summary of Proposed Regulations

The Department seeks to add a new Part 612—Title II Reporting System to the Code of Federal Regulations (CFR) relating to the teacher preparation program accountability system under title II of the HEA. There are three subparts in proposed Part 612. Subpart A includes a section on the scope and purpose and definitions. Subpart B describes the requirements for institutional and State reporting on teacher preparation program quality. Subpart C addresses termination of title IV eligibility when a teacher preparation program is determined to be low-performing, and how, after loss of the State's approval or State's financial support, a low-performing teacher preparation program may regain eligibility to accept or enroll students receiving title IV, HEA funds.

In a related provision, the Department proposes to amend Part 686—Teacher Education Assistance for College and Higher Education (TEACH) Grant Program, to align applicable definitions with the proposed new Part 612—Title II Reporting System and strengthen institutional and program eligibility requirements for the TEACH Grant program to ensure that students who obtain TEACH grants are in high quality teacher preparation programs or high quality science, technology, engineering, and mathematics (STEM) programs.

The following table summarizes the key definitions and requirements in the proposed regulations and, for the sections applying to TEACH Grants, compares these requirements to the current regulations.

Key issues | Current law | Proposed regulations
At-risk teacher preparation program | No regulations | Proposed § 612.2(d)—An “at-risk teacher preparation program” is defined as a teacher preparation program that is identified as at-risk of being identified as low-performing by a State based on the State's assessment of teacher preparation program performance under proposed § 612.4.
Consultation with stakeholders | No regulations | Proposed § 614.2(c)(1)—Each State must establish, in consultation with a representative group of stakeholders, the procedures for assessing and reporting the performance of each teacher preparation program in the State. The information reported must include the weighting of indicators to be used, the method of aggregating programs, State-level rewards or consequences for designated performance levels, and opportunities for programs to appeal.
Effective teacher preparation program | No regulations | Proposed § 612.2(d)—An “effective teacher preparation program” is defined as a teacher preparation program that is identified as effective by a State based on the State's assessment of teacher preparation program performance under proposed § 612.4.
Employment Outcomes | No regulations | Proposed § 612.2(d)—Data, measuring the teacher placement rate, the teacher placement rate calculated for high-need schools, the teacher retention rate, and the teacher retention rate calculated for high-need schools on the effectiveness of a teacher preparation program in preparing, placing, and supporting new teachers consistent with local education agency (LEA) needs. For purposes of assessing employment outcomes, a State may, in its discretion, assess traditional and alternative route teacher preparation programs differently based on whether there are differences in the programs that affect employment outcomes, provided that the varied assessments result in equivalent levels of accountability and reporting.
Exceptional teacher preparation program | No regulations | Proposed § 612.2(d)—An “exceptional teacher preparation program” is defined as a teacher preparation program that is identified as exceptional by a State based on the State's assessment of teacher preparation program performance under proposed § 612.4.
High-need school | No regulations | Proposed § 612.2(d)—A “high-need school” would be defined as a school that, based on the most recent data available, is in the highest quartile of schools in a ranking of all schools served by a local educational agency, ranked in descending order by percentage of students from low-income families enrolled in such schools, as determined by the local educational agency based on a single or a composite of two or more of the following measures of poverty: (a) The percentage of students aged 5 through 17 in poverty counted; (b) the percentage of students eligible for a free or reduced price school lunch under the Richard B. Russell National School Lunch Act; (c) the percentage of students in families receiving assistance under the State program funded under part A of title IV of the Social Security Act; (d) the percentage of students eligible to receive medical assistance under the Medicaid program. Alternatively, a school may be considered a “high-need school,” if, in the case of an elementary school, the school serves students not less than 60 percent of whom are eligible for a free or reduced price school lunch under the Richard B. Russell National School Lunch Act; or in the case of any other school that is not an elementary school, the other school serves students not less than 45 percent of whom are eligible for a free or reduced price school lunch under the Richard B. Russell National School Lunch Act.
Low-performing teacher preparation program | No regulations | Proposed § 612.2(d)—A “low-performing teacher preparation program” is defined as a teacher preparation program that is identified as low-performing by a State based on the State's assessment of teacher preparation program performance under proposed § 612.4.
New Teacher | No regulations | Proposed § 612.2(d)—A “new teacher” is defined as a recent graduate or alternative route participant who, within the last three title II reporting years, has received a level of certification or licensure that allows him or her to serve in the State as a teacher of record for K-12 students and, at the State's discretion, for preschool students.
Recent Graduate | No regulations | Proposed § 612.2(d)—A “recent graduate” is defined as an individual documented as having met all the requirements of the teacher preparation program within the last three title II reporting years.
Reporting Threshold (for performance of teacher preparation program) | No regulations | Proposed § 612.4—States must report annually on programs with 25 or more new teachers (program size threshold). At a State's discretion, it can choose a lower number as the reporting threshold (lower program size threshold). For any teacher preparation program that produces fewer than the program size threshold or the lower program size threshold, the State must annually report on the program by aggregating data by using one of three prescribed methods. If aggregation under these methods would not yield the program size threshold or the lower program size, or if reporting such data would be inconsistent with Federal or State privacy and confidentiality laws and regulations, the State is not required to report data on that program.
Reporting Timeframe | No regulations | Proposed § 612.3—Institutional reporting begins in October 2017 based on the 2016-2017 academic year.
|  | Proposed § 612.4—Pilot State reporting begins in April 2018 based on data for new teachers in the 2016-2017 academic year. Full State reporting begins in April 2019 based on data for new teachers in the 2017-2018 academic year.
Student growth | No regulations | Proposed § 612.2(d)—“Student growth” is defined, for an individual student, as the change in student achievement in tested grades and subjects and the change in student achievement in non-tested grades and subjects between two or more points in time.
Student learning outcomes | No regulations | Proposed § 612.2(d)—“Student learning outcomes” are defined, for each teacher preparation program in a State, as data on the aggregate learning outcomes of students taught by new teachers and calculated by the State using student growth, a teacher evaluation measure, or both.
Survey Outcomes | No regulations | Proposed § 612.2(d)—“Survey outcomes” are defined as qualitative and quantitative data collected through survey instruments, including, but not limited to, a teacher survey and an employer survey, designed to capture perceptions of whether new teachers who are employed as teachers in their first year of teaching in the State where the teacher preparation program is located possess the skills needed to succeed in the classroom.
Teacher evaluation measure | No regulations | Proposed 612.2(d)—“Teacher evaluation measure” is defined as, by grade span and subject area and consistent with statewide guidelines, the percentage of new teachers rated at each performance level under an LEA teacher evaluation system that differentiates teachers on a regular basis using at least three performance levels and multiple valid measures in determining each teacher's performance level. For purposes of this definition, multiple valid measures of performance levels must include, as a significant factor, data on student growth for all students (including English language learners and students with disabilities), and other measures of professional practice (such as observations based on rigorous teacher performance standards or other measures which may be gathered through multiple formats and sources, such as teacher portfolios and student and parent surveys).
Teacher placement rate | No regulations | Proposed § 612.2(d)—“Teacher placement rate” is defined as the combined, non-duplicated percentage of new teachers and recent graduates who have been hired in a full-time teaching position for the grade level, span, and subject area in which they were prepared. States may choose to exclude (1) new teachers or recent graduates who have taken positions in another State, in private schools, or that do not require State certification or (2) new teachers or recent graduates who have enrolled in graduate school or entered military service.
Teacher preparation entity | No regulations | Proposed § 612.2(d)—“Teacher preparation entity” is defined as an institution of higher education or other organization that is authorized by the State to prepare teachers.
Teacher preparation program | No regulations | Proposed § 612.2(d)—“Teacher preparation program” is defined as a program, whether traditional or alternative route, offered by a teacher preparation entity that leads to a specific State teacher certification or licensure in a specific field.
Teacher retention rate | No regulations | Proposed § 612.2(d)—“Teacher retention rate” is defined as any of the following rates, as determined by the State: (1) Percentage of new teachers hired in full-time positions who have served for at least three consecutive school years within five years of being granted a level of certification that allows them to serve as teachers of record; (2) percentage of new teachers who have been hired in full-time teaching positions that reached a level of tenure or other equivalent measures of retention within 5 years of being granted a level of certification that allows them to serve as teachers of record; or (3) 100% less the percentage of new teachers who have been hired in full-time teaching positions and whose employment was not continued by their employer for reasons other than budgetary constraints within five years of being granted a level of certification or licensure that allows them to serve as teachers of record.
Institutional Report Card
Annual Reporting | 20 U.S.C. 1022d—Required by statute with no current regulations. Under the statute, every institution of higher education that conducts a traditional teacher preparation program or alternative routes to State certification or licensure program and that enrolls students receiving Federal assistance under the HEA must report to the State and the general public on the quality of its teacher preparation programs. The statute specifies certain information the institution must report | Proposed § 612.3—Restates general statutory requirement for annual reporting. Under a revised reporting calendar, beginning in October 2017 requires each institution to submit the institutional report card in October of each calendar year covering data from the prior academic year. Also requires each institution of higher education that is required to report under the statute to prominently and promptly post the institutional report card information on the institution's Web site and, if applicable, on the teacher preparation program's portion of the institution's Web site.
State Report Card
Reporting Requirements | 20 U.S.C. 1022d—No regulations. Each State that receives funds under this Act shall provide the Secretary, and make widely available to the general public, in a uniform and comprehensible manner that conforms with the definition and methods established by the Secretary, an annual State report card on the quality of teacher preparation in the State, both for traditional teacher preparation programs and for alternative routes to State certification or licensure programs. The statute specifies certain minimum information the State must report to the Secretary | Proposed § 612.4—Restates general statutory requirement for annual reporting. Under a revised reporting calendar, beginning in April 2018 requires each State to submit the State report card in April of each calendar year covering data from the prior academic year. Also requires each State that is required to report under the statute to prominently and promptly post the State report card information on the State's Web site. Also requires States to report: (1) Beginning in April 2019, meaningful differentiations in teacher preparation program performance using at least four performance levels—low-performing teacher preparation program, at-risk teacher preparation program, effective teacher preparation program, and exceptional teacher preparation program; (2) disaggregated data for each teacher preparation program of the indicators identified pursuant to § 612.5; (3) an assurance of accreditation by a specialized organization, or an assurance that the program produces teacher candidates with content and pedagogical knowledge and quality clinical preparation who have met rigorous teacher candidate entry and exit qualifications; (4) the State's weighting of indicators in § 612.5 for assessing program performance; (5) State-level rewards or consequences associated with the designated performance levels; (6) the procedures established by the State in consultation with stakeholders, as described in § 612.4(c)(1) and the State's examination of its data collection and reporting, as described in § 612.4(c)(2) in the report submitted in 2018 and every four years thereafter, and at any other time a State makes substantive changes to the weighting of the indicators and its procedures for assessing and reporting on the performance of each teacher preparation program in the State.
Indicators of Program Performance | 20 U.S.C. 1022d—Institutional report card includes licensure test pass rates and scaled scores. State report card requires State to report the criteria used to assess the performance of each teacher preparation program, including indicators of academic content knowledge and teaching skills of students enrolled in the program. No implementing regulations | Proposed § 612.5—For purposes of reporting under § 612.4, a State must assess for each teacher preparation program within its jurisdiction, indicators of academic content knowledge and teaching skills of new teachers from that program. The indicators of academic content knowledge and teaching skills must include, at a minimum, (1) student learning outcomes, employment outcomes, and survey outcomes, and (2) whether the program is accredited by a specialized accrediting agency recognized by the Secretary for accreditation of professional teacher education programs or provides teacher candidates with content and pedagogical knowledge and quality clinical preparation and has rigorous teacher candidate entry and exit qualifications.
Low-performing programs | 20 U.S.C. 1022d—States must identify low-performing programs and programs at-risk of being identified as low-performing | Proposed § 612.6—States must make meaningful differentiations of teacher preparation programs among at least four performance levels: (1) Exceptional, (2) effective, (3) at-risk, and (4) low-performing. In identifying low-performing or at-risk teacher preparation programs, the State must use criteria that, at a minimum, include the indicators of academic content knowledge and teaching skills from 612.5, including, in significant part, employment outcomes for high-need schools and student learning outcomes. At a minimum, a State must provide technical assistance to improve the performance of each low-performing teacher preparation program in its State.
TEACH Grant Program
Eligibility | § 686.11—Undergraduate, post-baccalaureate and graduate students are eligible to receive a TEACH Grant if the student has submitted a complete application, signed an agreement to serve, is enrolled at a TEACH Grant-eligible institution in a TEACH Grant-eligible program, is completing coursework and other requirements necessary to begin a career in teaching or plans to before graduating, meets the relevant 3.25 GPA requirement or a score above the 75th percentile on a nationally-normed standardized admissions test | § 686.11—The proposed regulations would add to the current regulations that for a program to be TEACH Grant- eligible, it must be a high-quality teacher preparation program. That means that it must be a teacher preparation program that is classified by the State as effective or higher, or if it is a STEM program, at least sixty percent of its TEACH Grant recipients must complete at least one year of teaching that fulfills the service obligation under § 686.40 within three years of completing the program. Under the proposed definition for high-quality teacher preparation program, the levels of program performance as reported in State report cards in both the April 2019 and the April 2020 State Report Card for the 2020-2021 title IV HEA award year would determine TEACH Grant eligibility for the 2020-2021 academic year. Subsequently, beginning with the 2021-2022 title IV HEA award year, a program's eligibility would be based on the level of program performance reported in the State Report Card for two out of three years. The State Report Card ratings from April 2018 (if the State exercised its option to report the ratings using the new indicators) and April 2019 would not immediately impact TEACH Grant eligibility. Instead, the loss of TEACH Grant eligibility for low-performing or at-risk programs would become effective July 1, 2020.

III. Regulatory Alternatives Considered

The proposed regulations were developed with assistance from a negotiated rulemaking process in which different options were considered for several provisions. Among the alternatives the Department considered were various ways to reduce the volume of information States and teacher preparation programs are required to collect and report under the existing title II reporting system. One approach would have been to limit State reporting to items that are statutorily required. While this would reduce the reporting burden, it would not address the goal of enhancing the quality and usefulness of the data that are reported. Alternatively, by focusing the reporting requirements on student learning outcomes, employment outcomes, and teacher and employer survey data, and also providing States with flexibility in the specific methods they use to measure and weigh these outcomes, the proposed regulations would balance the desire to reduce burden with the need for more meaningful information.

Additionally, during the negotiated rulemaking session, some non-Federal negotiators spoke of the difficulty States would have developing the survey instruments, administering the surveys, and compiling and tabulating the results for the employer and teacher surveys. The Department offered to develop and conduct the surveys to alleviate additional burden and costs on States, but the non-Federal negotiators indicated that they preferred that States and teacher preparation programs conduct the surveys.

One alternative considered in carrying out the statutory directive to direct TEACH Grants to “high quality” programs was to limit eligibility only to programs that States classified as “exceptional”, positioning the grants more as a reward for truly outstanding programs than as an incentive for low-performing and at-risk programs to improve. In order to prevent a program's eligibility from fluctuating year-to-year based on small changes in evaluation systems that are being developed and to keep TEACH Grants available to a wider pool of students, including those attending teacher preparation programs producing satisfactory student learning outcomes, the Department and most non-Federal negotiators agreed that programs rated effective or higher would be eligible for TEACH Grants.

The Department welcomes comments about the alternatives discussed here and will consider them in drafting the final regulations.

IV. Discussion of Costs, Benefits and Transfers

The Department has analyzed the costs of complying with the proposed requirements. Due to uncertainty about the current capacity of States in some relevant areas and the considerable discretion the proposed regulations would provide States (e.g., the flexibility States would have to determine the weights to give to the various indicators of teacher preparation program performance), we cannot evaluate the costs of implementing the proposed regulations with absolute precision. However, we estimate that the total annualized cost of these regulations would be between $42.0 million and $42.1 million over ten years (see the Accounting Statement section of this document for further detail). Relative to these costs, the major benefit of these requirements, taken as a whole, would be better publicly available information on the effectiveness of teacher preparation programs that would be able to be used by prospective students in choosing programs to attend; employers in selecting teacher preparation program graduates to recruit, train, and hire; States in making funding decisions; and teacher preparation programs themselves in seeking to improve. The Department particularly invites comments on the cost estimates provided.

The following is a detailed analysis of the estimated costs of implementing the specific proposed requirements, including the costs of complying with paperwork-related requirements, followed by a discussion of the anticipated benefits.⁶¹ The burden hours of implementing specific paperwork-related requirements are also shown in the tables in the Paperwork Reduction Act section of this notice.

⁶¹ Unless otherwise specified, all hourly wage estimates for particular occupation categories were taken from Table 5: Full-time State and local government workers: Mean and median hourly, weekly, and annual earnings and mean weekly and annual hours, which was published by the Bureau of Labor Statistics based on data collected through the National Compensation Survey, 2010. This table provides the most recent published estimates of national average hourly wages for teachers and administrators in public elementary and secondary schools and is available on-line at: http://www.bls.gov/ncs/ocs/sp/nctb1479.pdf.

Title II Accountability System (HEA Title II Regulations)

Section 205(a) of the HEA requires that each IHE that provides a teacher preparation program leading to State certification or licensure report on a statutorily enumerated series of data elements for the programs it provides. Section 205(b) of the HEA requires that each State that receives funds under the HEA provide to the Secretary and make widely available to the public information on the quality of traditional and alternative route teacher preparation programs that includes not less than the statutorily enumerated series of data elements it provides. The State must do so in a uniform and comprehensible manner, conforming with definitions and methods established by the Secretary. Section 205(c) of the HEA directs the Secretary to prescribe regulations to ensure the validity, reliability, accuracy, and integrity of the data submitted. Section 206(b) requires that IHEs assure the Secretary that their teacher training programs respond to the needs of LEAs, be closely linked with the instructional decisions new teachers confront in the classroom, and prepare candidates to work with diverse populations and in urban and rural settings, as applicable. Consistent with these statutory provisions, the Department proposes a number of regulations to ensure that the data reported by IHEs and States accurately report on the quality of all approved teacher preparation programs in the State. The following sections provide a detailed examination of the costs associated with each of these proposed regulatory provisions.

Institutional Report Card Reporting Requirements

The proposed regulations would require that beginning on October 1, 2017, and annually thereafter, each IHE that conducts a traditional teacher preparation program or alternative route to State certification or licensure program and enrolls students receiving title IV, HEA funds, report to the State on the quality of its program using an IRC prescribed by the Secretary.

Under the current IRC, IHEs typically report at the entity level, rather than the program level, such that an IHE that administers multiple teacher preparation programs typically gathers data on each of those programs, aggregates the data, and reports the required information as a single teacher preparation entity on a single report card. By contrast, the proposed regulations generally would require that States report on program performance at the individual program level. The Department estimates that the initial burden for each IHE to adjust its recordkeeping systems in order to report the required data separately for each of its teacher preparation programs would be 4 hours per IHE. In the most recent year for which data are available, 1,522 IHEs submitted IRCs to the Department, for an initial estimated cost of $153,540.⁶² The Department further estimates that each of the 1,522 IHEs would need to spend 78 hours to collect the data elements required for the IRC for its teacher preparation programs, for an annual cumulative cost of $2,944,020. We estimate that entering the required information into the information collection instrument would require 13.65 hours per entity, for a total cost of $523,950 to the 1,522 IHEs.

⁶² Unless otherwise specified, for paperwork reporting requirements, we use a wage rate of $25.22, which is based on a weighted national average hourly wage for full-time Federal, State and local government workers in office and administrative support (75%) and managerial occupations (25%), as reported by the Bureau of Labor Statistics in the National Occupational Employment and Wage Estimates, May 2012.

The proposed regulations would also require that each IHE provide the information reported on the IRC to the general public by prominently and promptly posting the IRC on the IHE's Web site and, if applicable, on the teacher preparation portion of the Web site. We estimate that each IHE would require 30 minutes to post the IRC for an annual cumulative cost of $19,190. The estimated total annual cost to IHEs to meet the proposed requirements concerning IRCs would be $3,670,600.

State Report Card Reporting Requirements

Section 205(b) of the HEA requires each State that receives funds under the Act to report annually to the Secretary on the quality of teacher preparation in the State, both for traditional teacher preparation programs and for alternative routes to State certification or licensure programs, and to make this report widely available to the general public. As described in greater detail under the Paperwork Reduction Act section of this notice, the Department estimates that the 50 States, the District of Columbia, the Commonwealth of Puerto Rico, Guam, American Samoa, the United States Virgin Islands, the Commonwealth of the Northern Mariana Islands, and the Freely Associated States, which include the Republic of the Marshall Islands, the Federated States of Micronesia, and Republic of Palau would each need 235 hours to report the data required under the SRC, for an annual cumulative cost of $349,680.

The Department proposes in § 612.4(a)(2) of these regulations to require that States post the SRC on the State's Web site. Because all States already have at least one Web site in operation, we estimate that posting the SRC on an existing Web site would require no more than half an hour at a cost of $25.22 per hour. For the 50 States, the District of Columbia, the Commonwealth of Puerto Rico, Guam, American Samoa, the United States Virgin Islands, the Commonwealth of the Northern Mariana Islands, the Freely Associated States, which include the Republic of the Marshall Islands, the Federated States of Micronesia, and Republic of Palau the total annual estimated cost of meeting this requirement would be $740.

Scope of State Reporting

The costs associated with the reporting requirements in proposed § 612.4(b) and (c) are discussed in the following paragraphs. The requirements regarding reporting of a teacher preparation program's indicators of academic content knowledge and teaching skills would not apply to the insular areas of American Samoa, Guam, the Commonwealth of the Northern Mariana Islands, the U.S. Virgin Islands, the freely associated states of the Republic of the Marshall Islands, the Federated States of Micronesia, and the Republic of Palau. Due to their size and limited resources and capacity in some of these areas, we believe that the cost to these insular areas of collecting and reporting data on these indicators would not be warranted.

Reporting of Information on Teacher Preparation Program Performance

Under proposed § 612.4(b)(1), a State would be required to make meaningful differentiations in teacher preparation program performance using at least four performance levels—low-performing teacher preparation program, at-risk teacher preparation program, effective teacher preparation program, and exceptional teacher preparation program—based on the indicators in § 612.5, including, in significant part, employment outcomes for high-need schools and student learning outcomes. Proposed § 612.4(b)(1) would also require that no teacher preparation program is deemed effective or higher unless it has satisfactory or higher student learning outcomes. Because States would have the discretion to determine the meaning of “significant” and “satisfactory,” the Department assumes that States would consult with early adopter States or researchers to determine best practices for making such determinations and whether an underlying qualitative basis should exist for these terms. The Department estimates that State higher education authorities responsible for making State-level classifications of teacher preparation programs would require at least 35 hours to discuss methods for ensuring that meaningful differentiations are made in their classifications and defining “significant” and “satisfactory.” To estimate the cost per State, we assume that the State employee or employees would likely be in a managerial position (with national average hourly earnings of $44.42), for a total one-time cost for the 50 States, the District of Columbia, and the Commonwealth of Puerto Rico of $80,840.

Fair and Equitable Methods

Under § 612.4(c)(1), the proposed regulations would require States to consult with a representative group of stakeholders to determine the procedures for assessing and reporting the performance of each teacher preparation program in the State. The proposed regulations specify that these stakeholders must include, at a minimum, representatives of leaders and faculty of traditional teacher preparation programs and alternative routes to State certification or licensure programs; students of teacher preparation programs; superintendents; school board members; elementary and secondary school leaders and instructional staff; elementary and secondary school students and their parents; IHEs that serve high proportions of low-income or minority students, or English language learners; advocates for English language learners and students with disabilities; and officials of the State's standards board or other appropriate standards body. Since the proposed regulations would not prescribe any particular methods or activities, we expect that States would vary considerably in how they implement these requirements, depending on their population and geography and any applicable State laws concerning public meetings.

In order to estimate the cost of implementing these requirements, we assume that the average State would need to convene at least three meetings with at least the following representatives from required categories of stakeholders: One administrator or faculty member from a traditional teacher preparation program, one administrator or faculty member from an alternative route teacher preparation program, one student from a traditional or alternative route teacher preparation program, one teacher or other instructional staff, one superintendent, one school board member, one student in elementary or secondary school and one of his or her parents, one administrator or faculty member from an IHE that serves high percentages of low-income or minority students, one representative of the interests of students who are English language learners, one representative of the interests of students with disabilities, and one official from the State's standards board or other appropriate standards body. To estimate the cost of participating in these meetings for the required categories of stakeholders, we assume that each meeting would require four hours of each participant's time and use the following national average hourly wages for full-time State and local government workers employed in these professions: Postsecondary education administrators, $45.75 (2 stakeholders); elementary or secondary education administrators, $50.42 (1 stakeholder); postsecondary teachers, $44.76 (1 stakeholder); primary, secondary, and special education school teachers, $40.93 (1 stakeholder). For the official from the State's standards board or other appropriate standards body, we used the national average hourly earnings of $59.20 for chief executives employed by Federal, State, and local governments. For the representatives of the interests of students who are English language learners and students with disabilities, we use the national average hourly earnings of $59.13 for lawyers in educational services (including private, State, and local government schools). For the opportunity cost to the elementary and secondary school student, we use the Federal minimum wage of $7.25 per hour. For the opportunity cost for his parent, we use the average hourly wage for all workers of $22.01. We use the same assumed wage rate for the school board official. For the student from a traditional or alternative route teacher preparation program, we use the 25th percentile of hourly wage for all workers of $10.81. We also assume that at least two State employees in managerial positions (with national average hourly earnings of $44.42) would attend each meeting, with one budget or policy analyst to assist them (with national average hourly earnings of $33.35).⁶³ Based on these participants, we estimate that meeting the stakeholder consultation requirements through meetings would have a cumulative cost of $334,860 for the 50 States, the District of Columbia, and the Commonwealth of Puerto Rico.

⁶³ Unless otherwise noted, all wage rates in this section are based on average hourly earnings as reported by in the May 2012 National Occupational Employment and Wage Estimates from the Bureau of Labor Statistics. Where hourly wages were unavailable, we estimated hourly wages using average annual wages from this source and the average annual hours worked from the National Compensation Survey, 2010.

We invite comment on the extent to which States may have already established committees or other mechanisms that could be used to meet these requirements at little or no additional cost, as well as technologies that could reduce the cost of meeting these requirements.

States would also be required to report on the State-level rewards or consequences associated with the designated performance levels and on the opportunities they provide for teacher preparation programs to challenge the accuracy of their performance data and classification of the program. Costs associated with implementing these requirements are estimated in the discussion of annual costs associated with the SRC.

Procedures for Assessing and Reporting Performance

Under proposed § 612.4(b)(4), a State would be required to ensure that teacher preparation programs in that State are included on the SRC, but with some flexibility due to the Department's recognition that reporting on teacher preparation programs consisting of a small number of prospective teachers could present privacy and data validity issues. The Department estimates that each State would need up to 14 hours to review and analyze applicable State and Federal privacy laws and regulations and existing research or the practices of other States that set program size thresholds in order to determine the most appropriate aggregation level and procedures for its own teacher preparation program reporting, for an estimated, cumulative one-time cost to the 50 States, the District of Columbia, and the Commonwealth of Puerto Rico of $43,050, based on the average national hourly earnings for a lawyer employed full-time by a State or local government.

Required Elements of the State Report Card

For purposes of reporting under § 612.4, each State would need to establish indicators that would be used to assess the academic content knowledge and teaching skills of the graduates of teacher preparation programs within its jurisdiction. At a minimum, States must base their assessments on student learning outcomes, employment outcomes, survey outcomes, and whether or not the program is accredited by a specialized accrediting agency recognized by the Secretary for accreditation of professional teacher education programs, or provides teacher candidates with content and pedagogical knowledge, and quality clinical preparation, and has rigorous teacher candidate entry and exit qualifications.

States would be required to report these outcomes for teacher preparation programs within their jurisdiction, with the only exceptions being for small programs for which aggregation under paragraph § 612.4(b)(4)(ii) would not yield the program size threshold (or for a State that chooses a lower program size threshold, would not yield the lower program size threshold) for that program and for programs where reporting data would lead to conflicts with Federal or State privacy and confidentiality laws and regulations.

Student Learning Outcomes

In § 612.5, the proposed regulations would require that States assess the performance of teacher preparation programs based in part on data on the aggregate learning outcomes of students taught by new teachers prepared by those programs. States would have the option of calculating these outcomes using student growth, a teacher evaluation measure that includes student growth, or both. Regardless of whether they use student growth or a teacher evaluation measure to determine student learning outcomes, States would be required to link these data to new teachers and their teacher preparation programs. In the following analysis, we use available sources of information to assess the extent to which States appear to already have the capacity to measure student learning outcomes, using either student growth or teacher evaluation measures, and estimate the additional costs States that do not currently have this capacity might incur in order to meet the proposed requirements.

Tested Grades and Subjects

Student growth is defined in the proposed regulations as the change in student achievement in tested grades and subjects and the change in student achievement in non-tested grades and subjects for an individual student between two or more points in time. To calculate student growth for grades and subjects in which assessments are required under section 1111(b)(3) of the ESEA, States must use students' scores on the State's assessments under section 1111(b)(3) of the ESEA and may include other measures of student learning, provided they are rigorous, comparable across schools, and consistent with State guidelines.

In order to receive a portion of the $48.6 billion in grant funds awarded under the State Fiscal Stabilization Fund (SFSF), each State was required to provide several assurances to demonstrate its progress in advancing reforms in critical areas, including an assurance that it provides teachers of reading/language arts and mathematics in grades in which the State administers assessments in those subjects with student growth data on their current students.⁶⁴ Because all States have provided this assurance, we assume that the States would not need to incur any additional costs to measure student growth for these grades and subjects and would only need to link these outcomes to teacher preparation programs by first linking the students' teachers to the teacher preparation program from which they graduated.⁶⁵ The costs of linking student outcomes to teacher preparation programs are discussed below.

⁶⁴ State Fiscal Stabilization Fund; Final Requirements, Definitions, and Approval Criteria. 74 Federal Register 58436 (November 12, 2008). For a description of the relevant indicator for this assurance (indicator (b)(2)), see also the summary of the final requirements issued by the Department, available online at: www2.ed.gov/programs/statestabilization/summary-requirements.doc.

⁶⁵ Each State's current application for SFSF funds, which includes assurances for all of the required SFSF indicators, is available online at: http://www2.ed.gov/programs/statestabilization/resources.html.

Non-tested Grades and Subjects

As of June 23, 2014, the Secretary has approved requests by 42 States, the District of Columbia, and the Commonwealth of Puerto Rico for flexibility regarding specific requirements of NCLB in exchange for rigorous and comprehensive State-developed plans designed to improve educational outcomes for all students, close achievement gaps, increase equity, and improve the quality of instruction, and the Department continues to work with another three States pursuing similar flexibility agreements.⁶⁶ In its request for flexibility, each State has committed to implementing statewide comprehensive teacher evaluations and been required to demonstrate how the State would evaluate teachers in all grades and subjects, both tested and non-tested. Given this, and because the definition of a teacher evaluation measure in the proposed regulations aligns with the requirements for ESEA flexibility, the States that have been granted ESEA flexibility should not incur additional costs to measure student growth in non-tested grades and subjects because these States would be able to use the percentage of new teachers in these grades and subjects who are rated at each performance level to report student learning outcomes.

⁶⁶ State applications for ESEA Flexibility, approval letters, and other related materials are available online at: http://www.ed.gov/esea/flexibility/requests.

To estimate the cost of measuring student growth for teachers in non-tested grades and subjects in the eight States that have not been approved for ESEA flexibility, we need to estimate the number of new teachers in these States. We first determined, using NCES data from the 2011-2012 school year, that there are approximately 36,305 teachers in these States who appear to meet the proposed definition of new teachers because they have fewer than four years of classroom teaching experience.⁶⁷

⁶⁷ U.S. Department of Education, National Center for Education Statistics, Schools and Staffing Survey (SASS), “Public School Teacher Data File,” 2011-2012.

While we believe it is unlikely that States will incur additional costs for measuring student growth for teachers in tested grades and subjects, for purposes of this cost estimate, we assume that all States will choose to implement the same process for all new teachers, regardless of their placement. This will likely generate an overestimate of actual costs that will be borne by the State.

One method several States and districts are currently using to assess student growth for teachers of non-tested grades and subjects is student learning objectives. The Race to the Top Technical Assistance Network defines student learning objectives as “a participatory method of setting measurable goals, or objectives, based on the specific assignment or class, such as the students taught, the subject matter taught, the baseline performance of the students, and the measurable gain in student performance during the course of instruction.” ⁶⁸

⁶⁸ Race to the Top Technical Assistance Network. “Measuring Student Growth for Teachers in Non-Tested Grades and Subjects: A Primer.” Technical brief, Washington, DC: ICF International, under contract with the U.S. Department of Education (2011).

States would not be required to use student learning objectives to measure student growth, but we use it in this analysis to estimate the costs a State would incur if they employed a similar method. To the extent that States employ different methods, the following estimates may overestimate or underestimate the costs involved. To estimate the cost of using student learning objectives to assess teachers in non-tested grades and subjects using student growth, we examined publicly-available State and district rubrics and guidelines. The guidance issued by the Rhode Island Department of Education included a detailed timeline and checklist that we used to develop an estimate of what it might cost the remaining States to develop and implement student learning objectives.⁶⁹ The following estimate assumes that these States have no existing State or district-level structures in place to assess student learning outcomes. Based on the specific steps required in the Rhode Island guidance, we estimate that, for the average teacher, developing and measuring progress against student learning objectives would require 6.85 hours of the teacher's time and 5.05 hours of an evaluator's time.

⁶⁹ These estimates are based on analysis and interpretation conducted by U.S. Department of Education staff and should not be attributed to the Rhode Island Department of Education. This analysis was based primarily on the timeline and checklist, which begins on page 23, http://www.maine.gov/education/effectiveness/GuideSLO-Rhode%20Island.pdf.

However, we believe that this estimate likely overstates the cost to States that already require annual evaluations of all new teachers because many of these evaluations would already encompass many of the activities in the framework. The National Council on Teacher Quality has reported that two of the eight States that have not received ESEA flexibility required annual evaluations of all new teachers and that those evaluations included at least some objective evidence of student learning.⁷⁰ In these States, teachers and evaluators may require additional time to set appropriate targets and assess performance against those targets, but teachers and evaluators would already be meeting to discuss and assess the teacher's effectiveness. In cases where there is an existing teacher evaluation structure or mechanism into which student learning objectives could be incorporated with relatively limited additional time required, we estimate that teachers and evaluators would only need to spend a combined three hours to develop and measure against student learning objectives for the 4,629 new teachers in these States, at an estimated total cost of $596,720.

⁷⁰ National Council on Teacher Quality, 2013 State Teacher Policy Yearbook: National Summary Washington, DC: National Council on Teacher Quality (January 2014). States that require annual evaluations of all new teachers include California, Montana, Nebraska, North Dakota, and Wyoming.

If the remaining State opted to use a framework similar to the guidance provided by Rhode Island, we estimate that the cost to this State of developing and measuring against student learning objectives for an estimated 31,676 teachers would be $16,079,390.⁷¹ This estimate is based on an estimated 6.85 hours for teachers at the national average hourly wage of $38.96 for public elementary and secondary teachers and a 5.05 hours for evaluators at a derived estimated hourly wage of $45.00, which assumes that the evaluator would be a more experienced teacher serving as an academic coach.

⁷¹ Ibid. According to this report, Vermont does not require annual evaluations of new teachers.

We invite comments on these estimates and on the cost of calibrating existing student growth models to include these different types of student achievement data. Regardless of the method of assessing student growth for non-tested grades and subjects, States would need to link the teacher evaluation ratings or other indicators of student growth to the teacher preparation program from which the teacher graduated. The costs to States of making these linkages are discussed in the following section.

Linking Student Learning Outcomes to Teacher Preparation Programs

Whether using student scores on State assessments, teacher evaluation ratings, or other measures of student growth, under the proposed regulations States must link the student learning outcomes data back to the teacher, and then back to that teacher's preparation program. The costs to States to comply with this requirement will depend, in part, on the data and linkages in their statewide longitudinal data system. Through the Statewide Longitudinal Data Systems (SLDS) program, the Department has awarded $575.7 million in grants to support data systems that, among other things, allow States to link student achievement data to individual teachers and to postsecondary education systems. Forty-seven States, the District of Columbia, and the Commonwealth of Puerto Rico have already received at least one grant under this program to support the development of these data systems, so we expect the cost to these States of linking student learning outcomes to teacher preparation programs would be lower than for the remaining States.

According to information from the SLDS program in June 2014, nine States currently link K-12 teacher data including data on both teacher/administrator evaluations and teacher preparation programs to K-12 student data. An additional 11 States and the District of Columbia are currently in the process of establishing this linkage, and ten States and the Commonwealth of Puerto Rico have plans to add this linkage to their systems in the during their SLDS grant. Based on this information, it appears that 30 States, the Commonwealth of Puerto Rico, and the District of Columbia either already have the ability to aggregate data on student achievement of students taught by program graduates and link those data back to teacher preparation programs or have committed to doing so; therefore, we do not estimate any additional costs for these States to comply with this aspect of the proposed regulations.

During the negotiated rulemaking process and subsequent development of the proposed regulations, the Department consulted with experts familiar with the development of student growth models and longitudinal data systems. These experts indicated that the cost of calculating growth for students taught by individual teachers and aggregating these data according to the teacher preparation program that these teachers completed would vary among States. For example, in States in which data on teacher preparation programs are housed within different or even multiple different postsecondary data systems that are not currently linked to data systems for elementary through secondary education students and teachers, experts consulted by the Department suggested that a reasonable estimate of the cost of additional staff or vendor time to link and analyze the data would be $250,000 per State. For States that already have data systems that include data from elementary to postsecondary education levels, we estimate that the cost of additional staff or vendor time to analyze the data would be $100,000. Since we do not know enough about the data systems in the remaining 37 States and the Commonwealth of Puerto Rico to determine whether they are likely to incur the higher or lower estimate of costs, we averaged the higher and lower figure. Accordingly we estimate that the remaining 20 States will need to incur an average cost of $175,000 to develop models to calculate growth for students taught by individual teachers and then link these data to teacher preparation programs for a total cost of $3,500,000.

Employment Outcomes

The Department proposes to require States to report employment outcomes, including data on both the teacher placement rate and the teacher retention rate and on the effectiveness of a teacher preparation program in preparing, placing, and supporting new teachers consistent with local educational needs. We have limited information on the extent to which States currently collect and maintain data on placement and retention for individual teachers.

Under proposed § 612.4(b), States would be required to report annually, for each teacher preparation program, on the teacher placement rate, the teacher placement rate calculated for high-need schools, the teacher retention rate, and the teacher retention rate calculated for high-need schools. The Department proposes to define the teacher placement rate as the combined non-duplicated percentage of new teachers and recent graduates who have been hired in a full-time teaching position for the grade level, span, and subject area in which the new teacher or recent graduate was prepared. High-need schools would be defined in proposed § 612.2(d) by using the definition of “high-need school” in section 200(11) of the HEA. The proposed regulations would give States discretion to exclude those new teachers or recent graduates from this measure if they are teaching in a private school, teaching in another State, enrolled in graduate school, or engaged in military service. States would also have the discretion to treat this rate differently for alternative route and traditional route providers.

Proposed § 612.5(a)(2) and the definition of teacher retention rate in proposed § 612.2 would require a State to provide data on each teacher preparation program's teacher retention rate, using one of the following approaches: (a) The percentage of new teachers who have been hired in full-time teaching positions and served for periods of at least three consecutive school years within five years of being granted a level of certification that allows them to serve as teachers of record; (b) the percentage of new teachers who have been hired in full-time teaching positions and reached a level of tenure or other equivalent measures of retention within five years of being granted a level of certification that allows them to serve as teachers of record; or (c) one hundred percent less the percentage of new teachers who have been hired in full-time teaching positions and whose employment was not continued by their employer for reasons other than budgetary constraints within five years of being granted a level of certification or licensure that allows them to serve as teachers of record. High-need schools would be defined in proposed § 612.2 by using the definition of “high-need school” from section 200(11) of the HEA. The proposed regulations would give States discretion to exclude those new teachers or recent graduates from this measure if they are teaching in a private school (or other school not requiring State certification), another State, enrolled in graduate school, or serving in the military. States would also have the discretion to treat this rate differently for alternative route and traditional route providers.

In its comments on the Department's Notice of Intention to Develop Proposed Regulations Regarding Teacher Preparation Reporting Requirements, the Data Quality Campaign reported that 50 States, the District of Columbia, and the Commonwealth of Puerto Rico all collect some certification information on individual teachers and that a subset of States collect the following specific information on teacher preparation or qualifications that is relevant to the requirements: Type of teacher preparation program (42 States), location of teacher preparation program (47 States), and year of certification (51 States).⁷²

⁷² Data Quality Campaign. “ED's Notice of Intention to Develop Proposed Regulations Regarding Teacher Preparation Reporting Requirements: DQC Comments to Share Knowledge on States' Data Capacity.” Available online at: www.dataqualitycampaign.org/files/HEA%20Neg%20Regs%20formatted.pdf.

Data from the SLDS program indicate that 24 States currently can link data on individual teachers with their teacher preparation programs, including information on their current certification status and placement. In addition, seven States are currently in the process of making these links, and ten States plan to add this capacity to their data systems, but have not yet established the link and process for doing so. Because these States would also maintain information on the certification status and year of certification of individual teachers, we assume they would already be able to calculate the teacher placement and retention rates for new teachers but may incur additional costs to identify recent graduates who are not employed in a full-time teaching position within the State. It should be possible to do this at minimal cost by matching rosters of recent graduates from teacher preparation programs against teachers employed in full-time teaching positions who received their initial certification within the last three years. Additionally, because States already maintain the necessary information in State databases to identify schools as “high-need,” we do not believe there would be any appreciable additional cost associated with adding “high-need” flags to any accounting of teacher retention or placement rates in the State. We invite comment on what costs States would incur to do this.

The remaining 11 States may need to collect additional information from teacher preparation programs and LEAs because they do not appear to be able to link information on the employment, certification, and teacher preparation program for individual teachers. If it is not possible to establish this link using existing data systems, States may need to obtain some or all of this information from teacher preparation programs or from the teachers themselves. The American Association of Colleges for Teacher Education reported that in 2012, 495 of 717 institutions (or about 70%) had begun tracking their graduates into job placements. Although half of those institutions have successfully obtained placement information, these efforts suggest that States may be able to take advantage of work already underway.⁷³

⁷³ American Association of Colleges for Teacher Education, “The Changing Teacher Preparation Profession: A report from AACTE's Professional Education Data System (PEDS),” (2013).

For each of these 11 States, the Department estimates that 150 hours may be required at the State level to collect information about new teachers employed in full-time teaching positions (including designing the data request instruments, disseminating them, providing training or other technical assistance on completing the instruments, collecting the data, and checking their accuracy), and a total estimated cost to the eleven States of $83,190, based on the national average hourly wage for education administrators of $50.42.

Survey Outcomes

The Department also proposes to require States to report—again disaggregated for each teacher preparation program—qualitative and quantitative data from surveys of new teachers and their employers in order to capture their perceptions of whether new teachers who were prepared at a teacher preparation program in that State possess the skills needed to succeed in the classroom. The design and implementation of these surveys would be determined by the State, but we provide the following estimates of costs associated with possible options for meeting this requirement.

Some States and IHEs currently survey graduates or recent graduates of teacher preparation programs. According to experts consulted by the Department, depending on the number of questions and the size of the sample, some of these surveys have been administered quite inexpensively. One State conducted a survey of a stratified random sample of approximately 50 percent of its teacher preparation program graduates and estimated that it cost $5,000 to develop and administer the survey and $5,000 to analyze and report the data.⁷⁴ Since these data will be used to assess and publicly report on the quality of each teacher preparation program, we expect that the cost of implementing the proposed regulations is likely to be higher, because States may need to survey a larger sample of teachers and their employers in order to capture information on all teacher preparation programs.

⁷⁴ Email correspondence with officials from the Oregon Teacher Standards and Practices Commission between June 4 and 19, 2012.

Another potential factor in the cost of the teacher and employer surveys would be the number and type of questions. We have consulted with researchers experienced in the collection of survey data, and they have indicated that it is important to balance the burden on the respondent with the need to collect adequate information. In addition to asking teachers and their employers whether graduates of particular teacher preparation programs are adequately prepared before entering the classroom, States may also wish to ask about course-taking and student teaching experiences, as well as to collect demographic information on the respondent, including information on the school environment in which the teacher is currently employed. Because the researchers we consulted stressed that teachers and their employers are unlikely to respond to a survey that requires more than 30 minutes to complete, we assume that the surveys would not exceed this length.

Based on our consultation with experts and previous experience conducting surveys of teachers through evaluations of Department programs or policies, we estimate that it would cost the average State approximately $25,000 to develop the survey instruments, including instructions for the survey recipients, for a total cost to the 50 States, the District of Columbia, and the Commonwealth of Puerto Rico of $1,300,000. However, we recognize that the cost would be lower for States that identify an existing instrument that could be adapted or used for this purpose.⁷⁵ If States surveyed all individuals who completed teacher preparation programs in the previous year, we estimate that they would survey 203,701 teachers, based on the reported number of individuals completing teacher preparation programs, both traditional and alternative route programs, during the 2011-2012 academic year.

⁷⁵ The experts with whom we consulted did not provide estimates of the number of hours involved in the development of this type of survey. For the estimated burden hours for the Paperwork Reduction Act section, this figure represents 612 hours at an average hourly wage rate of $40.83, based on the hourly wage for faculty at a public IHE and statisticians employed by State or local governments.

To estimate the cost of administering these surveys, we consulted researchers with experience conducting a survey of all recent graduates of teacher preparation programs in New York City.⁷⁶ In order to meet the target of a 70 percent response rate for that survey, the researchers estimated that their cost per respondent was $100, which included an incentive for respondents worth $25. We believe that it is unlikely that States will provide cash incentives for respondents to the survey, thus providing an estimate of $75 per respondent. However, since the time of data collection in that survey, there have been dramatic advances in the availability and usefulness of online survey software with a corresponding decrease in cost. As such, we believe that the $75 per respondent estimate may actually provide an extreme upper bound and may dramatically over-estimate the costs associated with administering any such survey. For example, several prominent online survey companies offer survey hosting services for as little as $300 per year for unlimited questions and unlimited respondents. Using that total cost, and assuming surveys administered and hosted by the State and using the number of program graduates in 2013, the cost per respondent would range from $0.02 to $21.43, with an average cost per State of $0.97. We recognize that this would represent an extreme lower bound and many States are unlikely to see costs per respondent that low until the survey is fully integrated into existing systems. For example, States may be able to provide teachers with a mechanism, such as an online portal, to both verify their class rosters and complete the survey. Because teachers would be motivated to ensure that they were not evaluated based on the performance of students they did not teach, requiring new teachers to complete the survey in order to access their class rosters would increase the response rate for the survey and allow new teachers to select their teacher preparation program from a pull-down menu, reducing the amount of time required to link the survey results to particular programs. States could also have teacher preparation programs disseminate the new teacher survey with other information for teacher preparation program alumni or have LEAs disseminate the new teacher survey during induction or professional development activities. We believe that, as States incorporate these surveys into other structures, data collection costs will dramatically decline towards the lower bounds noted above.

⁷⁶ These cost estimates were based primarily on our consultation with a researcher involved in the development, implementation, and analysis of surveys of teacher preparation program graduates and graduates of alternative certification programs in New York City in 2004 as part of the Teacher Pathways Project. These survey instruments are available online at: www.teacherpolicyresearch.org/TeacherPathwaysProject/Surveys/tabid/115/Default.aspx.

The California State School Climate Survey (CSCS) is one portion of the larger California School Climate, Health, & Learning Survey, designed to survey teachers and staff to address questions of school climate. While the CSCS is subsidized by the State of California, it is also offered to school districts outside of the State for a fee, ranging from $500 to $1,500 per district, depending on its enrollment size. Applying this cost structure to all school districts nationwide with enrollment (as outlined in the Department's Common Core of Data), costs would range from a low of $0.05 per FTE teacher to $500 per FTE teacher with an average of $21.29 per FTE. However, these costs are inflated by single-school, single-teacher districts, which are largely either charter schools or small, rural school districts unlikely to administer separate surveys. When removing single-school, single-teacher districts, the average cost per respondent decreases to $12.27.

Given the cost savings associated with online administration of surveys and the likelihood that States will fold these surveys into existing structures, we believe that many of these costs are likely over-estimates of the actual costs that States will bear in administering these surveys. However, for purposes of estimating costs in this context, we use a rate of $30.33 per respondent, which represents a cost per respondent at the 85th percentile of the CSCS administration and well above the maximum administration cost for popular consumer survey software. Using this estimate, we estimate that, if States surveyed a combined sample of 203,701 teachers and an equivalent number of employers, the cumulative cost to the 50 States, the District of Columbia, and the Commonwealth of Puerto Rico of administering the survey of $8,649,540.

If States surveyed all teacher preparation program graduates and their employers, assuming that both the teacher and employer surveys would take no more than 30 minutes to complete, that the employers are likely to be principals or district administrators, and a response rate of 70 percent of teachers and employers surveyed, the total estimated burden for 203,701 teachers and their 203,701 employers of completing the surveys would be $2,918,120 and $3,594,720 respectively, based on the national average hourly wage of $40.93 and $50.42 for elementary and secondary public school teachers and elementary and secondary school level administrators. These costs would vary depending on the extent to which a State determines that it can measure these outcomes based on a sample of new teachers and their employers. This may depend on the distribution of new teachers prepared by teacher preparation programs throughout the LEAs and schools within each State and also on whether or not some of this information is available from existing sources such as surveys of recent graduates conducted by teacher preparation programs as part of their accreditation process.

Assurance of Accreditation

Under proposed § 612.5(a)(4) States would be required to assure that each teacher preparation program in the State either: (a) Is accredited by a specialized accrediting agency recognized by the Secretary for accreditation of professional teacher education programs or (b) provides teacher candidates with content and pedagogical knowledge and quality clinical preparation, and has rigorous teacher candidate entry and exit standards. As discussed in greater detail in the Paperwork Reduction Act section of this notice, we estimate that the total cost to the 50 States, the District of Columbia, and the Commonwealth of Puerto Rico of providing these assurances for the estimated 13,404 teacher preparation programs nationwide for which States have already determined are accredited based on previous title II reporting submissions would be $676,100, assuming that 2 hours were required per teacher preparation program and using an estimated hourly wage of $25.22.

Annual Reporting Requirements Related to State Report Card

As discussed in greater detail in the Paperwork Reduction Act section of this notice, proposed § 612.4 includes several requirements for which States must annually report on the SRC. Using an estimated hourly wage of $25.22, we estimate that the total cost for the 50 States, the District of Columbia, and the Commonwealth of Puerto Rico to report the following required information in the SRC would be: Classifications of teacher preparation programs ($315,250, based on 0.5 hours per 25,000 programs); assurances of accreditation ($84,510, based on 0.25 hours per 13,404 programs); State's weighting of the different indicators in § 612.5 ($330 annually, based on 0.25 hours per State); State-level rewards and consequences associated with the designated performance levels ($660 in the first year and $130 thereafter, based on 0.5 hours per State in the first year and 0.1 hours per State in subsequent years); method of program aggregation ($130 annually, based on 0.1 hours per State); process for challenging data and program classification ($3,930 in the first year and $1,510 thereafter, based on 3 hours per State in the first year and 6 hours for 10 States in subsequent years); examination of data collection quality ($6,950, based on 5.3 hours per State annually), recordkeeping and publishing related to appeal decisions ($6,950 annually, based on 5.3 hours per State). The sum of these annual reporting costs would be $420,220 for the first year and $419,690 in subsequent years, based on a cumulative burden hours of 16,662 hours in the first year and 16,642 hours in subsequent years.

Under proposed § 612.5, States would also incur burden to enter the required aggregated information on student learning, employment, and survey outcomes into the information collection instrument for each teacher preparation program. Using the estimated hourly wage rate of $25.22, we estimate the following cumulative costs to the 50 States, the District of Columbia, and Puerto Rico to report on 25,000 teacher preparation programs: Annual reporting on student learning outcomes ($1,576,250 annually, based on 2.5 hours per program); and annual reporting of employment outcomes ($2,206,750 annually, based on 3.5 hours per program); and annual reporting of survey outcomes ($630,500 annually, based on 1 hour per program). Our estimate of the total annual cost of reporting these outcome measures on the SRC related to proposed § 612.5 is $4,413,500, based on 175,000 hours.

Potential Benefits

The principal benefits related to the evaluation and classification of teacher preparation programs under the proposed regulations are those resulting from the reporting and public availability of information on the effectiveness of teachers prepared by teacher preparation programs within each State. The Department believes that the information collected and reported as a result of these requirements will improve the accountability of teacher preparation programs, both traditional and alternative route to certification programs, for preparing teachers who are equipped to succeed in classroom settings and help their students reach their full potential.

Research studies have found significant and substantial variation in teaching effectiveness among individual teachers and some variation has also been found among graduates of different teacher preparation programs.⁷⁷ In Tennessee, some programs produced graduates who were two to three times more likely to be in the top quintile based on increases in student growth, while other programs produced graduates who were two to three times more likely to be in the bottom quintile.⁷⁸ Because this variation in the effectiveness of graduates is not associated with any particular type of preparation program, the only way to determine which programs are producing more effective teachers is to link information on the performance of teachers in the classroom back to their teacher preparation programs.⁷⁹ The proposed regulations do this by requiring States to link data on student learning outcomes, employment outcomes, and teacher and employer survey outcomes back to the teacher preparation programs, rating each program based on these data, and then making that information available to the public.

⁷⁷ Donald J. Boyd, et al., “Teacher Preparation and Student Achievement.” Educational Evaluation and Policy Analysis 31, No. 4 (2009): 416-440.

⁷⁸ Tennessee Higher Education Commission, “Report Card on the Effectiveness of Teacher Training Programs,” Nashville, TN (2010).

⁷⁹ Thomas J. Kane, Jonah E. Rockoff, and Douglas O. Staiger, “What Does Certification Tell Us About Teacher Effectiveness? Evidence from New York City.” Economics of Education Review 27, no. 6 (2008): 615-31.; Boyd, et al., 2009.

The Department recognizes that simply requiring States to assess the performance of teacher preparation programs and report this information to the public will not produce increases in student achievement, but it is an important part of a larger set of policies and investments designed to attract talented individuals to the teaching profession; prepare them for success in the classroom; and support, reward, and retain effective teachers. In addition, the Department believes that, once information on the performance of teacher preparation programs is more readily available, a variety of stakeholders will become better consumers of these data, which will ultimately lead to improved student achievement by influencing the behavior of States seeking to provide technical assistance to low-performing programs, IHEs engaging in considered self-improvement efforts, prospective teachers seeking to train at the highest quality teacher preparation programs, and employers seeking to hire the most highly qualified new teachers.

Louisiana has already adopted some of the proposed requirements and has begun to see improvements in teacher preparation programs. Based on data suggesting that the English Language Arts teachers prepared by the University of Louisiana at Lafayette were producing teachers who were less effective than other new teachers prepared by other programs, Louisiana identified the program in 2008 as being in need of improvement and provided additional analyses of the qualifications of the program's graduates and of the specific areas where the students taught by program graduates appeared to be struggling.⁸⁰ When data suggested that students struggled with essay questions, faculty from the elementary education program and the liberal arts department in the university collaborated to restructure the teacher education curriculum to include more writing instruction. Based on 2010-11 data, student learning outcomes for teachers prepared by this program are now comparable to other novice teachers in the State, and the program is no longer identified for improvement.⁸¹

⁸⁰ Stephen Sawchuk, “ `Value Added' Concept Proves Beneficial to Teacher Colleges,” Education Week 31, no. 21, Published online on February 17, 2012. http://www.edweek.org/ew/articles/2012/02/17/21louisiana_ep.h31.html?qs=lafayette.

⁸¹ Kristin A. Gansle, Jeanne M. Burns, and George Noell, “Value Added Assessment of Teacher Preparation Programs in Louisiana: 2007-2008 to 2009-10: Overview of 2010-11 Results.” Research summary, Baton Rouge, LA: Louisiana Board of Regents (2011).

This is one example, but it suggests that States can use data on student learning outcomes for graduates of teacher preparation programs to help these programs identify weaknesses and implement needed reforms in a reasonable amount of time. As more information becomes available and if the data indicate that some programs produce more effective teachers, LEAs seeking to hire new teachers will prefer to hire teachers from those programs. All things being equal, aspiring teachers will elect to pursue their degrees or certificates at teacher preparation programs with strong student learning outcomes and placement rates.

TEACH Grants

The proposed regulations link program eligibility for participation in the TEACH Grant program to the State assessment of program quality under part 612. Under proposed §§ 686.11(a)(iii) and 686.2(d), to be eligible to receive a TEACH Grant for a program, an individual must be enrolled in a high-quality teacher preparation program; that is a program that is classified by the State as effective or higher in either or both the April 2019 and/or April 2020 State Report Card for the 2020-2021 title IV HEA award year or, classified by the State as effective or higher in two out of the previous three years, beginning with the April 2019 State Report Card, for the 2021-2022 title IV HEA award year, under 34 CFR 612.4(b) or meets the “high-quality” standards for a STEM program. For a STEM program to meet the definition of “high-quality teacher preparation program,” it must be at a TEACH Grant-eligible STEM program at a TEACH Grant-eligible institution. To be a TEACH Grant-eligible STEM program, the Secretary must not have identified that, over the most recent three years for which data are available, fewer than sixty percent of the program's TEACH Grant recipients have taught full-time as a highly-qualified teacher in a high-need field in a low-income school in accordance with § 686.40 for at least one year within three years of completing the STEM program.

In addition to the referenced benefits of improved accountability under the title II reporting system, the Department believes that the proposed regulations relating to TEACH Grants will also contribute to the improvement of teacher preparation programs. Linking program eligibility for TEACH Grants to the performance assessment by the States under the title II reporting system provides an additional factor for prospective students to consider when choosing a program and an incentive for programs to achieve a rating of effective or higher.

In order to analyze the possible effects of the proposed regulations on the number of programs eligible to participate in the TEACH Grant program and the amount of TEACH Grants disbursed, the Department analyzed data from a variety of sources. This analysis focused on teacher preparation programs at IHEs. This is because, under the HEA, alternative route programs offered independently of an IHE are not eligible to participate in the TEACH Grant program. For the purpose of analyzing the effect of the proposed regulations on TEACH Grants, the Department estimated the number of teacher preparation programs based on data from the Integrated Postsecondary Education Data System (IPEDS) about program graduates in education-related majors as defined by the Category of Instructional Program (CIP) codes and award levels. For the purposes of this analysis, “teacher preparation programs” refers to programs in the relevant CIP codes that also have the IPEDS indicator flag for being a State-approved teacher education program.

In order to estimate how many programs might be affected by a loss of TEACH Grant eligibility, the Department had to estimate how many programs will be individually evaluated under the proposed regulations, which encourage States to report on the performance of individual programs offered by IHEs rather than on the aggregated performance of programs at the institutional level as currently required. The estimated range of individual programs reflects the variety of thresholds that States may use in defining programs for evaluation. Under the proposed regulations, the States would be able to determine the level of aggregation at which to analyze programs at each IHE. One factor that States may consider in determining the level of aggregation for reporting on programs is the number of new teachers. All programs with 25 or more new teachers in a given reporting year (program size threshold) would be required to be reported on a stand-alone basis, with States having the discretion to set a lower threshold (lower program size threshold). For programs below the program size threshold of 25 (or lower, at a State's discretion) in a given reporting year, the proposed regulations require aggregation across years or subject areas, so that all programs that meet the chosen program size threshold as reported by a State can be evaluated.

States may refrain from including a program in the SRC if aggregation across years, across programs at the same IHE, or a combination of the two does not result in enough new teachers to meet the program size threshold in a given year, or if doing so would be inconsistent with State and Federal privacy and confidentiality laws and regulations. While encouraged to define programs below the institutional level to improve the utility of the information, especially if the number of new teachers in each specialization supports it, the States could aggregate all programs, as appropriate and consistent with § 612.4(b)(4), except those that meet the program size threshold and report them together. If all States took the approach of reporting at the institutional level when allowed by the program size threshold (Approach 1), the Department estimates that there would be approximately 7,123 programs. This is based on applying the proposed 25 new teachers-in-one-year threshold to programs at the six-digit CIP code and award level to IPEDS data, which results in 5,823 programs that meet the threshold and another 1,300 cases that would be reported at the institutional level (236 IHEs with no programs over 25 new teachers and 1,064 IHEs with some programs above the threshold and others below it). Of these 7,123 programs, approximately 4,723 programs or 66 percent are at IHEs that have disbursed TEACH Grants between academic year (AY) 2008-09 to AY 2010-11.

Alternatively, the States could elect to report programs under a disaggregated approach that defines programs by the six-digit CIP code, award level, and no minimum number of graduates that results in an estimated 24,497 programs (Approach 2). This estimate may be reduced in any given year because States are not required to report on programs if doing so would be inconsistent with Federal or State privacy and confidentiality laws and regulations, and the number of programs affected by this provision will vary year to year. Of the 24,497 total estimated programs, approximately 16,721 are at IHEs that have participated in the TEACH Grant program and might be subject to a loss of funds if designated as low-performing or at-risk by the State in which they are located.

Table 1 summarizes these two possible approaches to program definition that represent the opposite ends of the range of options available to the States. Based on IPEDS data, approximately 30 percent of programs defined at the six digit CIP code level have at least 25 new teachers when aggregated across three years, so States may add one additional year to the analysis or aggregate programs with similar features to push more programs over the threshold, pursuant to the regulations. The actual number of programs at IHEs reported on will likely fall between these two points represented by Approach 1 and Approach 2. In addition, as discussed earlier in this preamble, States will have to report on alternative certification teacher preparation programs that are not housed at IHEs, but they are not relevant for analysis of the effects on TEACH Grants because they are ineligible under the HEA and are not included in Table 1. The Department welcomes comments related to the estimate of the number of programs and will consider them in drafting the final regulations.

Table 1—Teacher Preparation Programs at IHEs and TEACH Grant Program
| Approach 1: Total | Approach 1: TEACH grant participating | Approach 2: Total | Approach 2: TEACH grant participating
Public Total | 2,522 | 1,795 | 11,931 | 8,414
4-year | 2,365 | 1,786 | 11,353 | 8,380
2-year or less | 157 | 9 | 578 | 34
Private Not-for-Profit Total | 1,879 | 1,212 | 12,316 | 8,175
4-year | 1,878 | 1,212 | 12,313 | 8,175
2-year or less | 1 |  | 3 |
Private For-Profit Total | 67 | 39 | 250 | 132
4-year | 59 | 39 | 238 | 132
2-year or less | 8 |  | 12 |
Total | 4,468 | 3,046 | 24,497 | 16,721

Given the number of programs and their TEACH Grant participation status as described in Table 1, the Department examined IPEDS data and the Department's budget estimates for 2015 related to TEACH Grants to estimate the effect of the proposed regulations on TEACH Grants beginning with the FY2018 cohort when the regulations would be in effect. Based on prior reporting, only 37 IHEs (representing an estimated 129 programs) were identified as having a low-performing or at-risk program in 2010 and twenty-seven States have not identified any low-performing programs in twelve years. Given prior identification of such programs and the fact that the States would continue to control the classification of teacher preparation programs subject to analysis, the Department does not expect a large percentage of programs to be subject to a loss of eligibility for TEACH Grants. Therefore, the Department evaluated the effects on the amount of TEACH Grants disbursed and recipients on the basis of the States classifying a range of three percent, five percent, or eight percent of programs to be low-performing or at-risk. These results are summarized in Table 2. Ultimately, the number of programs affected is subject to the program definition, rating criteria, and program classifications adopted by the individual States, so the distribution of those effects is not known with certainty. However, the maximum effect, whatever the distribution, is limited by the amount of TEACH Grants made and the percentage of programs classified as low-performing and at-risk that participate in the TEACH Grant program. The Department invites comments about the expected percentage of programs that will be found to be low-performing and at-risk and will take any comments or data received into consideration when analyzing the effects of the final regulations.

Table 2—Estimated Effect in 2018 on Programs and TEACH Grant Amounts of Different Rates of Ineligibility
[Percentage of low-performing or at-risk programs]
| 3% | 5% | 8%
Programs:
Approach 1 | 134 | 223 | 357
Approach 2 | 735 | 1,225 | 1,960
TEACH Grant Recipients | 1,051 | 1,751 | 2,802
TEACH Grant Amount at Low-Performing or At-Risk programs | $3,032,769 | $5,054,614 | $8,087,383

The estimated effects presented in Table 2 reflect assumptions about the likelihood of a program being ineligible and do not take into account the size of the program or participation in the TEACH Grant program. The Department had no program level performance information and treats the programs as equally likely to become ineligible for TEACH Grants. If in fact factors such as size or TEACH Grant participation were associated with high or low performance, the number of TEACH Grant recipients and TEACH Grant volume could deviate from these estimates.

Finally, approximately 10 percent of TEACH Grant recipients are not enrolled in teacher preparation programs, but are majoring in such subjects as STEM, foreign languages, and history. The proposed regulations allow STEM programs at TEACH Grant-eligible institutions to participate in the TEACH Grant program provided that, over the most recent three years for which data are available, the Secretary has not identified that fewer than 60 percent of the STEM program's TEACH Grant recipients complete at least one year of teaching that fulfills the service obligation under § 686.40 within three years of completing their STEM program. Continuing eligibility for STEM programs supports the Department's efforts to expand the pool of teachers in these crucial subjects and reflects research on the value of STEM subject matter expertise for STEM teachers.⁸² The requirement that programs have 60 percent of their TEACH Grant recipients complete at least one year of teaching that fulfills the service obligation under § 686.40 should direct TEACH Grant funds to programs at IHEs that identify teacher candidates that follow up on their intention to teach. The Secretary believes that sixty percent is the appropriate percentage because it seems that TEACH grant recipients in the STEM fields should enter the teaching profession at the same rates as education majors and sixty percent of education majors teach within ten years of receiving their bachelor's degree. We acknowledge that the overall rate of teaching is not the same as teaching in a high-need field in a low-income school, as is required under TEACH, but we think the rate is nonetheless reasonable because TEACH is designed to support future teachers, students who receive TEACH Grants commit to fulfilling their service obligations, and because TEACH recipients are high-achieving students who attend high-quality programs.⁸³ We have chosen a three-year window in order to allow students time to complete their content training and to enter into and complete a teacher preparation program. For example, we expect that some of these students would need to enroll in and complete a Master's degree to earn a teaching license. A three-year window would allow these students time to complete a Master's degree and then begin fulfilling their TEACH Grant service obligations. The Secretary requests comments about this framework and particularly on whether such a framework is necessary to encourage STEM teachers who are receiving TEACH Grants to enter the teaching profession and teach in high-need schools. The Secretary also requests comments on the three-year window and on whether the sixty percent placement rate is a reasonable and realistic placement rate, or whether another rate, or no placement rate, would be more reasonable or could be supported with research, data, or other analysis.

⁸² Robert Floden and Marco Meniketti, “Research on the Effects of Coursework in the Arts and Sciences and in the Foundations of Education,” Studying Teacher Education: The Report of the AERA Panel on Research and Teacher Education, Mahwah, NJ (2006): 261-308.

⁸³ See, U.S. Department of Education, National Center for Education Statistics, Teacher Career Choices: Timing of Teacher Careers Among 1992-93 Bachelor's Degree Recipients, Postsecondary Education Descriptive Analysis Report. Washington, DC: U.S. Department of Education (2008).

Whatever the amount of TEACH Grant volume at programs found to be ineligible, the effect on IHEs will be reduced from the full amounts represented by the estimated effects presented here as students could elect to enroll in other programs at the same IHE that retain eligibility because they are classified by the State as effective or higher. Another factor that would reduce the effect of the regulations on programs and students is that an otherwise eligible student who received a TEACH Grant for enrollment in a TEACH Grant-eligible program or TEACH Grant-eligible STEM program is eligible to receive additional TEACH Grants to complete the program, even if that program becomes no longer considered a TEACH Grant-eligible program or a TEACH Grant-eligible STEM program.

For the broader set of IHEs, we would expect that over time a large portion of the TEACH Grant volume now disbursed to students at programs that will be categorized as low-performing or at-risk will be shifted to programs that remain eligible. The extent to which this happens will depend on other factors affecting the students' enrollment decisions such as in-State status, proximity to home or future employment locations, and the availability of programs of interest, but the Department believes that students will take into account a program's rating and the availability of TEACH Grants when looking for a teacher preparation program. As discussed in the Net Budget Impacts section of this notice, the Department expects that the reduction in TEACH Grant volume will taper off as States identify low-performing and at-risk programs and those programs are improved or are no longer eligible for TEACH Grants. Because existing recipients as of the effective date will continue to have access to TEACH Grants, and incoming students will have notice and be able to consider the program's eligibility for TEACH Grants in making an enrollment decision, the reduction in TEACH Grant volume that is classified as a transfer from students at ineligible programs to the Federal Government will be significantly reduced from the estimated range of $3.0 million to $8.3 million in Table 2 for the initial years the regulations are in effect. While we have no past experience with students' reaction to a designation of a program as low-performing and loss of TEACH Grant eligibility, we assume that, to the extent it is possible, students would choose to attend a program rated effective or higher. For IHEs, the effect of the loss of TEACH Grant funds will depend on the student reaction and how many chose to enroll in an eligible program at the same IHE, choose to attend a different IHE, or make up for the loss of TEACH Grants by funding their program from other sources.

In addition to the potential reduction in funds from the loss of TEACH Grant eligibility or the loss of title IV eligibility for programs that lose State approval or financial support, IHEs with teacher preparation programs may incur some reporting costs related to the TEACH Grant and title IV provisions in the proposed regulations. An IHE would have to confirm that its TEACH Grant-eligible STEM programs fall within the CIP codes on a list provided by the Department. We estimate that 1,000 IHEs with TEACH Grant-eligible STEM programs would take 3 hours at a wage rate of $25.22 to complete this task for a total cost of $75,660. Additionally, while the Department does not anticipate that many programs will lose State approval or financial support, if this does occur, IHEs with such programs would have to notify enrolled and accepted students immediately, notify the Department within 30 days, and disclose such information on its Web site or promotional materials. The Department estimates that 50 IHEs would offer programs that lose State approval or financial support and would take 5.75 hours to make the necessary notifications and disclosures at a wage rate of $25.22 for a total cost of $7,250. Finally, some of the programs that lose State approval or financial support may apply to regain eligibility for title IV, HEA funds upon improved performance and restoration of State approval or financial support. The Department estimates that 10 IHEs with such programs would apply for restored eligibility and the process would require 20 hours at a wage rate of $25.22 for a total cost of $5,040.

The Secretary welcomes comments about the data and estimates presented here and will consider them in evaluating the final regulations.

V. Net Budget Impacts

The proposed regulations related to the implementation of the TEACH Grant program are estimated to have a net budget impact of $0.67 million in cost reduction over the 2014 to 2024 loan cohorts. These estimates were developed using the Office of Management and Budget's (OMB) Credit Subsidy Calculator. The OMB calculator takes projected future cash flows from the Department's student loan cost estimation model and produces discounted subsidy rates reflecting the net present value of all future Federal costs associated with awards made in a given fiscal year. Values are calculated using a “basket of zeros” methodology under which each cash flow is discounted using the interest rate of a zero-coupon Treasury bond with the same maturity as that cash flow. To ensure comparability across programs, this methodology is incorporated into the calculator and used Government-wide to develop estimates of the Federal cost of credit programs. Accordingly, the Department believes it is the appropriate methodology to use in developing estimates for these proposed regulations. That said, in developing the following Accounting Statement, the Department consulted with OMB on how to integrate our discounting methodology with the discounting methodology traditionally used in developing regulatory impact analyses.

Absent evidence of the impact of these proposed regulations on student behavior, budget cost estimates were based on behavior as reflected in various Department data sets and longitudinal surveys. Program cost estimates were generated by running projected cash flows related to the provision through the Department's student loan cost estimation model. TEACH Grant cost estimates are developed across risk categories: Freshmen/sophomores at 4-year IHEs, juniors/seniors at 4-year IHEs, and graduate students. Risk categories have separate assumptions based on the historical pattern of behavior of borrowers in each category—for example, the likelihood of default or the likelihood to use statutory deferment or discharge benefits.

As discussed in the Analysis of the Effect of the Proposed Regulations on TEACH Grants section of this notice, the proposed regulations could result in a reduction in TEACH Grant volume. Under the effective dates and data collection schedule in the proposed regulations, that reduction in volume would start with the 2020 TEACH Grant cohort. The Department assumes that the effect of the proposed regulations would be greatest in the first years they were in effect as the low-performing and at-risk programs are identified, removed from TEACH Grant eligibility, and helped to improve or replaced by better performing programs. Therefore, the percent of volume estimated to be at programs in the low-performing or at-risk categories is assumed to drop for future cohorts. As shown in Table 3, the net budget impact over the 2014-2024 TEACH Grant cohorts is approximately $0.67 million in reduced costs.

Table 3—Estimated Budget Impact of Proposed Regulations
[PB 2015 TEACH grant volume and recipient estimates]
| 2020 | 2021 | 2022 | 2023 | 2024
PB 2015 TEACH Grant:
Recipients | 36,429 | 36,910 | 37,396 | 37,890 | 38,391
Amount | 105,149,650 | 106,537,976 | 107,944,631 | 109,369,859 | 110,813,906
Low Performing and At Risk:
% | 5.00% | 3.00% | 1.50% | 1.00% | 0.75%
Recipients | 1,821 | 1,107 | 561 | 379 | 288
Amount | 5,257,483 | 3,196,139 | 1,619,169 | 1,093,699 | 831,104
Redistributed TEACH Grants:
% | 75% | 75% | 75% | 75% | 75%
Amount | 3,943,112 | 2,397,104 | 1,214,377 | 820,274 | 623,328
Reduced TEACH Grant Volume:
% | 25% | 25% | 25% | 25% | 25%
| 262,874 | 199,759 | 134,931 | 136,712 | 69,259
Estimated Budget Impact of Policy:
Subsidy Rate | 21.99% | 22.44% | 23.08% | 23.08% | 23.11%
Baseline Volume | 105,149,650 | 106,537,976 | 107,944,631 | 109,369,859 | 110,813,906
Revised Volume | 103,835,279 | 105,738,941 | 107,539,839 | 109,096,434 | 110,606,130
Baseline Cost | 23,122,408 | 23,907,122 | 24,913,621 | 25,242,563 | 25,609,094
Revised Cost | 22,833,378 | 23,727,818 | 24,820,195 | 25,179,457 | 25,561,077
Estimated Cost Reduction | 289,030 | 179,303 | 93,426 | 63,106 | 48,017

The estimated budget impact presented in Table 3 is defined against the PB 2015 baseline costs for the TEACH Grant program, and the actual volume of TEACH Grants in 2020 and beyond will vary. The budget impact estimate depends on the assumptions about the percent of TEACH Grant volume at programs that become ineligible and the share of that volume that is redistributed or reduced as shown in Table 3. Finally, absent evidence of different rates of loan conversion at programs that will be eligible or ineligible for TEACH Grants when the proposed regulations are in place, the Department did not assume a different loan conversion rate as TEACH Grants shifted to programs rated effective or higher. However, given that placement and retention rates are one element of the program evaluation system, the Department does hope that, as students shift to programs rated effective or better, more TEACH Grant recipients will fulfill their service obligation. If this is the case and their TEACH Grants do not convert to loans, the students who do not have to repay the converted loans will benefit and the expected cost reductions for the Federal government may be reduced or reversed because more of the TEACH Grants will remain grants and no payment will be made to the Federal government for these grants.

In addition to the TEACH Grant provision, the proposed regulations include a provision that would make a program ineligible for title IV, HEA funds if the program was found to be low-performing and subject to the withdrawal of the State's approval or termination of the State's financial support. The Department assumes this will happen rarely and that the title IV funds involved would be shifted to other programs. Therefore, there is no budget impact associated with this provision.

The Department welcomes comments on the assumptions and estimates presented in this section and will consider any received in developing the final regulations.

VI. Accounting Statement

As required by OMB Circular A-4 (available at www.whitehouse.gov/sites/default/files/omb/assets/omb/circulars/a004/a-4.pdf), in the following table we have prepared an accounting statement showing the classification of the expenditures associated with the provisions of these proposed regulations. This table provides our best estimate of the changes in annual monetized costs, benefits, and transfers as a result of the proposed regulations.

Accounting Statement Classification of Estimated Expenditures
Category | Benefits
Better and more publicly available information on the effectiveness of teacher preparation programs | Not Quantified
Distribution of TEACH Grants to better performing programs | Not Quantified
Category | Costs
| 7% | 3%
Institutional Report Card (set-up, annual reporting, posting on Web site) | $3,557,591 | $3,554,635
State Report Card (Statutory requirements: Annual reporting, posting on Web site; Regulatory requirements: Meaningful differentiation, consulting with stakeholders, aggregation of small programs, assurance of accreditation, other annual reporting costs) | $1,582,038 | $1,569,326
Reporting Student Learning Outcomes (develop model to link aggregate data on student achievement to teacher preparation programs, modifications to student growth models for non-tested grades and subjects, and measuring student growth) | $18,718,081 | $18,650,716
Reporting Employment Outcomes (placement and retention data collection directly from IHEs or LEAs) | $2,289,940 | $2,289,940
Reporting Survey Results (developing survey instruments, annual administration, and response costs) | $15,965,862 | $15,940,841
Identifying TEACH Grant-eligible STEM Programs | $77,882 | $79,339
Category | Transfers
Reduced costs to the Federal government from TEACH Grants to prospective students at teacher preparation programs found ineligible | −$83,344 | −$74,161

VII. Initial Regulatory Flexibility Analysis

These proposed regulations will affect IHEs that participate in the title IV, HEA programs, including TEACH Grants, alternative certification programs not housed at IHEs, States, and individual borrowers. The U.S. Small Business Administration (SBA) Size Standards define for-profit IHEs as “small businesses” if they are independently owned and operated and not dominant in their field of operation with total annual revenue below $7,000,000. The SBA Size Standards define nonprofit IHEs as small organizations if they are independently owned and operated and not dominant in their field of operation, or as small entities if they are IHEs controlled by governmental entities with populations below 50,000. The revenues involved in the sector affected by these proposed regulations, and the concentration of ownership of IHEs by private owners or public systems means that the number of title IV, HEA eligible IHEs that are small entities would be limited but for the fact that the nonprofit entities fit within the definition of a small organization regardless of revenue. The potential for some of the programs offered by entities subject to the proposed regulations to lose eligibility to participate in the title IV, HEA programs led to the preparation of this Initial Regulatory Flexibility Analysis.

Description of the Reasons That Action by the Agency Is Being Considered

The Department has a strong interest in encouraging the development of highly trained teachers and ensuring that today's children have a high quality and effective teachers in the classroom, and it seeks to help achieve this goal by promulgating these proposed regulations. Teacher preparation programs have operated without access to meaningful data that could inform them of the effectiveness of their teachers that graduate and go on to work in the classroom setting.

The Department wants to establish a teacher preparation feedback mechanism premised upon teacher effectiveness. Under the proposed regulations, an accountability system would be established that would identify programs by quality so that high-performing teacher preparation programs could be recognized and rewarded and low-performing programs could be supported and improved. Data collected under the new system would help all teacher preparation programs make necessary corrections and continuously improve, while facilitating States' efforts to reshape and reform low-performing and at-risk programs.

Succinct Statement of the Objectives of, and Legal Basis for, the Regulations

We are proposing these regulations to better implement the teacher preparation program accountability and reporting system under title II of the HEA and to revise regulations to implement the TEACH grant program. Our key objective is to revise Federal reporting requirements to reduce institutional burden, as appropriate, and have State reporting focus on the most important measures of teacher preparation program quality while tying TEACH Grant eligibility to assessments of program performance under the title II accountability system. The legal basis for these proposed regulations is 20 U.S.C. 1022d, 1022f, and 1070g, et seq.

Description of and, Where Feasible, an Estimate of the Number of Small Entities to Which the Regulations Will Apply

The proposed regulations related to title II reporting affect a larger number of entities, including small entities, than the smaller number subject to the possible loss of TEACH Grant eligibility or title IV, HEA program eligibility. The Department has more data on teacher preparation programs housed at IHEs than on those independent of IHEs. Whether evaluated at the aggregated institutional level or the disaggregated program level, State approved teacher preparation programs are concentrated in the public and private not-for-profit sectors. For the provisions related to the TEACH Grant program and using the institutional approach with a threshold of 25 new teachers (or a lower threshold at the discretion of the State), since the IHEs will be reporting for all their programs, we estimate that approximately 56.4 percent of teacher preparation programs are at public IHEs—the vast majority of which would not be small entities, and 42.1 percent are at private not-for-profit IHEs. The remaining 1.5 percent are at private for-profit IHEs and of those with teacher preparation programs, approximately 11 percent had reported FY 2012 total revenues under $7 million in IPEDS data. Based on IPEDS data, approximately 65 IHEs offering teacher preparation programs, seven of which participated in the TEACH Grant program in the past three years, are small entities as shown in Table 4.

Table 4—Teacher Preparation Programs at Small Entities
| Total programs | Programs at small entities | % of Total | Programs at TEACH grant participating small entities
Public
Approach 1 | 2,522 | 17 | 1 | 14
Approach 2 | 11,931 | 36 | 0 | 34
Private Not-for-Profit
Approach 1 | 1,879 | 1,879 | 100 | 1,212
Approach 2 | 12,316 | 12,316 | 100 | 8,175
Private For-Profit
Approach 1 | 67 | 12 | 18 | 1
Approach 2 | 250 | 38 | 15 | 21
Source: IPEDS

Note: Table includes programs at IHEs only.

The Department has no indication that programs at small entities are more likely to be ineligible for TEACH Grants or title IV, HEA funds. Since all private not-for-profit IHEs are considered to be small because none are dominant in the field, we would expect about 5 percent of TEACH Grant volume at teacher preparation programs at private not-for-profit IHEs to be at ineligible programs. In 2012-13, approximately 48 percent of TEACH Grant disbursements went to private not-for-profit IHEs, and by applying that to the estimated TEACH Grant volume in 2017 of $101,092,285, the Department estimates that TEACH Grant volume at private not-for-profit IHEs in 2017 would be approximately $48.5 million. At the five percent low-performing or at-risk rate assumed in the TEACH Grants portion of the Cost, Benefits, and Transfers section of the Regulatory Impact Analysis, TEACH Grant revenues would be reduced by approximately $2.4 million at programs at private not-for-profit entities in the initial year the proposed regulations are in effect and a lesser amount after that. Much of this revenue could be shifted to eligible programs within the IHE or the sector, and the cost to programs would be greatly reduced by students substituting other sources of funds for the TEACH Grants.

Description of the Projected Reporting, Recordkeeping and Other Compliance Requirements of the Regulations, Including an Estimate of the Classes of Small Entities that Will Be Subject to the Requirement and the Type of Professional Skills Necessary for Preparation of the Report or Record

In addition to the teacher preparation programs at IHEs included in Table 4, approximately 1,281 alternative certification programs offered outside of IHEs are subject to the reporting requirements in the proposed regulations. The Department assumes that a significant majority of these programs are offered by non-profit entities and are not dominant in the field, so all of the alternative certification teacher preparation programs are considered to be small entities. However, the reporting burden for these programs falls on the States. As discussed in the Paperwork Reduction Act section of this notice, the estimated total paperwork burden on IHEs would decrease by 103,051 hours. Small entities would benefit from this relief from the current institutional reporting requirements.

Identification, to the Extent Practicable, of All Relevant Federal Regulations That May Duplicate, Overlap or Conflict With the Proposed Regulation

The proposed regulations are unlikely to conflict with or duplicate existing Federal regulations.

Alternatives Considered

As described above, the Department participated in Negotiated Rulemaking in developing the proposed regulations and considered a number of options for some of the provisions including the definition of a teacher preparation program and the definition of a high-quality teacher preparation program for purposes of TEACH Grant eligibility. No alternatives focused specifically on small entities.

Clarity of the Regulations

Executive Order 12866 and the Presidential memorandum “Plain Language in Government Writing” require each agency to write regulations that are easy to understand.

The Secretary invites comments on how to make these proposed regulations easier to understand, including answers to questions such as the following:

• Are the requirements in the proposed regulations clearly stated?

• Do the proposed regulations contain technical terms or other wording that interferes with their clarity?

• Does the format of the proposed regulations (grouping and order of sections, use of headings, paragraphing, etc.) aid or reduce their clarity?

• Would the proposed regulations be easier to understand if we divided them into more (but shorter) sections? (A “section” is preceded by the symbol “§ ” and a numbered heading; for example, § 686.3 Duration of student eligibility.)

• Could the description of the proposed regulations in the SUPPLEMENTARY INFORMATION section of this preamble be more helpful in making the proposed regulations easier to understand? If so, how?

• What else could we do to make the proposed regulations easier to understand?

To send any comments that concern how the Department could make these proposed regulations easier to understand, see the instructions in the ADDRESSES section of this preamble.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that: The public understands the Department's collection instructions, respondents can provide the requested data in the desired format, reporting burden (time and financial resources) is minimized, collection instruments are clearly understood, and the Department can properly assess the impact of collection requirements on respondents.

Sections 612.3, 612.4, 612.5, 612.6, 612.7, 612.8, and 686.2 contain information collection requirements. Under the PRA, the Department has submitted a copy of these sections to OMB for its review.

A Federal agency may not conduct or sponsor a collection of information unless OMB approves the collection under the PRA and the corresponding information collection instrument displays a currently valid OMB control number. Notwithstanding any other provision of law, no person is required to comply with, or is subject to penalty for failure to comply with, a collection of information if the collection instrument does not display a currently valid OMB control number.

In the final regulations, we will display the control numbers assigned by OMB to any information collection requirements proposed in this NPRM and adopted in the final regulations.

Start-Up and Annual Reporting Burden

These proposed regulations execute a statutory requirement that IHEs and States establish an information and accountability system through which IHEs and States report on the performance of their teacher preparation programs. Because parts of the proposed regulation would require IHEs and States to establish or scale up certain systems and processes in order to collect information necessary for annual reporting, IHEs and States may incur one-time start-up costs for developing those systems and processes. The burden associated with start-up and annual reporting is reported separately in this statement.

Section 612.3—Reporting Requirements for the Institutional Report Cards

Section 205(a) of the HEA requires that each IHE that provides a teacher preparation program leading to State certification or licensure report on a statutorily enumerated series of data elements for the programs it provides. The Higher Education Opportunity Act of 2008 (HEOA) revised a number of the reporting requirements for IHEs.

The proposed regulations under § 612.3(a) would require that beginning on April 1, 2017, and annually thereafter, each IHE that conducts traditional or alternative route teacher preparation programs leading to State initial teacher certification or licensure and enrolls students receiving title IV, HEA funds report to the State on the quality of its programs using an IRC prescribed by the Secretary.

Start-Up Burden

Entity-Level and Program-Level Reporting

Under the current IRC, IHEs typically report at the entity level rather than the program level. For example, if an IHE offers multiple teacher preparation programs in a range of subject areas (for example, music education and special education), that IHE gathers data on each of those programs, aggregates the data, and reports the required information as a single teacher preparation entity on a single report card. Under the proposed regulations and for the reasons discussed in the preamble to this notice of proposed rulemaking, reporting would now be required at the teacher preparation program level rather than at the entity level. No additional data must be gathered as a consequence of this regulatory requirement; instead, IHEs would simply report the required data before, rather than after, aggregation.

As a consequence, IHEs would not be required to alter appreciably their systems for data collection. However, the Department acknowledges that in order to communicate disaggregated data, minimal recordkeeping adjustments may be necessary. The Department estimates that initial burden for each IHE to adjust its recordkeeping systems would be 4 hours per entity. In the most recent year for which data are available, 1,522 IHEs reported required data to the Department through the IRC. Therefore, the Department estimates that the one-time total burden for IHEs to adjust recordkeeping systems would be 6,088 hours (1,522 IHEs multiplied by 4 burden hours per IHE).

Subtotal of Start-Up Burden Under § 612.3

The Department believes that IHEs' experience during prior title II reporting cycles has provided sufficient knowledge to ensure that IHEs will not incur any significant start-up burden, except for the change from entity-level to program-level reporting described above. Therefore, the subtotal of start-up burden for § 612.3 is 6,088 hours.

Annual Reporting Burden

Changes to the Institutional Report Card

For a number of years IHEs have gathered successfully, aggregated, and reported data on teacher preparation program characteristics, including those required under the HEOA, to the Department using the IRC approved under OMB control number 1840-0744. The required reporting elements of the IRC principally concern admissions criteria, student characteristics, clinical preparation, numbers of teachers prepared, accreditation of the program, and the pass rates and scaled scores of teacher candidates on State teacher certification and licensure examinations.

The Department received numerous comments from non-Federal negotiators about the current IRC during the negotiated rulemaking process. The non-Federal negotiators provided advice based on first-hand experience with the IRC and from their knowledge of research on the relative predictive value of certain elements in the IRC. Based on these comments, the Department eliminated or changed many of the IRC elements to maximize the collection of useful, meaningful data while limiting the reporting burden on IHEs.

Under the proposed regulations, IHEs would no longer be required to respond to certain elements in the IRC. We would eliminate a number of elements relating to admissions criteria (e.g., whether the IHE required a personality test or a recommendation for admission). In their place, we would add quantitative elements on the admission of students, including median incoming GPA and standardized test scores, if applicable. The Department was informed by non-Federal negotiators that IHEs already collect these data. Reporting them would both provide more useful data to the public and prospective students and still result in a net burden reduction in the number of elements reported by IHEs.

Responding to the recommendations of non-Federal negotiators, the Department would further eliminate elements not required by statute that are burdensome to calculate, such as the average clock-hour requirements prior to clinical training, information on numbers of equivalent faculty, and prior-year pass rate and completer data that the Department is able to pre-populate. The Department would also change a number of elements requiring IHEs to provide lengthy narrative responses. Instead, IHEs could respond using drop-down menu choices. Most significantly, due to more effective technological integration with testing companies, the Department contractor responsible for the IRC will perform the entry for all testing data, representing a significant reduction in burden for IHEs.

The Department also responded to guidance from the higher education and teaching communities that the current IRC did not provide sufficiently meaningful quantitative and comparable data on the performance of teacher preparation programs. The Department attempted to limit the reporting burden on IHEs while ensuring that statutorily required and meaningful elements would provide useful data on a quantitative and easily-comparable basis. The IRC required under the proposed regulations would not depart significantly from the existing IRC, except to the extent that elements would be eliminated or IHEs would report data already readily accessible.

Given all of these reporting changes, the Department estimates that each IHE would require 68 fewer burden hours to prepare the revised IRC annually. The Department estimated that each IHE would require 146 hours to complete the current IRC approved by OMB. There would thus be an annual burden of 78 hours to complete the revised IRC (146 hours minus 68 hours in reduced data collection). The Department estimates that 1,522 IHEs would respond to the IRC required under the proposed regulations, based on reporting figures from the most recent year data are available. Therefore, reporting data using the IRC would represent a total annual reporting burden of 118,716 hours (78 hours multiplied by 1,522 IHEs).

Entity-Level and Program-Level Reporting

As noted in the start-up burden section of § 612.3, under the current IRC, IHEs report teacher preparation program data at the entity level. The proposed regulations would require that each IHE report disaggregated data at the teacher preparation program level. The Department believes this proposed regulatory requirement would not require any additional data collection or appreciably alter the time needed to calculate data reported to the Department. However, the Department believes that some additional reporting burden would exist for IHEs' electronic input and submission of disaggregated data because each IHE typically houses multiple teacher preparation programs.

Based on the most recent year of data available, the Department estimates that there are 22,312 teacher preparation programs at 1,522 IHEs nationwide. Based on these figures, the Department estimates that on average, each of these IHEs offers 14.65 teacher preparation programs. Because each IHE already collects disaggregated IRC data, the Department estimates it will take each IHE one additional hour to fill in existing disaggregated data into the electronic IRC for each teacher preparation program it offers. Because IHEs already have to submit an IRC for the IHE, the added burden for reporting on a program level would be 13.65 hours (an average of 14.65 programs at one hour per program, minus the existing submission of one IRC for the IHE, or 13.65 hours). Therefore, each IHE will incur an average burden increase of 13.65 hours (1 hour multiplied by an average of 13.65 teacher preparation programs at each IHE), and there will be an overall burden increase of 20,775 hours each year associated with this proposed regulatory reporting requirement (13.65 multiplied by 1,522 IHEs).

Posting on the Institution's Web Site

The proposed regulations would also require that the IHE provide the information reported on the IRC to the general public by prominently and promptly posting the IRC information on the IHE's Web site. Because the Department believes it is reasonable to assume that an IHE offering a teacher preparation program and communicating data related to that program by electronic means maintains a Web site, the Department presumes that posting such information to an already-existing Web site would represent a minimal burden increase. The Department therefore estimates that IHEs would require 0.5 hours (30 minutes) to meet this requirement. This would represent a total burden increase of 761 hours each year for all IHEs (0.5 hours multiplied by 1,522 IHEs).

Subtotal of Annual Reporting Burden Under § 612.3

Aggregating the annual burdens calculated under the preceding sections results in the following burdens: Together, all IHEs would incur a total burden of 118,716 hours to develop the systems needed to meet the requirements of the revised IRC, 20,775 hours to report program-level data, and 761 hours to post IRC data to their Web sites. This would constitute a total burden of 140,252 hours of annual burden nationwide.

Total Institutional Report Card Reporting Burden

Aggregating the start-up and annual burdens calculated under the preceding sections results in the following burdens: Together, all IHEs would incur a total start-up burden under § 612.3 of 6,088 hours and a total annual reporting burden under § 612.3 of 140,252 hours. This would constitute a total burden of 146,340 total burden hours under § 612.3 nationwide.

The burden estimate for the existing IRC approved under OMB control number 1840-0744 was 146 hours for each IHE with a teacher preparation program. When the current IRC was established, the Department estimated that 1,250 IHEs would provide information using the electronic submission of the form for a total burden of 182,500 hours for all IHEs (1,250 IHEs multiplied by 146 hours). Applying these estimates to the current number of IHEs that are required to report (1,522) would constitute a burden of 222,212 hours (1,522 IHEs multiplied by 146 hours). Based on these estimates, the revised IRC would constitute a net burden reduction of 75,872 hours nationwide (222,212 hours minus 146,340 hours).

Section 612.4—Reporting Requirements for the State Report Card

Section 205(b) of the HEA requires that each State that receives funds under the HEA provide to the Secretary and make widely available to the public not less than the statutorily required specific information on the quality of traditional and alternative route teacher preparation programs. The State must do so in a uniform and comprehensible manner, conforming with definitions and methods established by the Secretary. Section 205(c) of the HEA directs the Secretary to prescribe regulations to ensure the validity, reliability, accuracy, and integrity of the data submitted. Section 206(b) requires that IHEs assure the Secretary that their teacher training programs respond to the needs of local educational agencies, be closely linked with the instructional decisions new teachers confront in the classroom, and prepare candidates to work with diverse populations and in urban and rural settings, as applicable.

Executing the relevant statutory directives, the proposed regulations under § 612.4(a) would require that starting April 1, 2018, and annually thereafter, each State report on the SRC the quality of all approved teacher preparation programs in the State, whether or not they enroll students receiving Federal assistance under the HEA, including distance education programs. This new SRC, to be implemented in 2018, is an update of the current SRC. The State must also make the SRC information widely available to the general public by posting the information on the State's Web site.

Section 103(20) of the HEA and § 612.2(d) of the proposed regulations define “State” to include nine locations in addition to the 50 States: The Commonwealth of Puerto Rico, the District of Columbia, Guam, American Samoa, the United States Virgin Islands, the Commonwealth of the Northern Mariana Islands, the Freely Associated States, which include the Republic of the Marshall Islands, the Federated States of Micronesia, and Republic of Palau. For this reason, all reporting required of States explicitly enumerated under § 205(b) of the HEA (and the related portions of the regulations, specifically §§ 612.4(a) and 612.6(b)), apply to these 59 States. However, certain additional regulatory requirements (specifically §§ 612.4(b), 612.4(c), 612.5, and 612.6(a)) only apply to the 50 States of the Union, the Commonwealth of Puerto Rico, and the District of Columbia. The burden estimates under those portions of this report apply to those 52 States. For a fuller discussion of the reasons for the application of certain regulatory provisions to different States, see the preamble to this notice of proposed rulemaking.

Entity-Level and Program-Level Reporting

As noted in the start-up and annual burden sections of § 612.3, under the current information collection process, data are collected at the entity level, and the proposed regulations would require data reporting at the program level. In 2013, States reported to the Department for the first time on the number of programs offered in their States. In that collection, which covers the 2011-2012 academic year, States reported that there were 25,000 teacher preparation programs offered, including 22,312 at IHEs and 2,688 through alternative route teacher preparation programs not associated with IHEs. Given that 2013 was the first reporting year for this metric, it is possible that there is some error in the reporting. However, as noted in subsequent sections of this burden statement, these reported data are within the bounds of other estimates we have calculated. Because the remainder of the data reporting discussed in this burden statement is transmitted using the SRC, for those burden estimates concerning reporting on the basis of teacher preparation programs, the Department uses the estimate of 25,000 teacher preparation programs.

Start Up and Annual Burden Under § 612.4(a)

Section 612.4(a) would codify State reporting requirements expressly referenced in section 205(b) of the HEA; the remainder of § 612.4 would provide for reporting consistent with the directives to the Secretary under Sections 205(b) and (c) and the required assurance described in Section 206(c).

The HEOA revised a number of the reporting requirements for States. The requirements of the SRC are more numerous than those contained in the IRC, but the reporting elements required in both are similar in many respects. In addition, the Department has successfully integrated reporting to the extent that data reported by IHEs in the IRC is pre-populated in the relevant fields on which the States are required to report in the SRC. In addition to the elements discussed in § 612.3 of this burden statement regarding the IRC, under the statute a State must also report on its certification and licensure requirements and standards, state-wide pass rates and scaled scores, shortages of highly qualified teachers, and information related to low-performing or at-risk teacher preparation programs in the State.

The SRC currently in use, approved under OMB control number 1840-0744, collects information on these elements. States have been successfully reporting information under this collection for many years. The burden estimate for the existing SRC was 911 burden hours per State. In the burden estimate for that SRC, the Department reported that 59 States were required to report data, equivalent to the current requirements. This represented a total burden of 53,749 hours for all States (59 States multiplied by 911 hours). This burden calculation was made on entity-level, rather than program-level, reporting (for a more detailed discussion of the consequences of this issue, see the sections on entity-level and program-level reporting in §§ 612.3 and 612.4). However, because relevant program-level data reported by the IHEs on the IRC will be pre-populated for States on the SRC, the burden associated with program-level reporting under § 612.4(a) will be minimal. Those elements that will require additional burden are discussed in the subsequent paragraphs of this section.

Elements Changed in the State Report Card

The Department received numerous comments from non-Federal negotiators regarding the SRC during the negotiated rulemaking process; many of the non-Federal negotiators have direct experience with the relative efficacy and burden of the various SRC reporting requirements. Based on these comments, the Department eliminated or changed a number of SRC elements to maximize the collection of meaningful data while minimizing burden. Under the proposed regulations, States would no longer be required to respond to certain elements in the SRC. We eliminated a number of elements relating to admissions criteria for programs (similar to those eliminated from the IRC). We would put in their place quantitative elements on the admission of students, including median incoming GPA and standardized test scores, if applicable. The Department was informed by non-Federal negotiators that schools already collect these data and reporting them would both provide more useful data and still result in a net burden reduction in the number of elements reported.

Because the Department must continue to collect IRC and SRC data until the proposed reporting requirements are effective, the Department, prior to the development of this notice of proposed rulemaking, submitted a proposed information collection to OMB ⁸⁴ that reflected the basis for some of the proposed changes to the SRC. We calculated there that the estimated burden would be reduced from 911 hours per State to 250 hours per State. While the Department has not yet completed analyzing comments on this Information Collection Request (ICR), the burden decrease expected under that ICR is due in part to the elimination of a number of data fields. That revised burden estimate also reflects States' experience with filling out the SRC (including, for example, databases of demographic data compiled by States) and pre-populating of previous years' data. Most significantly, the burden reduction represents the successful technical integration between test companies and the Department's title II contractor, such that all test-related data are managed, calculated, and uploaded by the test companies and contractor, with no additional burden incurred by States.

⁸⁴ For an analysis of the basis for this reduction estimate, see the Department of Education Information Collection System at http://edicsweb.ed.gov/ and select collection number 04871 under “browse pending collections.”

In addition to those changes reflected in the ICR sent to OMB, the Department, responding to the recommendations of non-Federal negotiators, also proposed to eliminate numerous other elements that are not required by statute, burdensome to calculate, and can be pre-populated (such as total program completers in prior years, certain specific requirements related to licensure requirements not indicative of program or teacher quality, and duplicative questions already asked in other portions of the SRC). The Department also proposes to change reporting some elements as lengthy narrative responses to drop-down menus. Elimination of these elements represents a significant burden reduction in reporting data using the SRC. The Department estimates that the elimination of these elements constitutes a burden reduction of 65 hours for each State above the efficiencies identified in the information collection in the preceding paragraph. For filing the SRC, the total burden reduction is 80 percent for each State, equal to 726 hours of staff time annually (911 hours minus the 661 hours representing efficiencies identified in the proposed information collection, minus the 65 hours representing the additional burden reduction pursuant to the proposed regulations). New SRC filing burden time would be 185 hours per year for each State.

At the request of non-Federal negotiators, the Department added some data fields to the SRC to reflect specific statutory provisions in § 205(b). These include additional demographic information, qualitative clinical data, and data on shortages of highly qualified teachers in specific subject areas. The Department estimates that providing this additional information would require an additional 50 hours for each State to gather and report.

Using the above calculations, the Department estimates that the total reporting burden for each State would be 235 hours (185 hours for the revised SRC plus the additional statutory reporting requirements totaling 50 hours). This would represent a reduction of 676 burden hours for each State to complete the requirements of the SRC, as compared to approved OMB collection 1840-0744 (911 burden hours under the current SRC compared to 235 burden hours under the revised SRC). The total burden for States to report this information would be 13,865 hours (235 hours multiplied by 59 States).

Posting on the State's Web Site

The proposed regulations would also require that the State provide the information reported on the SRC to the general public by prominently and promptly posting the SRC information on the State's Web site. Because the Department believes it is reasonable to assume that each State that communicates data related to its teacher preparation programs by electronic means maintains a Web site, the Department presumes that posting such information to an already-existing Web site would represent a minimal burden increase. The Department therefore estimates that States would require 0.5 hours (30 minutes) to meet this requirement. This would represent a total burden increase of 29.5 hours each year for all IHEs (0.5 hours multiplied by 59 States).

Subtotal § 612.4(a) Start-Up and Annual Reporting Burden

As noted in the preceding discussion, there is no start-up burden associated solely with § 612.4(a). Therefore, the aggregate start-up and annual reporting burden associated with reporting elements under § 612.4(a) would be 13,894.5 hours (235 hours multiplied by 59 States plus 0.5 hours for each of the 59 States).

Reporting Required Under § 612.4(b) and § 612.4(c)

The preceding burden discussion of § 612.4 focused on burdens related to the reporting requirements required under section 205(b) of the HEA and codified in regulation at § 612.4(a). The remaining burden discussion of § 612.4 concerns regulatory reporting requirements required under §§ 612.4(b)-612.4(c).

Start-Up Burden

Meaningful Differentiations

Under proposed § 612.4(b)(1), a State would be required to make meaningful differentiations in teacher preparation program performance using at least four performance levels—low-performing teacher preparation program, at-risk teacher preparation program, effective teacher preparation program, and exceptional teacher preparation program—based on the indicators in § 612.5 and including, in significant part, employment outcome for high-need schools and student learning outcomes.

The Department believes that State higher education authorities responsible for making State-level classifications of teacher preparation programs would require time to make meaningful differentiations in their classifications and determine whether alternative performance levels are warranted. States are required to consult with external stakeholders, review best practices by early adopter States that have more experience in program classification, and seek technical assistance.

States would also have to determine how it would make such classifications. For example, a State may choose to classify all teacher preparation programs on an absolute basis using a cut-off score that weighs the various indicators, or a State may choose to classify teacher preparation programs on a relative basis, electing to classify a certain top percentile as exceptional, the next percentile as effective, and so on. In exercising this discretion, States may choose to consult with various external and internal parties and discuss lessons learned with those States already making such classifications of their teacher preparation programs.

The Department estimates that each State would require 21 hours to make these determinations, and this would constitute a one-time total burden of 1,092 hours (21 hours multiplied by 52 States).

As a part of the proposed regulation, a State would be required to classify each teacher preparation program on the basis of these differentiated performance levels using the indicators of academic content knowledge and teaching skills in § 612.5 (see the discussion of § 612.5 for a detailed discussion of the burden associated with each of these indicators).

The proposed regulatory requirement under § 612.4(b)(1) and § 612.4(b)(2) that States rely in significant part on employment outcomes in high-need schools and student learning outcomes and ensure that no program is deemed effective or higher unless it has satisfactory or higher student learning outcomes would not, in itself, create additional reporting requirements. (See discussion related to burden associated with reporting student learning outcomes in the start-up burden section of § 612.5.) However, States would have the discretion under this proposed regulation to determine the meaning of “significant” and “satisfactory.” Similar to the consultative process described in the previous paragraphs of this section, a State may consult with early adopter States to determine best practices for making such determinations and whether an underlying qualitative basis should exist for these terms. The Department estimates that this decision-making process would take 14 hours for each State, and the one-time total burden associated with these determinations would be 728 hours (14 hours multiplied by 52 States).

Assurance of Specialized Accreditation

Under proposed § 612.4(b)(3)(i)(A), a State would be required to provide for each teacher preparation program disaggregated data for each of the indicators identified pursuant to § 612.5. See the start-up burden section of § 612.5 for a more detailed discussion of the burden associated with gathering the indicator data required to be reported under this regulatory section. See the annual reporting burden section of 612.4 for a discussion of the ongoing reporting burden associated with reporting disaggregated indicator data under this regulatory provision. No further burden exists beyond the burden described in these two sections.

Under proposed § 612.4(b)(3)(i)(B), a State would be required to provide, for each teacher preparation program in the State, the State's assurance that the teacher preparation program either: (a) Is accredited by a specialized agency or (b) provides teacher candidates with content and pedagogical knowledge, quality clinical preparation, and rigorous teacher entry and exit qualifications. See the start-up burden section of § 612.5 for a detailed discussion of the burden associated with gathering the indicator data required to be reported under this regulatory section. See the annual reporting burden section of § 612.4 for a discussion of the ongoing reporting burden associated with reporting these assurances. No further burden exists beyond the burden described in these two sections.

Indicator Weighting

Under proposed § 612.4(b)(3)(ii), a State would be required to provide its weighting of the different indicators in § 612.5 for purposes of describing the State's assessment of program performance. See the start-up burden section of § 612.4 on stakeholder consultation for a detailed discussion of the burden associated with establishing the weighting of the various indicators under § 612.5. See the annual reporting burden section of § 612.4 for a discussion of the ongoing reporting burden associated with reporting these relative weightings. No further burden exists beyond the burden described in these two sections.

State-Level Rewards or Consequences

Under proposed § 612.4(b)(3)(iii), a State would be required to provide the State-level rewards or consequences associated with the designated performance levels. See the start-up burden section of § 612.4 on stakeholder consultation for a more detailed discussion of the burden associated with establishing these rewards or consequences. See the annual reporting burden section of § 612.4 for a discussion of the ongoing reporting burden associated with reporting these relative weightings. No further burden exists beyond the burden described in these two sections.

Aggregation of Small Programs

Under proposed § 612.4(b)(4), a State would be required to ensure that all of its teacher preparation programs in that State are represented on the SRC. The Department recognized that many teacher preparation programs consist of a small number of prospective teachers and that reporting on these programs could present privacy and data validity issues. After discussion and input from various non-Federal negotiators during the negotiated rulemaking process, the Department elected to set a required reporting program size threshold of 25 (for a more detailed discussion of this determination, see the general preamble discussion regarding § 612.4). However, the Department realized that, on the basis of research examining accuracy and validity relating to reporting small program sizes, some States may prefer to report on programs smaller than 25. Proposed § 612.4(b)(4)(i) permits States to report using a lower program size threshold. In order to determine the preferred program size threshold for its programs, a State may review existing research or the practices of other States that set program size thresholds to determine feasibility for its own teacher preparation program reporting. The Department estimates that such review would require 14 hours for each State, and this would constitute a one-time total burden of 728 hours (14 hours multiplied by 52 States).

Under proposed § 612.4(b)(4), all teacher preparation entities would be required to report on the remaining small programs that do not meet the program size threshold the State chooses. States will be able to do so through a combination of two possible aggregation methods described in § 612.4(b)(4)(ii). The preferred aggregation methodology is to be determined by the States after consultation with a group of stakeholders. For a detailed discussion of the burden related to this consultation process, see the start-up burden section of § 612.4, which discusses the stakeholder consultation process. Apart from the burden discussed in that section, no other burden is associated with this requirement.

Stakeholder Consultation

Under proposed § 612.4(c), a State would be required to consult with a representative group of stakeholders to determine the procedures for assessing and reporting the performance of each teacher preparation program in the State. This stakeholder group, composed of a variety of members representing viewpoints and interests affected by these proposed regulations, would provide input on a number of issues concerning the State's discretion granted under these proposed regulations. There are four issues in particular on which the stakeholder group would advise the State—

a. the relative weighting of the indicators identified in § 612.5;

b. the preferred method for aggregation of data such that performance data for a maximum number of small programs are reported;

c. the State-level rewards or consequences associated with the designated performance levels; and

d. the appropriate process and opportunity for programs to challenge the accuracy of their performance data and program classification.

The Department believes that this consultative process would require that the group convene at least three times to afford each of the stakeholder representatives multiple opportunities to meet and consult with the constituencies they represent. Further, the Department believes that members of the stakeholder group would require time to review relevant materials and academic literature and advise on the relative strength of each of the performance indicators under § 612.5, as well as any other matters requested by the State.

These stakeholders would also require time to advise whether any of the particular indictors would have more or less predictive value for the teacher preparation programs in their State, given its unique traits. Finally, because some States have already implemented one or more components of the proposed regulatory indicators of program quality, these stakeholders would require time to review these States' experiences in implementing similar systems. The Department estimates that the combination of gathering the stakeholder group multiple times, review of the relevant literature and other States' experiences, and making determinations unique to their particular State would take 156 hours for each State. This would constitute a one-time total of 8,736 hours for all States (168 hours multiplied by 52 States).

Subtotal of Start-Up Burden Under § 612.4(b) and § 612.4(c)

Aggregating the start-up burdens calculated under the preceding sections results in the following burdens: All States would incur a total burden of 1,092 hours to make meaningful differentiations in program classifications, 728 hours to define the terms “significant” and “satisfactory” under these sections, 728 hours to determine the State's aggregation of small programs, and 8,736 hours to complete the stakeholder consultation process. This would constitute a total burden of 11,284 hours of start-up burden nationwide.

Annual Reporting Burden

Classification of Teacher Preparation Programs

The bulk of the State burden associated with assigning programs among classification levels would be in gathering and compiling data on the indicators of program quality that compose the basis for the classification. Once a State has made a determination of how a teacher preparation program would be classified at a particular performance level, applying the data gathered under § 612.5 to this classification basis would be straightforward. The Department estimates that States would require 0.5 hours (30 minutes) to apply already-gathered indicator data to existing program classification methodology. The total burden associated with classification of all teacher preparation programs using meaningful differentiations would be 12,500 hours each year (0.5 hours multiplied by 25,000 teacher preparation programs).

Disaggregated Data on Each Indicator in § 612.5

Under proposed § 612.4(b)(3)(i)(A), States would be required to report on the indicators of program performance in proposed § 612.5. For a fuller discussion of the burden related to the reporting of this requirement, see the annual reporting burden section of § 612.5. Apart from the burden discussed in this section, no other burden is associated with this requirement.

Indicator Weighting

Under proposed § 612.4(b)(3)(ii), States would be required to report the relative weight it places on each of the different indicators enumerated in § 612.5. The burden associated with this reporting is minimal: After the State, in consultation with a group of stakeholders, has made the determination about the percentage weight it will place on each of these indicators, reporting this information on the SRC is a simple matter of inputting a number for each of the indicators. Under the proposed regulations at § 612.5, this would minimally require the State input eight general indicators of quality. Note: the eight indicators are—

a. associated student learning outcome results;

b. teacher placement results;

c. teacher retention results;

d. teacher placement rate calculated for high-need school results;

e. teacher retention rate calculated for high-need school results;

f. teacher satisfaction survey results;

g. employer satisfaction survey results; and

h. assurance of specialized accreditation or assurance of content and pedagogical knowledge, quality clinical preparation, and rigorous entry and exit standards.

This reporting burden would not be affected by the number of teacher preparation programs in a State, because such weighting would apply equally to each program. Although the State would have the discretion to add indicators, the Department does not believe that transmission of an additional figure representing the percentage weighting assigned to that indicator would constitute an appreciable burden increase. The Department therefore estimates that each State would incur a burden of 0.25 hours (15 minutes) to report the relative weighting of the regulatory indicators of program performance. This would constitute a total burden on States of 13 hours each year (0.25 hours multiplied by 52 States).

State-Level Rewards or Consequences

Similar to the reporting required under § 612.4(b)(3)(ii), after a State has made the requisite determination about rewards and consequences, reporting those rewards and consequences would represent a relatively low burden. States would be required to report this on the SRC during the first year of implementation, the SRC could provide States with a drop-down list representing common rewards or consequences in use by early adopter States, and States would be able to briefly describe those rewards or consequences not represented in the drop-down options. For subsequent years, the SRC could be pre-populated with the prior-year's selected rewards and consequences, such that there would be no further burden associated with subsequent year reporting unless the State altered its rewards and consequences. For these reasons, the Department estimates that States will incur, on average, 0.5 hours (30 minutes) of burden in the first year of implementation to report the State-level rewards and consequences, and 0.1 hours (6 minutes) of burden in each subsequent year. The Department therefore estimates that the total burden for the first year of implementation of this proposed regulatory requirement would be 26 hours (0.5 hours multiplied by 52 States) and 5.2 hours each year thereafter (0.1 hours multiplied by 52 States).

Stakeholder Consultation

Under proposed § 612.4(b)(5), during the first year of reporting and every five years thereafter, States would be required to report on the procedures they established in consultation with the group of stakeholders described under § 612.4(c)(1). The burden associated with the first and third of these four procedures, the weighting of the indicators and State-level rewards and consequences associated with each performance level, respectively, are discussed in the preceding paragraphs of this section.

The second procedure, the method by which small programs are aggregated, would be a relatively straightforward reporting procedure on the SRC. Pursuant to § 612.4(b)(4)(ii), States are permitted to use one of two methods, or a combination of both in aggregating small programs. A State would be allowed to aggregate programs that are similar in teacher preparation subject matter. A State would also be allowed aggregate using prior year data, including that of multiple prior years. Or a State would be allowed to use a combination of both methods. On the SRC, the State would simply indicate the method it uses. The Department estimates that States would require 0.5 hours (30 minutes) to enter these data every fifth year. On an annualized basis, this would therefore constitute a total burden of 5.2 hours (0.5 hours multiplied by 52 States divided by five to annualize burden for reporting every fifth year).

The fourth procedure that States would be required to report under proposed § 612.4(b)(5) is the method by which teacher preparation programs in the State are able to challenge the accuracy of their data and the classification of their program. First, the Department believes that States would incur a paperwork burden each year from recordkeeping and publishing decisions of these challenges. Because the Department believes the instances of these appeals would be relatively rare, we estimate that each State would incur 6 hours of burden each year related to recordkeeping and publishing decisions. This would constitute an annual reporting burden of 312 hours (6 hours multiplied by 52 States).

After States and their stakeholder groups determine the preferred method for programs to challenge data, reporting that information would likely take the form of narrative responses. This is because the method for challenging data may differ greatly from State to State, and it is difficult for the Department to predict what methods States will choose. The Department therefore estimates that reporting this information in narrative form during the first year would constitute a burden of 3 hours for each State. This would represent a total reporting burden of 156 hours (3 hours multiplied by 52 States).

In subsequent reporting cycles, the Department would be able to examine State responses and (1) pre-populate this response for States that have not altered their method for challenging data or (2) provide a drop-down list of representative alternatives. This would minimize subsequent burden for most States. The Department therefore estimates that in subsequent reporting cycles (every five years under the proposed regulations), only 10 States would require more time to provide additional narrative responses totaling 3 burden hours each, with the remaining 42 States incurring a negligible burden. This represents an annualized reporting burden of 6 hours for those 10 States (3 hours multiplied by 10 States, divided by 5 years), for a total annualized reporting burden of 60 hours for subsequent years (6 hours multiplied by 10 States).

Under proposed § 612.4(c)(2), each State would be required to periodically examine the quality of its data collection and reporting activities and modify those activities as appropriate. The Department believes that this review would be carried out in a manner similar to the one described for the initial stakeholder determinations in the preceding paragraphs: States would consult with representative groups to determine their experience with providing and using the collected data, and they would consult with data experts to ensure the validity and reliability of the data collected. The Department believes such a review would recur every three years, on average. Because this review would take place years after the State's initial implementation of the proposed regulations, the Department further believes that the State's review would be of relatively little burden. This is because the State's review would be based on the State's own experience with collecting and reporting data pursuant to the proposed regulations, and because States would be able to consult with many other States to determine best practices. For these reasons, the Department estimates that the periodic review and modification of data collection and reporting would require 16 hours every three years or an annualized burden of 5.3 hours for each State. This would constitute a total annualized burden of 275.6 hours for all States (5.3 hours per year multiplied by 52 States).

Subtotal Annual Reporting Burden Under § 612.4(b) and § 612.4(c)

Aggregating the annual burdens calculated under the preceding sections results in the following: All States would incur a burden of 12,500 hours to report classifications of teacher preparation programs, 13 hours to report State indicator weightings, 26 hours in the first year and 5.2 hours in subsequent years to report State-level rewards and consequences associated with each performance classification, 5.2 hours to report the method of program aggregation, 312 hours for recordkeeping and publishing appeal decisions, 156 hours the first year and 60 hours in subsequent years to report the process for challenging data and program classification, and 275.6 hours to report on the examination of data collection quality. This totals 13,287.5 hours of annual burden in the first year and 13,171.5 hours of annual burden in subsequent years nationwide.

Total Reporting Burden Under § 612.4

Aggregating the start-up and annual burdens calculated under the preceding sections results in the following burdens: All States would incur a total burden under § 612.4(a) of 13,894.5 hours, a start-up burden under § 612.4(b) and § 612.4(c) of 11,284 hours, and an annual burden under § 612.4(b) and § 612.4(c) of 13,287.5 hours in the first year and 13,171.5 hours in subsequent years. This totals between 38,350 and 38,466 total burden hours under § 612.4 nationwide. Based on the prior estimate of 53,749 hours of reporting burden on OMB collection 1840-0744, the total burden reduction under § 612.4 is between 15,283 hours and 15,399 hours (53,749 hours minus a range of 38,350 and 38,466 total burden hours).

Section 612.5—Indicators a State Must Use To Report on Teacher Preparation Program Performance

The proposed regulations at § 612.5(a)(1) through (a)(4) would identify those indicators that a State is required to use to assess the academic content knowledge and teaching skills of new teachers from each of its teacher preparation programs. Under the proposed regulations, a State would be required to use the following indicators of teacher preparation program performance: (a) Student learning outcomes, (b) employment outcomes, (c) survey outcomes, and (d) whether the program (1) is accredited by a specialized accrediting agency or (2) produces teacher candidates with content and pedagogical knowledge and quality clinical preparation, who have met rigorous entry and exit standards. Proposed § 612.5(b) would permit a State, at its discretion, to establish additional indicators of academic content knowledge and teaching skills.

Start-Up Burden

Student Learning Outcomes

Consistent with teacher-student data link requirements related to the American Recovery and Reinvestment Act (ARRA), State Longitudinal Data System program (SLDS), and the ESEA Flexibility initiative, proposed § 612.5(a)(1) would require States to provide data on student learning outcomes, defined as the aggregate learning outcomes of students taught by new teachers trained by each teacher preparation program in the State. States would have the discretion to report student learning outcomes on the basis of student growth (that could factor in variance in expected growth for students with different growth trajectories), teacher evaluation measures, or both. States also would have discretion on whether to use a value-added method of adjusting for student characteristics. Regardless of which method States use to report student learning outcomes, States would be required to link the results of those indicators of teaching skill to the teacher preparation programs with which the teachers are associated. States would have discretion on a variety of related technical matters, such as whether to track out-of-State teachers who were prepared within the State. While comprehensive data regarding the readiness of all States to comply with providing information on student learning outcomes do not exist, the Department has estimated the start-up costs for States based on a number of sources.

First, each State has provided an assurance that it would provide student-growth assessment data for teachers who teach reading/language arts and mathematics in tested grades. This assurance was provided as a consequence of receiving a share of $48.6 billion in funds from the State Fiscal Stabilization Fund (SFSF), authorized by ARRA. The Department estimates that no additional burden would be incurred to measure student growth for these grades and subjects. There would be some cost, however, for mapping student growth data results back to relevant teacher preparation programs.

As of June 15, 2014, the Secretary has approved requests by 42 States, the District of Columbia, and the Commonwealth of Puerto Rico for flexibility regarding specific requirements of ESEA, as amended, in exchange for rigorous and comprehensive State plans designed to improve educational outcomes for all students, close achievement gaps, increase equity, and improve the quality of instruction. As of the same date, the Department is working with 3 more States pursuing similar flexibility agreements. In their request for flexibility, each State has committed to implementing a statewide comprehensive teacher evaluation system covering those teaching in grades and subjects where there is statewide testing and those grades and subjects in which there is not statewide testing. The proposed regulation's definition of a teacher evaluation measure with respect to non-tested grades and subjects and its implementation timeline are aligned with requirements included in the Department's ESEA Flexibility initiative. Accordingly, for grades and subjects for which assessments are not required under ESEA, States, under the proposed regulations, would have the discretion to make use of various alternative forms of measurement, including use of “student learning objectives” as per a statewide rubric.

To estimate the cost of using student learning objectives to measure student growth, we examined publicly available State and LEA rubrics and guidelines. Guidance issued by the Rhode Island Department of Education includes a detailed timeline and checklist that we used to develop an estimate of what it might cost the remaining States to develop and implement student learning objectives.⁸⁵ The estimate assumes that these States have no existing State or LEA-level structures in place to assess student learning outcomes.

⁸⁵ These estimates are entirely based on analysis and interpretation conducted by U.S. Department of Education staff and should not be attributed to the Rhode Island Department of Education. This analysis was based primarily on the timeline and checklist, which begins on page 23 of the following document: http://www.maine.gov/education/effectiveness/GuideSLO-Rhode%20Island.pdf.

Based on the specific steps required in this guidance, we estimate that for the average teacher, developing and implementing student learning objectives would require 6.85 hours of the teacher's time and 5.05 hours of an evaluator's time. However, for the reasons explained in detail in the Regulatory Impact Assessment section of this notice, the Department estimates that these burden estimates would apply to 31,676 of these teachers in six States. For these teachers, the total burden would equal 376,944 hours (31,676 teachers multiplied by 11.9 hours). For the remaining two States that have not already committed to doing so under the Race to the Top program or as part of their request for ESEA flexibility, the Department estimates that teachers and evaluators would only need to spend a combined three hours to develop and measure against student learning objectives for the 4,629 new teachers of students in non-tested grades and subjects in these areas. This would constitute a total burden of 13,887 hours (3 hours of teacher and evaluator time multiplied by 4,629 teachers). The total burden would therefore equal 390,831 hours (13,887 hours plus 376,944 hours).

In addition to creating the systems for evaluating student learning outcomes, the proposed regulations would also require that States link student growth or teacher evaluation data back to each teacher's preparation programs consistent with State discretionary guidelines included in § 612.4. Currently, few States have such capacity. However, based on data from the SLDS program, it appears that 30 States, the District of Columbia, and the Commonwealth of Puerto Rico either already have the ability to aggregate data on student achievement and map back to teacher preparation programs or have committed to do so. For these 30 States, the District of Columbia, and the Commonwealth of Puerto Rico we estimate that no additional costs will be needed to link student learning outcomes back to teacher preparation programs.

For the remaining States, the cost estimates of establishing this mapping depend on their current statewide longitudinal data capacity. While the Department has awarded $575.7 million in SLDS grants to support data system development in 47 States, the District of Columbia, and the Commonwealth of Puerto Rico, there remains a substantial variance in capacity among States to implement these data linkages. For example, some States would need to link currently disparate postsecondary education data systems to elementary and secondary school data systems that do not yet exist, while other States may already have linkages among the former or latter, though not between the two. The Department estimates, therefore, that the remaining 20 States that currently lack the capacity to link data systems would require 2,940 hours for each State, for a total burden of 58,800 hours nationwide (2,940 hours multiplied by 20 States).

Employment Outcomes

Proposed § 612.5(a)(2) would require a State to provide data on each teacher preparation program's teacher placement rate, defined as the combined non-duplicated percentage of new teachers and recent graduates hired in a full-time teaching position for the grade level, span, and subject area in which a candidate was prepared, as well as the teacher placement rate calculated for high-need schools. High-need schools would be defined in proposed § 612.2(d) by using the definition of “high-need school” in section 200(11) of the HEA. The proposed regulations would give States discretion to exclude those new teachers or recent graduates from this measure if they are teaching in a private school, teaching in another State, enrolled in graduate school, or engaged in military service. States would also have the discretion to treat this rate differently for alternative route and traditional route providers.

Proposed § 612.5(a)(2) would require a State to provide data on each teacher preparation program's teacher retention rate, defined as any of the following: (a) The percentage of new teachers who have been hired in full-time teaching positions and served for periods of at least three consecutive school years within five years of being granted a level of certification that allows them to serve as teachers of record; (b) the percentage of new teachers who have been hired in full-time teaching positions and reached a level of tenure or other equivalent measures of retention within five years of being granted a level of certification that allows them to serve as teachers of record; or (c) one hundred percent less the percentage of new teachers who have been hired in full-time teaching positions and whose employment was not continued by their employer for reasons other than budgetary constraints within five years of being granted a level of certification or licensure that allows them to serve as teachers of record. In addition, proposed § 612.5(a)(2) would require a State to provide data on each teacher preparation program's teacher retention rate calculated for high-need schools. The proposed regulations would give States discretion to exclude those new teachers or recent graduates from this measure if they are teaching in a private school (or other school not requiring State certification), another State, enrolled in graduate school, or serving in the military. States would also have the discretion to treat this rate differently for alternative route and traditional route providers.

Currently, 50 States, the District of Columbia, and the Commonwealth of Puerto Rico currently collect some certification information on individual teachers. Some States further collect such data related to teacher preparation programs (42 States), location of the teacher preparation program (47 States), and certification year (51 States). (For a more detailed discussion of these and other estimates in this section, see the Regulatory Impact Assessment discussion of costs, benefits and transfers regarding employment outcomes.) Furthermore, 39 States, the District of Columbia, and the Commonwealth of Puerto Rico currently collect data on certification placement and have the capability to link that data back to the program that prepared each individual teacher. The Department believes that these States would not incur additional burden for employment outcome reporting except to the extent that they would have to identify recent graduates not employed in a full-time teaching position within the State. A State would incur a minimal burden by matching its certification data against a roster of recent graduates from each teacher preparation program in the State to determine teacher placement and retention rates for those teachers who received their initial certification within the last three years. Additionally, adding a “high-need school” marker to such a list would also incur minimal additional burden.

The remaining 11 States would likely incur additional burden in collecting information about the employment and retention of recent graduates of teacher preparation programs in its jurisdiction. To the extent that it is not possible to establish these measures using existing data systems, States may need to obtain some or all of this information from teacher preparation programs or from the teachers themselves upon requests for certification and licensure. The Department estimates that 150 hours may be required at the State level to collect information about new teachers employed in full-time teaching positions (including designing the data request instruments, disseminating them, providing training or other technical assistance on completing the instruments, collecting the data, and checking their accuracy), which would amount to a total of 1,650 hours (150 hours multiplied by 11 States).

Survey Outcomes

Proposed § 612.5(a)(3) would require a State to provide data on each teacher preparation program's teacher survey results. This would require States to report data from a survey of new teachers in their first year of teaching designed to capture their perceptions of whether the training that they received was sufficient to meet classroom and profession realities.

Proposed § 612.5(a)(3) would also require a State to provide data on each teacher preparation program's employer survey results. This would require States to report data from a survey of employers or supervisors designed to capture their perceptions of whether the new teachers they employ or supervise were prepared sufficiently to meet classroom and profession realities.

Some States and IHEs already survey graduates of their teacher preparation programs. The sampling size and length of survey instrument can strongly affect the potential burden associated with administering the survey. The Department has learned that some States already have experience carrying out such surveys (for a more detailed discussion of these and other estimates in this section, see the Regulatory Impact Assessment discussion of costs, benefits and transfers regarding student learning outcomes). In order to account for variance in States' abilities to conduct such surveys, the variance in the survey instruments themselves, and the need to ensure statistical validity and reliability, the Department assumes a somewhat higher burden estimate than States' initial experiences.

Based on Departmental consultation with researchers experienced in carrying out survey research, the Department assumes that survey instruments would not require more than 30 minutes to complete. The Department further assumes that a State would be able to develop a survey in 1,620 hours. Assuming that States with experience in administering surveys would incur a lower cost, the Department assumes that the total burden incurred nationwide would maximally be 31,824 hours (612 hours multiplied by 52 States).

Assurance of Accreditation

Under proposed § 612.5(a)(4), States would be required to assure that each teacher preparation program in the State either: (a) Is accredited by a specialized accrediting agency recognized by the Secretary for accreditation of professional teacher education programs or (b) provides teacher candidates with content and pedagogical knowledge and quality clinical preparation, and has rigorous teacher candidate entry and exit standards consistent with section 206(c) of the HEA.

The Council for the Accreditation of Educator Preparation (CAEP), a union of two formerly independent national accrediting agencies, the National Council for Accreditation of Teacher Education (NCATE) and the Teacher Education Accreditation Council (TEAC), reports that currently it has fully accredited approximately 800 IHEs. The existing IRC currently requires reporting of whether each teacher preparation program is accredited by a specialized accrediting agency, and if so, which one. For this reason, the Department believes that no significant start-up burden will be associated with State determinations of specialized accreditation of teacher preparation programs for those programs that are already accredited.

Based on the 1,522 IHEs that reported using the most recent IRC, the Department estimates that States would have to provide the assurances described in proposed § 612.5(a)(4)(ii) for the remaining 731 IHEs.⁸⁶ Based on an estimated average of 14.65 teacher preparation programs at each IHE (see § 612.3 of this burden report for a more detailed explanation of this figure), the Department estimates that States will have to provide such assurances for approximately 10,716 programs at IHEs nationwide (731 IHEs multiplied by 14.65). In addition, the Department believes that States will have to provide such assurances for all 2,688 programs at alternative routes not associated with IHEs (see the entity-level and program-level reporting section in § 612.4 for a fuller discussion of this figure). Therefore, the Department estimates that States will have to provide such assurances for 13,404 teacher preparation programs nationwide (10,716 unaccredited programs at IHEs plus 2,688 programs at alternative routes not affiliated with an IHE).

⁸⁶ Data from CAEP's “Annual Report to the public, the states, policymakers, and the education profession” (2013) indicated that 791 institutions were currently accredited by either TEAC or NCATE. As noted above, Mary Brabeck, chair of CAEP, has indicated in Congressional testimony that “more than 900 educator preparation providers participate in the educator preparation accreditation system.” We have used the estimate of 791 programs for purposes of these calculations to estimate the number of programs that are currently not accredited by CAEP or its predecessor organizations. As a result, any estimates of cost or burden arising from this estimate will likely overestimate the costs associated with assurance of accreditation.

The Department believes that States will be able to make use of accreditation guidelines from specialized accrediting agencies to determine the measures that will adequately inform a State whether its teacher preparation programs provide teacher candidates with content and pedagogical knowledge, quality clinical preparation, and have rigorous teacher candidate entry and exit qualifications. The Department estimates that States will require 2 hours for each teacher preparation program to determine whether or not it can provide such assurance. Therefore, the Department estimates that the total reporting burden to provide these assurances would be 26,808 hours (13,404 teacher preparation programs multiplied by 2 hours).

Subtotal of Start-Up Reporting Burden Under § 612.5

Aggregating the start-up burdens calculated under the preceding sections results in the following burdens: All States would incur a burden of 390,831 hours to establish student learning outcome measures for all subjects and grades, 58,800 hours to link those student learning outcome measures back to each teacher's preparation program, 1,650 hours to measure employment outcomes, 26,808 hours to develop surveys, and 31,824 hours to establish the process for assurance of certain indicators for teacher preparation programs without specialized accreditation. This totals 509,913 hours of start-up burden nationwide.

Annual Reporting Burden

Under proposed § 612.5(a), States would be required to transmit, through specific elements on the SRC, information related to indicators of academic content knowledge and teaching skills of new teachers for each teacher preparation program in the State. We discuss the burden associated with establishing systems related to gathering these data in the section discussing start-up burden associated with § 612.5. The following section describes the burden associated with gathering these data and reporting them to the Department annually.

Student Learning Outcomes

Under proposed § 612.5(a)(1), States would be required to transmit information related to student learning outcomes for each teacher preparation program in the State. The Department believes that in order to ensure the validity of the data, each State would require 2 hours to gather and compile data related to the student learning outcomes of each teacher preparation program. Much of the burden related to data collection would be built into State-established reporting systems, limiting the burden related to data collection to technical support to ensure proper reporting and to correct data that had been inputted incorrectly. States would have the discretion to use student growth measures or teacher evaluation measures in determining student learning outcomes. Regardless of the measure(s) used, the Department estimates that States would require 0.5 hours (30 minutes) for each teacher preparation program to convey this information to the Department through the SRC. This is because these measures would be calculated on a quantitative basis. The combination of gathering and reporting data related to student learning outcomes would therefore constitute a burden of 2.5 hours for each teacher preparation program, and would represent a total burden of 62,500 hours annually (2.5 hours multiplied by 25,000 teacher preparation programs).

Employment Outcomes

Under proposed § 612.5(a)(2), States would be required to transmit information related to employment outcomes for each teacher preparation program in the State. In order to report employment outcomes to the Department, States would be required to compile and transmit teacher placement rate data, teacher placement rate data calculated for high-need schools, teacher retention rate data, and teacher retention rate data for high-need schools. Similar to the process for reporting student learning outcome data, much of the burden related to gathering data on employment outcomes would be subsumed into the State-established data systems, which would provide information on whether and where teachers were employed. The Department estimates that States would require 3 hours to gather data both on teacher placement and teacher retention for each teacher preparation program in the State. Reporting these data using the SRC would be relatively straightforward. The measures would be the percentage of teachers placed and the percentage of teachers who continued to teach, both generally and at high-need schools. The Department therefore estimates that States would require 0.5 hours (30 minutes) for each teacher preparation program to convey this information to the Department through the SRC. The combination of gathering and reporting data related to employment outcomes would therefore constitute a burden of 3.5 hours for each teacher preparation program and would represent a total burden of 87,500 hours annually (3.5 hours multiplied by 25,000 teacher preparation programs).

Survey Outcomes

In addition to the start-up burden needed to produce a survey, States would incur annual burdens to administer the survey. Surveys would include, but would not be limited to, a teacher survey and an employer survey, designed to capture perceptions of whether new teachers who are employed as teachers in their first year of teaching in the State where the teacher preparation program is located possess the skills needed to succeed in the classroom. The burdens for administering an annual survey would be borne by the State administering the survey and the respondents completing it. For the reasons discussed in the Regulatory Impact Assessment section of this notice, the Department estimates that States would require approximately 0.5 hours (30 minutes) per respondent to collect a sufficient number of survey instruments to ensure an adequate response rate. The Department employs an estimate of 285,181 respondents (70 percent of 407,402—the 203,701 completers plus their 203,701 employers) that would be required to complete the survey. Therefore, the Department estimates that the annual burden to respondents nationwide would be 142,591 hours (285,181 respondents multiplied by 0.5 hours per respondent).

With respect to burden incurred by States to administer the surveys annually, the Department estimates that one hour of burden would be incurred for every respondent to the surveys. This would constitute an annual burden nationwide of 285,181 hours (285,181 respondents multiplied by one hour per respondent).

Under proposed § 612.5(a)(3), after these surveys are administered, States would be required to report the information using the SRC. In order to report survey outcomes to the Department, the Department estimates that States would need 0.5 hours to report the quantitative data related to the survey responses for each instrument on the SRC, constituting a total burden of one hour to report data on both instruments. This would represent a total burden of 25,000 hours annually (1 hour multiplied by 25,000 teacher preparation programs). The total burden associated with administering, completing, and reporting data on the surveys would therefore constitute 452,772 hours annually (142,591 hours plus 285,181 hours plus 25,000 hours).

Assurance of Specialized Accreditation

Under proposed § 612.5(a)(4)(i), States would be required to report whether each program in the State is accredited by a specialized accrediting agency. The Department estimates that 726 IHEs offering teacher preparation programs are or will be accredited by a specialized accrediting agency (see the start-up burden discussion for § 612.5 for an explanation of this figure). Using the IRC, IHEs already report to States whether teacher preparation programs have specialized accreditation. This reporting element would be pre-populated for States on the SRC, and is reflected in the burden calculation relating to SRC reporting in § 612.4 of this burden statement. The Department estimates no additional burden for this reporting element.

Under proposed § 612.5(a)(4)(ii), for those programs that are not accredited by a specialized accrediting agency, States would be required to report on certain indicators in lieu of that accreditation: Whether the program provides teacher candidates with content and pedagogical knowledge and quality clinical preparation, and has rigorous teacher candidate entry and exit qualifications. Such requirements should be built into State approval of relevant programs. The Department estimates that States would require 0.25 hours (15 minutes) to provide to the Secretary an assurance, in a yes/no format, whether each teacher preparation program in its jurisdiction not holding a specialized accreditation from CAEP, NCATE, or TEAC meets these indicators.

As discussed in the start-up burden section of § 612.5 that discusses assurance of specialized accreditation, the Department estimates States would have to provide such assurances for 13,404 teacher preparation programs that do not have specialized accreditation. Therefore, the Department estimates that the total burden associated with providing an assurance that these teacher preparation programs meet these indicators is 3,351 hours (0.25 hours multiplied by the 13,404 teacher preparation programs that do not have specialized accreditation).

Subtotal of Annual Reporting Burden Under § 612.5

Aggregating the annual burdens calculated under the preceding sections results in the following burdens: All States would incur a burden of 62,500 hours to report on student learning outcome measures for all subjects and grades, 87,500 hours to report on employment outcomes, 452,772 hours to report on survey outcomes, and 3,351 hours to provide assurances that teacher preparation programs without specialized accreditation meet certain indicators. This totals 606,123 hours of annual burden nationwide.

Total Reporting Burden Under § 612.5

Aggregating the start-up and annual burdens calculated under the preceding sections results in the following burdens: All States would incur a start-up burden under § 612.5 of 509,913 hours and an annual burden under § 612.5 of 606,123 hours. This totals 1,116,036 burden hours under § 612.5 nationwide.

Section 612.6—What Must a State Consider in Identifying Low-Performing Teacher Preparation Programs or At-Risk Programs

The proposed regulations in § 612.6 would require States to use criteria, including, at a minimum, indicators of academic content knowledge and teaching skills from § 612.5, to identify low-performing or at-risk teacher preparation programs.

For a fuller discussion of the burden related to the consideration and selection of the criteria reflected in the indicators described in § 612.5, see the start-up burden section of § 612.4(b) and § 612.4(c) discussing meaningful differentiations. Apart from that burden discussion, the Department believes States would incur no other burden related to this proposed regulatory provision.

Section 612.7—Consequences for a Low-Performing Teacher Preparation Program That Loses the State's Approval or the State's Financial Support

For any IHE administering a teacher preparation program that has lost State approval or financial support based on being identified as a low-performing teacher preparation program, the proposed regulations under § 612.7 require the IHE to—(a) notify the Secretary of its loss of State approval or financial support within thirty days of such designation; (b) immediately notify each student who is enrolled in or accepted into the low-performing teacher preparation program and who receives funding under title IV, HEA that the IHE is no longer eligible to provide such funding to them; and (c) disclose information on its Web site and promotional materials regarding its loss of State approval or financial support and loss of eligibility for title IV funding.

The Department does not expect that a large percentage of programs will be subject to a loss of title IV eligibility. The Department estimates that approximately 50 programs will lose their State approval or financial support.

For those 50 programs, the Department estimates that it will take each program 15 minutes to notify the Secretary of its loss of eligibility; 5 hours to notify all students who are enrolled in or accepted into the program and who receives funding under title IV of the HEA; and 30 minutes to disclose this information on its Web sites and promotional materials, for a total of 5.75 hours per program. The Department estimates the total burden at 287.5 hours (50 programs multiplied by 5.75 hours).

Section 612.8—Regaining Eligibility To Accept or Enroll Students Receiving Title IV, HEA Funds After Loss of State Approval or Financial Support

The proposed regulations in § 612.8 provide a process for a low-performing teacher preparation program that has lost State approval or financial support to regain its ability to accept and enroll students who receive title IV, HEA funds. Under this process, IHEs would submit an application and supporting documentation demonstrating to the Secretary: (1) Improved performance on the teacher preparation program performance criteria reflected in indicators described in § 612.5 as determined by the State; and (2) reinstatement of the State's approval or the State's financial support.

The process by which programs and institutions apply for title IV eligibility already accounts for the burden associated with this provision.

Total Reporting Burden Under Part 612

Aggregating the total burdens calculated under the preceding sections of Part 612 results in the following burdens: Total burden hours incurred under § 612.3 is 146,340 hours, under § 612.4 is between 38,350 hours and 38,466 hours, under § 612.5 is 1,116,036 hours, under § 612.7 is 288 hours, and under § 612.8 is 200 hours. This totals between 1,301,213 hours and 1,301,330 hours nationwide.

Reporting Burden Under Part 686

The proposed changes to Part 686 in these regulations have no measurable effect on the burden currently identified in the OMB Control Numbers 1845-0083 and 1845-0084.

Consistent with the discussions above, the following chart describes the sections of the proposed regulations involving information collections, the information being collected, and the collections the Department will submit to the OMB for approval and public comment under the Paperwork Reduction Act. In the chart, the Department labels those estimated burdens not already associated an OMB approval number under a single prospective designation “OMB 1840-0744.” This label represents a single information collection; the different sections of the proposed regulations are separated in the table below for clarity and to appropriately divide the burden hours associated with each proposed regulatory section.

Please note that the changes in burden estimated in the chart are based on the change in burden under the current IRC OMB control numbers 1840-0744 and “OMB 1840-0744.” The burden estimate for 612.3 bases the burden estimate on the most recent data available for the number of IHEs that are required to report (i.e. 1,522 IHEs using most recent data available rather than 1,250 IHEs using prior estimates). For a complete discussion of the costs associated with the burden incurred under these proposed regulations, please see the Regulatory Impact Assessment, specifically the accounting statement.

Regulatory section | Information collection | OMB Control Number and estimated change in the burden
612.3 | This proposed regulatory section would require IHEs that provide a teacher preparation program leading to State certification or licensure to provide data on teacher preparation program performance to the States | OMB 1840-0744—The burden would decrease by 83,482 hours.
612.4 | This proposed regulatory section would require States that receive funds under the Higher Education Act of 1965, as amended, to report to the Secretary on the quality of teacher preparation in the State, both for traditional teacher preparation programs and for alternative route to State certification and licensure programs | OMB 1840-0744—The burden would decrease by between 15,283 hours and 15,400 hours.
612.5 | This proposed regulatory section would require States to use certain indicators of teacher preparation performance for purposes of the State report card | OMB 1840-0744—The burden would increase by 606,123.
612.6 | This proposed regulatory section would require States to use criteria, including indicators of academic content knowledge and teaching skills, to identify low-performing or at-risk teacher preparation programs | OMB 1840-0744—The burden associated with this regulatory provision is accounted for in other portions of this burden statement.
612.7 | The proposed regulations under this section would require any IHE administering a teacher preparation program that has lost State approval or financial support based on being identified as a low-performing teacher preparation program to notify the Secretary and students receiving title IV, HEA funds, and to disclose this information on its Web site | OMB 1840-0744—The burden would increase by 288 hours.
612.8 | The proposed regulations in this section would provide a process for a low-performing teacher preparation program that lost State approval or financial support to regain its ability to accept and enroll students who receive title IV funds | There is no burden associated with this regulatory provision.
Total Change in Burden |  | Total increase in burden under parts 612 would be between 507,530 hours and 507,646 hours.

If you want to comment on the proposed information collection requirements, please send your comments to the Office of Information and Regulatory Affairs, OMB, Attention: Desk Officer for U.S. Department of Education. Send these comments by email to OIRA_DOCKET@omb.eop.gov or by fax to (202) 395-6974. You may also send a copy of these comments to the Department contact named in the ADDRESSES section of this preamble.

We have prepared an Information Collection Request (ICR) for OMB collection 1840-0744. In preparing your comments you may want to review the ICR, which is available at www.reginfo.gov and for which the comment period will run concurrently with the comment period of the NPRM. To review the ICR on www.reginfo.gov, click on Information Collection Review.

We consider your comments on these proposed collections of information in—

• Deciding whether the proposed collections are necessary for the proper performance of our functions, including whether the information will have practical use;

• Evaluating the accuracy of our estimate of the burden of the proposed collections, including the validity of our methodology and assumptions;

• Enhancing the quality, usefulness, and clarity of the information we collect; and

• Minimizing the burden on those who must respond. This includes exploring the use of appropriate automated, electronic, mechanical, or other technological collection techniques.

OMB is required to make a decision concerning the collections of information contained in these proposed regulations between 30 and 60 days after publication of this document in the Federal Register. Therefore, to ensure that OMB gives your comments full consideration, it is important that OMB receives your comments by January 2, 2015. This does not affect the deadline for your comments to us on the proposed regulations.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Assessment of Educational Impact

In accordance with section 411 of the General Education Provisions Act, 20 U.S.C. 1221e-4, the Secretary particularly requests comments on whether these proposed regulations would require transmission of information that any other agency or authority of the United States gathers or makes available.

Federalism

Executive Order 13132 requires us to ensure meaningful and timely input by State and local elected officials in the development of regulatory policies that have federalism implications. “Federalism implications” means substantial direct effects on the States, on the relationship between the National Government and the States, or on the distribution of power and responsibilities among the various levels of government. The proposed regulations in § 612.4 may have federalism implications, as defined in Executive Order 13132. We encourage State and local elected officials and others to review and provide comments on these proposed regulations.

Accessible Format: Individuals with disabilities can obtain this document in an accessible format (e.g., braille, large print, audiotape, or compact disc) on request to the person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

(Catalog of Federal Domestic Assistance Number does not apply.)

List of Subjects

34 CFR Part 612

Administrative practice and procedure, Colleges and universities, Education, Elementary and secondary education, Grant programs—education, Reporting and recordkeeping requirements, Student aid.

34 CFR Part 686

Administrative practice and procedure, Colleges and universities, Education, Elementary and secondary education, Grant programs—education, Reporting and recordkeeping requirements, Student aid.

Dated: November 25, 2014.
Arne Duncan,
Secretary of Education.

For the reasons discussed in the preamble, the Secretary proposes to amend chapter VI of title 34 of the Code of Federal Regulations as follows:

1. Part 612 is added to read as follows:

PART 612—TITLE II REPORTING SYSTEM

Subpart A—Scope, Purpose and Definitions
Sec.
612.1 Scope and purpose.
612.2 Definitions.
Subpart B—Reporting Requirements
612.3 What are the regulatory reporting requirements for the Institutional Report Card?
612.4 What are the regulatory reporting requirements for the State Report Card?
612.5 What indicators must a State use to report on teacher preparation program performance for purposes of the State report card?
612.6 What must States consider in identifying low-performing teacher preparation programs or at-risk teacher preparation programs, and what regulatory actions must a State take with respect to those programs identified as low-performing?
Subpart C—Consequences of Withdrawal of State Approval or Financial Support
612.7 What are the consequences for a low-performing teacher preparation program that loses the State's approval or the State's financial support?
612.8 How does a low-performing teacher preparation program regain eligibility to accept or enroll students receiving Title IV, HEA funds after loss of the State's approval or the State's financial support?

Authority: 20 U.S.C. 1022d, unless otherwise noted.

Subpart A—Scope, Purpose and Definitions

§ 612.1 Scope and purpose.

This part establishes regulations related to the teacher preparation program accountability system under title II of the HEA. This part includes:

(a) Institutional Report Card reporting requirements.

(b) State Report Card reporting requirements.

(c) Requirements related to the indicators States must use to report on teacher preparation program performance.

(d) Requirements related to the areas States must consider to identify low-performing teacher preparation programs and at-risk teacher preparation programs and actions States must take with respect to those programs.

(e) The consequences for a low-performing teacher preparation program that loses the State's approval or the State's financial support.

(f) The conditions under which a low-performing teacher preparation program that has lost the State's approval or the State's financial support may regain eligibility to resume accepting and enrolling students who receive title IV, HEA funds.

(Authority: 20 U.S.C. 1022d)

§ 612.2 Definitions.

(a) The following terms used in this part are defined in the regulations for Institutional Eligibility under the Higher Education Act of 1965, as amended, 34 CFR part 600:

Distance education

Secretary

State

Title IV, HEA program

(b) The following terms used in this part are defined in subpart A of the Student Assistance General Provisions, 34 CFR part 668:

Payment period

TEACH Grant

(c) The following term used in this part is defined in 34 CFR 77.1:

Local educational agency (LEA)

(d) Other definitions used in this part are defined as follows:

At-risk teacher preparation program: A teacher preparation program that is identified as at-risk of being low-performing by a State based on the State's assessment of teacher preparation program performance under § 612.4.

Candidate accepted into a teacher preparation program: An individual who has been admitted into a teacher preparation program but who has not yet enrolled in any coursework that the institution has determined to be part of that teacher preparation program.

Candidate enrolled in a teacher preparation program: An individual student who has been accepted into a teacher preparation program and is in the process of completing coursework but has not yet completed the teacher preparation program.

Content and pedagogical knowledge: An understanding of the central concepts and structures of the discipline in which a teacher candidate has been trained, and how to create effective learning experiences that make the discipline accessible and meaningful for all students, including a distinct set of instructional skills to address the needs of English language learners and students with disabilities, in order to assure mastery of the content by the students, as described in applicable professional, State, or institutional standards.

Effective teacher preparation program: A teacher preparation program that is identified as effective by a State based on the State's assessment of teacher preparation program performance under § 612.4.

Employer survey: A survey of employers or supervisors designed to capture their perceptions of whether the new teachers they employ or supervise, who attended teacher preparation programs in the State where the new teachers are employed or supervised, were effectively prepared.

Employment outcomes: Data, measured by the teacher placement rate, the teacher placement rate calculated for high-need schools, the teacher retention rate, and the teacher retention rate calculated for high-need schools, on the effectiveness of a teacher preparation program in preparing, placing, and supporting new teachers consistent with local education agency (LEA) needs.

Exceptional teacher preparation program: A teacher preparation program that is identified as exceptional by a State based on the State's assessment of teacher preparation program performance under § 612.4.

High-need school: A school that, based on the most recent data available, meets one or both of the following:

(i) The school is in the highest quartile of schools in a ranking of all schools served by a local educational agency (LEA), ranked in descending order by percentage of students from low-income families enrolled in such schools, as determined by the LEA based on one of the following measures of poverty:

(A) The percentage of students aged 5 through 17 in poverty counted in the most recent census data approved by the Secretary.

(B) The percentage of students eligible for a free or reduced price school lunch under the Richard B. Russell National School Lunch Act [42 U.S.C. 1751 et seq.].

(C) The percentage of students in families receiving assistance under the State program funded under part A of title IV of the Social Security Act [42 U.S.C. 601 et seq.].

(D) The percentage of students eligible to receive medical assistance under the Medicaid program.

(E) A composite of two or more of the measures described in paragraphs (i)(A) through (D) of this definition.

(ii) In the case of—

(A) An elementary school, the school serves students not less than 60 percent of whom are eligible for a free or reduced price school lunch under the Richard B. Russell National School Lunch Act; or

(B) Any other school that is not an elementary school, the other school serves students not less than 45 percent of whom are eligible for a free or reduced price school lunch under the Richard B. Russell National School Lunch Act.

Low-performing teacher preparation program: A teacher preparation program that is identified as low-performing by a State based on the State's assessment of teacher preparation program performance under § 612.4.

New teacher: A recent graduate or alternative route participant who, within the last three title II reporting years, as defined in the report cards pursuant to §§ 612.3 and 612.4, has received a level of certification or licensure that allows him or her to serve in the State as a teacher of record for K-12 students and, at a State's discretion, preschool students.

Quality clinical preparation: Training that integrates content, pedagogy, and professional coursework around a core of pre-service clinical experiences. Such training must, at a minimum—

(i) Be provided, at least in part, by qualified clinical instructors, including school and LEA-based personnel, who meet established qualification requirements and who use a training standard that is made publicly available;

(ii) Include multiple clinical or field experiences, or both, that serve diverse, rural, or underrepresented student populations in elementary through secondary school, including English language learners and students with disabilities, and that are assessed using a performance-based protocol to demonstrate teacher candidate mastery of content and pedagogy; and

(iii) Require that teacher candidates use research-based practices, including observation and analysis of instruction, collaboration with peers, and effective use of technology for instructional purposes.

Recent graduate: An individual whom a teacher preparation program has documented as having met all the requirements of the program within the last three title II reporting years, as defined in the report cards prepared under §§ 612.3 and 612.4. Documentation may take the form of a degree, institutional certificate, program credential, transcript, or other written proof of having met the program's requirements. In applying this definition, whether an individual has or has not been hired as a full-time teacher or been recommended to the State for initial certification or licensure may not be used as a criterion for determining if the individual is a recent graduate.

Rigorous teacher candidate entry and exit qualifications: Qualifications of a teacher candidate established by a teacher preparation program prior to the candidate's completion of the program using, at a minimum, rigorous entrance requirements based on multiple measures, and rigorous exit criteria based on an assessment of candidate performance that relies on validated professional teaching standards and measures of the candidate's effectiveness that include, at a minimum, measures of curriculum planning, instruction of students, appropriate plans and modifications for all students, and assessment of student learning.

Student achievement in non-tested grades and subjects:

For purposes of determining student growth in grades and subjects in which assessments are not required under section 1111(b)(3) of the Elementary and Secondary Education Act of 1965, as amended (ESEA), measures of student learning and performance, such as student results on pre-tests and end-of-course tests; objective performance-based assessments; student learning objectives; student performance on English language proficiency assessments; and other measures of student achievement that are rigorous, comparable across schools, and consistent with State guidelines.

Student achievement in tested grades and subjects: For purposes of determining student growth for grades and subjects in which assessments are required under section 1111(b)(3) of the ESEA—

(i) A student's score on the State's assessments under section 1111(b)(3) of the ESEA and, as appropriate;

(ii) Other measures of student learning, such as those described in the definition of Student achievement in non-tested grades and subjects, provided that the measures are rigorous, comparable across schools, and consistent with State guidelines.

Student growth: For an individual student, the change in student achievement in tested grades and subjects and the change in student achievement in non-tested grades and subjects between two or more points in time.

Student learning outcomes: For each teacher preparation program in a State, data on the aggregate learning outcomes of students taught by new teachers. These data are calculated by the State using a student growth measure, a teacher evaluation measure, or both.

Survey outcomes: Qualitative and quantitative data collected through survey instruments, including, but not limited to, a teacher survey and an employer survey, designed to capture perceptions of whether new teachers who are employed as teachers in their first year teaching in the State where the teacher preparation program is located possess the skills needed to succeed in the classroom.

Teacher evaluation measure: By grade span and subject area and consistent with statewide guidelines, the percentage of new teachers rated at each performance level under an LEA teacher evaluation system that differentiates teachers on a regular basis using at least three performance levels and multiple valid measures in determining each teacher's performance level. For purposes of this definition, multiple valid measures of performance levels must include, as a significant factor, data on student growth for all students (including English language learners and students with disabilities), and other measures of professional practice (such as observations based on rigorous teacher performance standards or other measures which may be gathered through multiple formats and sources such as teacher portfolios and student and parent surveys).

Teacher placement rate: (i) Calculated annually and pursuant to § 612.5(a), the combined non-duplicated percentage of new teachers and recent graduates who have been hired in a full-time teaching position for the grade level, span, and subject area in which the teachers and recent graduates were prepared.

(ii) At the State's discretion, the rate calculated under paragraph (i) of this definition may exclude one or more of the following, provided that the State uses a consistent approach to assess and report on all of the teacher preparation programs in the State:

(A) New teachers or recent graduates who have taken teaching positions in another State.

(B) New teachers or recent graduates who have taken teaching positions in private schools.

(C) New teachers or recent graduates who have taken teaching positions that do not require State certification.

(D) New teachers or recent graduates who have enrolled in graduate school or entered military service.

Teacher preparation entity: An institution of higher education or other organization that is authorized by the State to prepare teachers.

Teacher preparation program: A program, whether traditional or alternative route, offered by a teacher preparation entity that leads to a specific State teacher certification or licensure in a specific field.

Teacher retention rate: (i) Calculated annually and pursuant to § 612.5(a), any of the following rates, as determined by the State provided that the State uses a consistent approach to assess and report on all of the teacher preparation programs in the State:

(A) The percentage of new teachers who have been hired in full-time teaching positions and served for periods of at least three consecutive school years within five years of being granted a level of certification that allows them to serve as teachers of record.

(B) The percentage of new teachers who have been hired in full-time teaching positions and reached a level of tenure or other equivalent measure of retention within five years of being granted a level of certification that allows them to serve as teachers of record.

(C) One hundred percent less the percentage of new teachers who have been hired in full-time teaching positions and whose employment was not continued by their employer for reasons other than budgetary constraints within five years of being granted a level of certification or licensure that allows them to serve as teachers of record.

(ii) At the State's discretion, the rates calculated under this definition may exclude one or more of the following, provided that the State uses a consistent approach to assess and report on all teacher preparation programs in the State:

(A) New teachers who have taken teaching positions in other States.

(B) New teachers who have taken teaching positions in private schools.

(C) New teachers who are not retained due to particular market conditions or circumstances particular to the LEA beyond the control of teachers or schools.

(D) New teachers who have enrolled in graduate school or entered military service.

Teacher survey: A survey of new teachers serving in full-time teaching positions for the grade level, span, and subject area in which the teachers were prepared that is designed to capture their perceptions of whether the preparation that they received from their teacher preparation programs was effective.

(Authority: 20 U.S.C. 1022d)

Subpart B—Reporting Requirements

§ 612.3 What are the regulatory reporting requirements for the Institutional Report Card?

Beginning on October 1, 2017, and annually thereafter, each institution of higher education that conducts traditional teacher preparation programs or alternative routes to State certification or licensure programs, and that enrolls students receiving title IV HEA program funds—

(a) Must report to the State on the quality of teacher preparation and other information consistent with section 205(a) of the HEA, using an institutional report card that is prescribed by the Secretary;

(b) Must prominently and promptly post the institutional report card information on the institution's Web site and, if applicable, on the teacher preparation program portion of the institution's Web site; and

(c) May also provide the institutional report card information to the general public in promotional or other materials it makes available to prospective students or other individuals.

(Authority: 20 U.S.C. 1022d)

§ 612.4 What are the regulatory reporting requirements for the State Report Card?

(a) General. Beginning on April 1, 2018, and annually thereafter, each State must—

(1) Report to the Secretary, using a State report card that is prescribed by the Secretary, on—

(i) The quality of all approved teacher preparation programs in the State (both traditional teacher preparation programs and alternative routes to State certification or licensure programs), including distance education programs, whether or not they enroll students receiving Federal assistance under the HEA; and

(ii) All other information consistent with section 205(b) of the HEA; and

(2) Make the State report card information widely available to the general public by posting the State report card information on the State's Web site.

(b) Reporting of information on teacher preparation program performance. In the State report card, beginning in April 2019 and annually thereafter, the State—

(1) Must make meaningful differentiations in teacher preparation program performance using at least four performance levels—low-performing teacher preparation program, at-risk teacher preparation program, effective teacher preparation program, and exceptional teacher preparation program—based on the indicators in § 612.5 including, in significant part, employment outcomes for high-need schools and student learning outcomes;

(2) May identify the performance level for a teacher preparation program as effective or higher quality only if it has satisfactory or higher student learning outcomes;

(3) Must provide—

(i) For each teacher preparation program—

(A) Disaggregated data for each of the indicators identified pursuant to § 612.5; and

(B) The State's assurance that the teacher preparation program either is accredited by a specialized agency pursuant to § 612.5(a)(4)(i), or produces teacher candidates with content and pedagogical knowledge and quality clinical preparation who have met rigorous teacher candidate entry and exit qualifications pursuant to § 612.5(a)(4)(ii);

(ii) The State's weighting of the different indicators in § 612.5 for purposes of describing the State's assessment of program performance; and

(iii) The State-level rewards or consequences associated with the designated performance levels;

(4) In implementing paragraph (b)(1) through (3) of this section, except as provided in paragraphs (b)(4)(ii)(D) and (E) of this section, must ensure the performance of all of the State's teacher preparation programs are represented in the State report card by—

(i) Annually reporting on the performance of each teacher preparation program that produces a total of 25 or more new teachers in a given reporting year (program size threshold), or, at a State's discretion, annually reporting on the performance of each teacher preparation program that produces fewer than 25 or more new teachers (lower program size threshold—e.g., 15 or 20)—in a given reporting year; and

(ii) For any teacher preparation program that produces fewer than a program size threshold of 25 new teachers in a given reporting year (or for a State that chooses to use a lower program size threshold, for any teacher preparation program that produces fewer new teachers than the lower program size threshold), annually reporting on the program's performance by aggregating data under paragraph (b)(4)(ii)(A), (B), or (C) of this section in order to meet the program size threshold (or for a State that chooses a lower program size threshold, in order to meet the lower program size threshold) except as provided in paragraph (b)(4)(ii)(D) or (E) of this section.

(A) The State may report on the program's performance by aggregating data that determine the program's performance with data for other teacher preparation programs that are operated by the same teacher preparation entity and are similar to or broader than the program in content.

(B) The State may report on the program's performance by aggregating data that determine the program's performance over multiple years for up to four years until the size threshold is met.

(C) If a State cannot meet the program size threshold (or for a State that chooses a lower program size threshold, if the State cannot meet the lower program size threshold) by aggregating data under paragraph (b)(4)(ii)(A) or (B) of this section, it may aggregate data using a combination of the methods under both of these paragraphs.

(D) The State is not required under this paragraph (b)(4)(ii) to report data on a particular teacher preparation program for a given reporting year if aggregation under this paragraph (b)(4)(ii) would not yield the program size threshold (or for a State that chooses a lower program size threshold, would not yield to the lower program size threshold) for that program.

(E) The State also is not required under this paragraph (b)(4)(ii) to report data on a particular teacher preparation program if reporting these data would be inconsistent with Federal or State privacy and confidentiality laws and regulations; and

(5) Must report on the procedures established by the State in consultation with a group of stakeholders, as described in paragraph (c)(1) of this section, and the State's examination of its data collection and reporting, as described in paragraph (c)(2) of this section, in the State report card submitted—

(i) On April 1, 2018, and every four years thereafter; and

(ii) At any other time that the State makes substantive changes to the weighting of the indicators or the procedures for assessing and reporting the performance of each teacher preparation program in the State described in paragraph (c) of this section.

(c) Fair and equitable methods—(1) Consultation. Each State must establish in consultation with a representative group of stakeholders the procedures for assessing and reporting the performance of each teacher preparation program in the State under this section.

(i) The representative group of stakeholders must include, at a minimum, representatives of leaders and faculty of traditional teacher preparation programs and alternative routes to State certification or licensure programs; students of teacher preparation programs; superintendents; school board members; elementary through secondary school leaders and instructional staff; elementary through secondary school students and their parents; IHEs that serve high proportions of low-income or minority students, or English language learners; advocates for English language learners and students with disabilities; and officials of the State's standards board or other appropriate standards body.

(ii) The procedures for assessing and reporting the performance of each teacher preparation program in the State under this section must, at minimum, include—

(A) The weighting of the indicators identified in § 612.5 for establishing performance levels of teacher preparation programs as required by this section;

(B) The aggregation of data pursuant to paragraph (b)(4)(ii) of this section;

(C) State-level rewards or consequences associated with the designated performance levels; and

(D) Appropriate opportunities for programs to challenge the accuracy of their performance data and classification of the program.

(2) State examination of data collection and reporting. Each State must periodically examine the quality of the data collection and reporting activities it conducts pursuant to paragraph (b) of this section and § 612.5, and, as appropriate, modify its data collection and reporting activities using the procedures described in this paragraph.

(d) Inapplicability to certain insular areas. Paragraphs (b) and (c) of this section do not apply to American Samoa, the Commonwealth of the Northern Mariana Islands, the freely associated States of the Republic of the Marshall Islands, the Federated States of Micronesia, the Republic of Palau, Guam, and the United States Virgin Islands.

(Authority: 20 U.S.C. 1022d)

§ 612.5 What indicators must a State use to report on teacher preparation program performance for purposes of the State report card?

(a) For purposes of reporting under § 612.4, a State must assess, for each teacher preparation program within its jurisdiction, indicators of academic content knowledge and teaching skills of new teachers from that program. These indicators of academic content knowledge and teaching skills must include, at a minimum—

(1) Student learning outcomes.

(2) Employment outcomes. For purposes of assessing employment outcomes, a State may, in its discretion, assess traditional and alternative route teacher preparation programs differently based on whether there are differences in the programs that affect employment outcomes, provided that the varied assessments result in equivalent levels of accountability and reporting;

(3) Survey outcomes; and

(4) Whether the program—

(i) Is accredited by a specialized accrediting agency recognized by the Secretary for accreditation of professional teacher education programs; or

(ii) Consistent with § 612.4(b)(3)(i)(B)—

(A) Produces teacher candidates with content and pedagogical knowledge;

(B) Produces teacher candidates with quality clinical preparation; and

(C) Produces teacher candidates who have met rigorous teacher candidate entry and exit qualifications.

(b) At a State's discretion, the indicators of academic content knowledge and teaching skills may include other indicators predictive of a teacher's effect on student performance, such as student survey results, provided that the State uses the same indicators for all teacher preparation programs in the State.

(c) This section does not apply to American Samoa, the Commonwealth of the Northern Mariana Islands, the freely associated states of the Republic of the Marshall Islands, the Federated States of Micronesia, the Republic of Palau, Guam, and the United States Virgin Islands.

(Authority: 20 U.S.C. 1022d)

§ 612.6 What must a State consider in identifying low-performing teacher preparation programs or at-risk teacher preparation programs, and what regulatory actions must a State take with respect to those programs identified as low-performing?

(a)(1) In identifying low-performing or at-risk teacher preparation programs the State must use criteria that, at a minimum, include the indicators of academic content knowledge and teaching skills from § 612.5, including in significant part, student learning outcomes; and

(2) Paragraph (a)(1) of this section does not apply to American Samoa, the Commonwealth of the Northern Mariana Islands, the freely associated states of the Republic of the Marshall Islands, the Federated States of Micronesia, the Republic of Palau, Guam, and the United States Virgin Islands.

(b) At a minimum, a State must provide technical assistance to low-performing teacher preparation programs in the State to help them improve their performance in accordance with section 207(a) of the HEA. Technical assistance may include, but is not limited to: providing programs with information on the specific indicators used to determine the program's rating (e.g., specific areas of weakness in student learning, job placement and retention, and new teacher and employer satisfaction); assisting programs to address the rigor of their entry and exit criteria; helping programs identify specific areas of curriculum or clinical experiences that correlate with gaps in graduates' preparation; helping identify potential research and other resources to assist program improvement (e.g., evidence of other successful interventions, other university faculty, other teacher preparation programs, nonprofits with expertise in educator preparation and teacher effectiveness improvement, accrediting organizations, or higher education associations); and sharing best practices from exemplary programs.

(Authority: 20 U.S.C. 1022d and 1022f)

Subpart C—Consequences of Withdrawal of State Approval or Financial Support

§ 612.7 What are the consequences for a low-performing teacher preparation program that loses the State's approval or the State's financial support?

(a) Any teacher preparation program for which the State has withdrawn the State's approval or the State has terminated the State's financial support due to the State's identification of the program as a low-performing teacher preparation program—

(1) Is ineligible for any funding for professional development activities awarded by the Department as of the date that the State withdrew its approval or terminated its financial support;

(2) May not include any candidate accepted into the teacher preparation program or any candidate enrolled in the teacher preparation program who receives aid under title IV, HEA programs in the institution's teacher preparation program as of the date that the State withdrew its approval or terminated its financial support; and

(3) Must provide transitional support, including remedial services, if necessary, to students enrolled at the institution at the time of termination of financial support or withdrawal of approval for a period of time that is not less than the period of time a student continues in the program but no more than 150 percent of the published program length.

(b) Any institution administering a teacher preparation program that has lost State approval or financial support based on being identified as a low-performing teacher preparation program must—

(1) Notify the Secretary of its loss of the State's approval or the State's financial support due to identification as low-performing by the State within 30 days of such designation;

(2) Immediately notify each student who is enrolled in or accepted into the low-performing teacher preparation program and who receives title IV, HEA program funds that, commencing with the next payment period, the institution is no longer eligible to provide such funding to students enrolled in or accepted into the low-performing teacher preparation program; and

(3) Disclose on its Web site and in promotional materials that it makes available to prospective students that the teacher preparation program has been identified as a low-performing teacher preparation program by the State and has lost the State's approval or the State's financial support, and that students accepted or enrolled in the low-performing teacher preparation program may not receive title IV, HEA program funds.

(Authority: 20 U.S.C. 1022f)

§ 612.8 How does a low-performing teacher preparation program regain eligibility to accept or enroll students receiving Title IV, HEA program funds after loss of the State's approval or the State's financial support?

(a) A low-performing teacher preparation program that has lost the State's approval or the State's financial support may regain its ability to accept and enroll students who receive title IV, HEA program funds upon demonstration to the Secretary under paragraph (b) of this section of—

(1) Improved performance on the teacher preparation program performance criteria in § 612.5 as determined by the State; and

(2) Reinstatement of the State's approval or the State's financial support, or, if both were lost, the State's approval and the State's financial support.

(b)(1) To regain eligibility to accept or enroll students receiving title IV, HEA funds in a teacher preparation program that was previously identified by the State as low-performing and that lost the State's approval or the State's financial support, the institution that offers the teacher preparation program must submit an application to the Secretary along with supporting documentation that will enable the Secretary to determine that the teacher preparation program previously identified by the State as low-performing has met the requirements under paragraph (a) of this section.

(2) The Secretary evaluates an institution's application to participate in the title IV, HEA programs consistent with 34 CFR 600.20 and determines if the institution is eligible to participate in these programs. In the event that an institution is not granted eligibility to participate in the title IV, HEA programs, that institution may submit additional evidence to demonstrate to the satisfaction of the Secretary that it is eligible to participate in these programs.

(Authority: 20 U.S.C. 1022f)

PART 686—TEACHER EDUCATION ASSISTANCE FOR COLLEGE AND HIGHER EDUCATION (TEACH) GRANT PROGRAM

2. The authority citation for part 686 continues to read as follows:

Authority: 20 U.S.C. 1070g, et seq., unless otherwise noted.

3. Section 686.2 is amended by:

A. Redesignating paragraph (d) as paragraph (e).

B. Adding a new paragraph (d).

C. In newly redesignated paragraph (e):

i. Redesignating paragraphs (1) and (2) in the definition of “Academic year or its equivalent for elementary and secondary schools (elementary or secondary academic year)” as paragraphs (i) and (ii);

ii. Adding in alphabetical order definitions of “Classification of Instructional Programs” and “Educational Service Agency”;

iii. Redesignating paragraphs (1) through (7) in the definition of “High-need field” as paragraphs (i) through (vii), respectively;

iv. Adding in alphabetical order a definition of “High-quality teacher preparation program”;

v. Redesignating paragraphs (1) through (3) in the definition of “Institutional Student Information Record (ISIR)” as paragraphs (i) through (iii), respectively;

vi. Redesignating paragraphs (1) and (2) as paragraphs (i) and (ii) and paragraphs (2)(i) and (ii) as paragraphs (ii)(A) and (B), respectively, in the definition of “Numeric equivalent”;

vii. Redesignating paragraphs (1) through (3) in the definition of “Post-baccalaureate program” as paragraphs (i) through (iii), respectively;

viii. Adding in alphabetical order a definition for “School or educational service agency serving low-income students (low-income school)”;

ix. Removing the definition of “School serving low-income students (low-income school)”;

x. Revising the definitions of “TEACH Grant-eligible institution” and “TEACH Grant-eligible program”;

xi. Adding in alphabetical order a definition of “TEACH Grant-eligible science, technology, engineering, or mathematics (STEM) program”; and

xii. Revising the definition of “Teacher preparation program”.

The additions and revisions read as follows:

§ 686.2 Definitions.

* * * * *

(d) Definitions for the following terms used in this part are in Title II Reporting System, 34 CFR part 612:

Effective Teacher Preparation Program

(e) Other terms used in this part are defined as follows:

* * * * *

Classification of instructional programs (CIP): A taxonomy of instructional program classifications and descriptions developed by the U.S. Department of Education's National Center for Education Statistics.

Educational service agency: A regional public multiservice agency authorized by State statute to develop, manage, and provide services or programs to LEAs, as defined in section 9101 of the Elementary and Secondary Education Act of l965, as amended.

* * * * *

High-quality teacher preparation program: A teacher preparation program that—

(i) For TEACH Grant program purposes in the 2020-2021 Title IV HEA award year, is classified by the State as effective or of higher quality under 34 CFR 612.4(b)in either or both the April 2019 and/or April 2020 State Report Cards and for TEACH Grant program purposes in the 2021-2022 Title IV HEA award year and subsequent award years, classified by the State as effective or of higher quality under 34 CFR 612.4(b), beginning with the April 2019 State Report Card, for two out of the previous three years;

(ii) Meets the exception from State reporting of teacher preparation program performance under 34 CFR 612.4(b)(4)(ii)(D) or (E); or

(iii) Is a TEACH Grant-eligible science, technology, engineering, or mathematics (STEM) program at a TEACH Grant-eligible institution.

* * * * *

School or educational service agency serving low-income students (low-income school): An elementary or secondary school or educational service agency that—

(i) Is located within the area served by the LEA that is eligible for assistance pursuant to title I of the ESEA;

(ii) Has been determined by the Secretary to be a school or educational service agency in which more than 30 percent of the school's or educational service agency's total enrollment is made up of children who qualify for services provided under title I of the ESEA; and

(iii) Is listed in the Department's Annual Directory of Designated Low-Income Schools for Teacher Cancellation Benefits. The Secretary considers all elementary and secondary schools and educational service agencies operated by the Bureau of Indian Education (BIE) in the Department of the Interior or operated on Indian reservations by Indian tribal groups under contract or grant with the BIE to qualify as schools or educational service agencies serving low-income students.

* * * * *

TEACH Grant-eligible institution: An eligible institution as defined in 34 CFR part 600 that meets financial responsibility standards established in 34 CFR part 668, subpart L, or that qualifies under an alternative standard in 34 CFR 668.175 and—

(i) Provides at least one high-quality teacher preparation program at the baccalaureate or master's degree level that also provides supervision and support services to teachers, or assists in the provision of services to teachers, such as—

(A) Identifying and making available information on effective teaching skills or strategies;

(B) Identifying and making available information on effective practices in the supervision and coaching of novice teachers; and

(C) Mentoring focused on developing effective teaching skills and strategies;

(ii) Provides a two-year program that is acceptable for full credit in a TEACH Grant-eligible program or a TEACH Grant-eligible STEM program offered by an institution described in paragraph (i) of this definition or a TEACH Grant-eligible STEM program offered by an institution described in paragraph (iii) of this definition, as demonstrated by the institution that provides the two year program;

(iii) Provides a TEACH Grant-eligible STEM program and has entered into an agreement with an institution described in paragraph (i) or (iv) of this definition to provide courses necessary for its students to begin a career in teaching; or

(iv) Provides a high-quality teacher preparation program that is a post-baccalaureate program of study.

TEACH Grant-eligible program: An eligible program, as defined in 34 CFR 668.8, that meets paragraph (i) of the definition of “high-quality teacher preparation program” and that is designed to prepare an individual to teach as a highly-qualified teacher in a high-need field and leads to a baccalaureate or master's degree, or is a post-baccalaureate program of study. A two-year program of study that is acceptable for full credit toward a baccalaureate degree in a high-quality teacher preparation program is considered to be a program of study that leads to a baccalaureate degree.

TEACH Grant-eligible science, technology, engineering, or mathematics (STEM) program: An eligible program, as defined in 34 CFR 668.8, in one of the physical, life, or computer sciences; technology; engineering; or mathematics as identified by the Secretary, that, over the most recent three years for which data are available, has not been identified by the Secretary as having fewer than 60 percent of its TEACH Grant recipients completing at least one year of teaching that fulfills the service obligation pursuant to § 686.40 within three years of completing the program. Each year, the Secretary will publish a list of STEM programs eligible to participate in the TEACH Grant program and will identify each eligible STEM program by its classification of instructional program (CIP) code.

* * * * *

Teacher preparation program: A State-approved course of study, the completion of which signifies that an enrollee has met all of the State's educational or training requirements for initial certification or licensure to teach in the State's elementary or secondary schools. A teacher preparation program may be a traditional program or an alternative route to certification or licensure, as defined by the State. For purposes of a TEACH Grant, the program must be provided by an institution of higher education.

* * * * *

4. Section 686.3 is amended by:

A. In paragraph (a), adding the words “or a TEACH Grant-eligible STEM program” after the words “TEACH Grant-eligible program”; and

B. Adding paragraph (c).

The addition reads as follows:

§ 686.3 Duration of student eligibility.

* * * * *

(c) An otherwise eligible student who received a TEACH Grant for enrollment in a TEACH Grant-eligible program or TEACH Grant-eligible STEM program is eligible to receive additional TEACH Grants to complete that program, even if that program is no longer considered a TEACH Grant-eligible program or a TEACH Grant-eligible STEM program, not to exceed four Scheduled Awards for an undergraduate or post-baccalaureate student and up to two Scheduled Awards for a graduate student. An otherwise eligible student who received a TEACH Grant for enrollment in a program before July 1 of the year these proposed regulations become effective would remain eligible to receive additional TEACH Grants to complete that program even if the program the student enrolled in is not a TEACH Grant-eligible program under proposed § 686.2(e).

* * * * *

§ 686.4 [Amended]

5. Section 686.4(a) is amended by adding the words “or TEACH Grant-eligible STEM programs” after the words “TEACH Grant-eligible programs”.

§ 686.5 [Amended]

6. Section 686.5(b)(1) is amended by adding the words “or TEACH Grant-eligible STEM program” after the words “TEACH Grant-eligible program”.

7. Section 686.11 is amended by:

A. Revising paragraph (a)(1)(iii).

B. In paragraph (b)(3), adding the words “or a TEACH Grant-eligible STEM program” after the words “TEACH Grant-eligible program”.

C. Adding paragraph (d).

The revision and addition read as follows:

§ 686.11 Eligibility to receive a grant.

(a) * * *

(1) * * *

(iii) Is enrolled in a TEACH Grant-eligible institution in a TEACH Grant-eligible program or a TEACH Grant-eligible STEM program; or is an otherwise eligible student who received a TEACH Grant and who is completing a program under § 686.3(c);

* * * * *

(d) Students who received a total and permanent disability discharge on a TEACH Grant agreement to serve or a title IV, HEA loan. If a student's previous TEACH Grant service obligation or title IV, HEA loan was discharged based on total and permanent disability, the student is eligible to receive a TEACH Grant if the student—

(1) Obtains a certification from a physician that the student is able to engage in substantial gainful activity as defined in 34 CFR 685.102(b);

(2) Signs a statement acknowledging that neither the new service obligation for the TEACH Grant the student receives nor any previously discharged service agreement on which the grant recipient is required to resume repayment in accordance with paragraph (d)(3) of this section can be discharged in the future on the basis of any impairment present when the new grant is awarded, unless that impairment substantially deteriorates and the grant recipient applies for and meets the eligibility requirements for a discharge in accordance with 34 CFR 685.213; and

(3) For a situation in which the student receives a new TEACH Grant within three years of the date that any previous TEACH Grant service obligation or title IV loan was discharged due to a total and permanent disability in accordance with § 686.42(b), 34 CFR 685.213(b)(7)(i)(B), 34 CFR 674.61(b)(6)(i)(B), or 34 CFR 682.402(c)(6)(i)(B), acknowledges that he or she is once again subject to the terms of the previously discharged TEACH Grant agreement to serve in accordance with § 686.42(b)(5) before receiving the new grant or resumes repayment on the previously discharged loan in accordance with 34 CFR 685.213(b)(7), 674.61(b)(6), or 682.402(c)(6).

* * * * *

8. Section 686.12 is amended by:

A. In paragraph (b) introductory text, adding the words “or TEACH Grant-eligible STEM program” after the words “TEACH Grant-eligible program”;

B. In paragraph (b)(1)(i), adding the words “or a low-income educational service agency” after the word “school”;

C. In paragraph (b)(2), adding the words “or educational service agency” after the word “school”;

D. In paragraph (c)(1), adding the words “or the TEACH Grant-eligible STEM program” after the words “TEACH Grant-eligible program”; and

E. Revising paragraph (d).

The revision reads as follows:

§ 686.12 Agreement to serve.

* * * * *

(d) Majoring and serving in a high-need field. In order for a grant recipient's teaching service in a high-need field listed in the Nationwide List to count toward satisfying the recipient's service obligation, the high-need field in which he or she prepared to teach must be listed in the Nationwide List for the State in which the grant recipient begins teaching in that field—

(1) At the time the grant recipient begins teaching in that field, even if that field subsequently loses its high-need designation for that State; or

(2) For teaching service performed on or after July 1, 2010, at the time the grant recipient begins teaching in that field or when the grant recipient signed the agreement to serve or received the TEACH Grant, even if that field subsequently loses its high-need designation for that State before the grant recipient.

* * * * *

§ 686.31 [Amended]

9. Section 686.31 is amended by:

A. In paragraph (a)(4), adding the words “or a TEACH Grant-eligible STEM program” after the words “TEACH Grant-eligible program”; and

B. In paragraph (b)(2), adding the words “or a TEACH Grant-eligible STEM program” after the words “TEACH Grant-eligible program”.

§ 686.32 [Amended]

10. Section 686.32 is amended by:

A. In paragraph (a)(3)(ii), adding the words “and low-income educational service agencies” after the word “schools”;

B. In paragraph (a)(3)(iii)(B), adding the words “or received the TEACH Grant” after the words “that field”;

C. In paragraph (c)(2), adding the words “or the TEACH Grant-eligible STEM program” after the words “TEACH Grant-eligible program”;

D. In paragraph (c)(3), adding the words “or a TEACH Grant-eligible STEM program” after the words “TEACH Grant-eligible program”;

E. In paragraph (c)(4)(i), adding the words “or a TEACH Grant-eligible STEM program” after the words “TEACH Grant-eligible program”;

F. In paragraph (c)(4)(iii), adding the words “and low-income educational service agencies” after the word “schools”;

G. In paragraph (c)(4)(iv)(B), adding the words “or when the grant recipient signed the agreement to serve or received the TEACH Grant” after the words “that field”; and

H. In paragraph (c)(4)(v), adding the words “or for a low-income educational service agency” after the words “low-income school”.

§ 686.35 [Amended]

11. Section 686.35 is amended by:

A. In paragraph (a)(2)(i), adding the words “or the TEACH Grant-eligible STEM program” after the words “TEACH Grant-eligible program”; and

B. In paragraph (b), adding the words “or the TEACH Grant-eligible STEM program” after the words “TEACH Grant-eligible program”.

§ 686.37 [Amended]

12. Section 686.37(a)(1) is amended by removing the citation “§§ 686.11” and adding in its place the citation “§§ 686.3(c), 686.11,”.

13. Section 686.40 is amended by revising paragraphs (b) and (f) to read as follows:

§ 686.40 Documenting the service obligation.

* * * * *

(b) If a grant recipient is performing full-time teaching service in accordance with the agreement to serve, or agreements to serve if more than one agreement exists, the grant recipient must, upon completion of each of the four required elementary or secondary academic years of teaching service, provide to the Secretary documentation of that teaching service on a form approved by the Secretary and certified by the chief administrative officer of the school or educational service agency in which the grant recipient is teaching. The documentation must show that the grant recipient is teaching in a low-income school or low-income educational service agency. If the school or educational service agency at which the grant recipient is employed meets the requirements of a low-income school or low-income educational service agency in the first year of the grant recipient's four elementary or secondary academic years of teaching and the school or educational service agency fails to meet those requirements in subsequent years, those subsequent years of teaching qualify for purposes of this section for that recipient.

* * * * *

(f) A grant recipient who taught in more than one qualifying school or more than one qualifying educational service agency during an elementary or secondary academic year and demonstrates that the combined teaching service was the equivalent of full-time, as supported by the certification of one or more of the chief administrative officers of the schools or educational service agencies involved, is considered to have completed one elementary or secondary academic year of qualifying teaching.

* * * * *

§ 686.41 [Amended]

14. In § 686.41, paragraph (a)(1) introductory text is amended by adding the words “or a TEACH Grant-eligible STEM program” after the words “TEACH Grant-eligible program”.

15. Section 686.42 is amended by:

A. Revising paragraph (b); and

B. In paragraph (c)(1), adding the words “or a TEACH Grant-eligible STEM program” after the words “TEACH Grant-eligible program”.

The revision reads as follows:

§ 686.42 Discharge of agreement to serve.

* * * * *

(b) Total and permanent disability. (1) A grant recipient's agreement to serve is discharged if the recipient becomes totally and permanently disabled, as defined in 34 CFR 682.200(b), and the grant recipient applies for and satisfies the eligibility requirements for a total and permanent disability discharge in accordance with 34 CFR 685.213.

(2) If at any time the Secretary determines that the grant recipient does not meet the requirements of the three-year period following the discharge in 34 CFR 685.213(b)(7), the Secretary will notify the grant recipient that the grant recipient's obligation to satisfy the terms of the agreement to serve is reinstated.

(3) The Secretary's notification under paragraph (b)(2) of this section will—

(i) Include the reason or reasons for reinstatement;

(ii) Provide information on how the grant recipient may contact the Secretary if the grant recipient has questions about the reinstatement or believes that the agreement to serve was reinstated based on incorrect information;

(iii) Inform the grant recipient that interest accrual will resume on TEACH Grant disbursements made prior to the date of the discharge; and

(iv) Inform the TEACH Grant recipient that he or she must satisfy the service obligation within the portion of the eight-year period that remained after the date of the discharge.

* * * * *

16. Section 686.43 is amended by:

A. Revising paragraph (a)(1);

B. In paragraphs (a)(2) and (a)(3) introductory text, adding the words “or the TEACH Grant-eligible STEM program” after the words “TEACH Grant-eligible program”;

C. In paragraph (a)(3)(ii), adding the words “or a TEACH Grant-eligible STEM program” after the words “TEACH Grant-eligible program”; and

D. In paragraph (a)(5), adding the words “or the TEACH Grant-eligible STEM program” after the words “TEACH Grant-eligible program”.

The revision reads as follows:

§ 686.43 Obligation to repay the grant.

(a) * * *

(1) The grant recipient, regardless of enrollment status, requests that the TEACH Grant be converted into a Federal Direct Unsubsidized Loan because he or she has decided not to teach in a qualified school or educational service agency, or not to teach in a high-need field, or for any other reason;

* * * * *

[FR Doc. 2014-28218 Filed 12-2-14; 8:45 am]

BILLING CODE 4000-01-P